SOCIAL SECURITY ADMINISTRATION

Privacy Act of 1974, as Amended; New and Revised Privacy Act Systems of Records and Deletion of Obsolete Systems of Records

AGENCY: Social Security Administration (SSA).

ACTION: New and altered systems of records, new routine uses, deletion of obsolete systems of records, revisions, and general housekeeping changes to system of records.

SUMMARY: In accordance with 5 U.S.C. 552a(e)(4) and (e)(11), we are issuing public notice of our intent to:

(a) Establish new and altered systems of records,

(b) Establish new routine use disclosures,

(c) Delete obsolete systems of records, and

(d) Make general housekeeping and editorial changes to SSA systems of records.

We invite public comment on these proposals.

DATES: We filed a report of the proposed new and altered systems of records and new routine uses with the Chairman of the Senate Committee on Homeland Security and Governmental Affairs, the Chairman of the House Committee on Government Reform, and the Director, Office of Information and Regulatory Affairs, Office of Management and Budget (OMB) on December 23, 2005. The proposed new and altered systems of records and routine uses will become effective on February 1, 2006, unless we receive comments warranting them not to become effective.

ADDRESSES: Interested individuals may comment on this publication by writing to the Executive Director, Office of Public Disclosure, Social Security Administration, 3-A-6 Operations Building, 6401 Security Boulevard, Baltimore, Maryland 21235-6401. All comments received will be available for public inspection at the above address.

FOR FURTHER INFORMATION CONTACT: Mr. Willie J. Polk, Lead Social Insurance Specialist, Strategic Issues Team, Office of Public Disclosure, Office of the General Counsel, Social Security Administration, 3-A-2 Operations Building, 6401 Security Boulevard, Baltimore, Maryland 21235, telephone (410) 965-1753; e-mail: willie.j.polk@ssa.gov.

SUPPLEMENTARY INFORMATION:

I. Proposed New Systems of Records

A. Systems of Records Adopted From the Department of Health and Human Services (HHS)

Under provisions of the Social Security Independence and Program Improvements Act of 1994 (Pub. L. 103-296), the Social Security Administration (SSA) became a separate Agency independent of HHS in 1995. Prior to becoming independent of HHS, SSA operated under a number of Privacy Act systems of records that applied HHS-wide to all HHS components, including SSA. Pursuant to section 106(b) of the legislation, we have continued to operate under those systems of records to date. However, because we have acquired the functions that were covered by some of the HHS systems of records, we have adopted these systems of records as our own. We have made conforming changes to the systems of records to identify them as new SSA systems of records. These notices of systems of records are:

1. Safety Management Information System (SSA Accident Injury and Illness Reporting System), 60-0228 (formerly 09-90-0005, Safety Management Information System (HHS) Accident Injury and Illness Reporting System)

2. SSA Parking Management Record System, 60-0230 (formerly 09-90-0023, Departmental Parking Control Policy and Records System)

3. Financial Transactions of SSA Accounting and Finance Offices, 60-0231 (formerly 09-90-0024, Financial Transactions of HHS Accounting and Finance Offices)

4. Central Registry of Individuals Doing Business with SSA (Vendor File), 60-0232 (formerly 09-90-0025, Central Registry of Individuals Doing Business with HHS (Vendor File))

5. Employee Assistance Program (EAP) Records, 60-0234 (formerly 09-90-0010)

6. Employee Development Program Records, 60-0236 (formerly 09-90-0012, Executive Development Records)

7. Employees' Medical Records, 60-0237 (formerly 09-90-0013, Federal Employee's Occupational Health Program Records)

8. Pay, Leave and Attendance Records, 60-0238 (formerly 09-90-0017, Pay, Leave and Attendance Records)

9. Personnel Records in Operating Offices, 60-0239 (formerly 09-90-0018 Personnel Records in Operating Offices)

10. Employee Suggestion Program Records, 60-0241 (formerly 09-90-0036)

11. Administrative Grievances Filed Under Part 771 of 5 CFR, 60-0244 (formerly 09-90-0014, Grievances filed under part 771 of 5 CFR)

12. Negotiated Grievance Procedures, 60-0245 (formerly 09-90-0015, Grievance Records Filed Under Procedures Established by Labor-Management Negotiations)

13. EEO Counselor and Investigator Personnel Records, 60-0250 (formerly 09-90-0022, Volunteer EEO Support Personnel Records)

14. Claims Under the Federal Tort Claims Act and Military Personnel and Civilian Employees' Claims Act, 60-0259, (formerly 09-90-0062, Administrative Claims)

15. Attorney Applicant Files, 60-0262, (formerly 09-90-0066, OGC Attorney Applicant Files)

16. Litigation Docket and Tracking System, 60-0274 (formerly 09-90-9999, Automated Litigation Tracking System)

17. Civil Rights Complaints Filed by Members of the Public, 60-0275, (formerly 09-90-0051, Complaint Files and Logs)

B. New SSA Privacy Act System of Records

We are combining two separate systems of records, the Administrative Law Judge Docket, 60-0008 and the Hearing Office Master Docket of Claimant Cases, 60-0184, into a single system of records, the Hearing Office Tracking System (HOTS) of Claimant Cases, 60-0010. We will use HOTS for the same purposes for which we used Administrative Law Judge Docket, 60-0008, and Hearing Office Master Docket of Claimant Cases, 60-0184. We are deleting the notices of the two systems of records (see section II.1. below.)

II. Proposed Alterations to Existing SSA Privacy Act Systems of Records

We are making alterations to the following systems of records as discussed below.

1. Master Files of Social Security Number (SSN) Holders and SSN Applications, 60-0058. We are expanding the “Categories of records in the system” to indicate that codes pertaining to SSNs assigned under certain conditions are maintained.

2. Earnings Recording and Self-Employment Income System, 60-0059. We are making the following changes:

• Expanding the “Categories of records in the system” to include information about individuals who apply for a certificate of coverage exempting them from coverage and taxes under the social security system of a foreign country, as provided in a Social Security agreement between the United States and that foreign country.

• Expanding the “Purpose(s)” section of the notice of this system of records to reflect that in connection with the issuance of certificates of coverage, information in this system of records is used: (1) To determine whether an individual who requests a certificate of coverage, establishing a foreign coverage exemption under a Social Security agreement, has been issued one or more certificates in the past; and (2) to respond to inquiries concerning a worker's Social Security coverage status from an appropriate agency in a country which has a Social Security agreement with the United States.

• Adding two new routine use disclosures (see discussion in section III.A., items 1. and A.2. below).

3. Automated Document Control and Retrieval System, 60-0002. We are changing the “System name” from Automated Document Control and Retrieval System to Optical System for Correspondence Analysis and Response.

III. Proposed New and Revised Routine Use Disclosures

A. Discussion of Proposed Routine Uses

We are proposing to establish new routine use disclosures of information that will be maintained in the systems of records discussed below.

1. To the Department of Housing and Urban Development (HUD) in accordance with 26 U.S.C. 6103(l)(7), upon written request, tax return information (e.g., information with respect to wages, net earnings from self-employment, and payments of retirement income which have been disclosed to the Social Security Administration), for use by HUD in an initial or periodic review of the income of an applicant or participant in any HUD housing assistance program.

This proposed routine use disclosure is applicable to the Earnings Recording and Self-Employment Income System, 60-0059. Section 6103(l)(7) of the Internal Revenue Code requires the Commissioner of Social Security, upon written request, to disclose tax return information to HUD for the purposes stated above. These disclosures will allow HUD to confirm the accuracy of tenant-reported income when determining applicant and participant eligibility for, and level of, housing assistance benefits.

2. To any source that has, or is expected to have, information that SSA needs in order to establish or verify a person's eligibility for a certificate of coverage under a Social Security agreement authorized by section 233 of the Social Security Act.

This proposed routine use disclosure is applicable to the Earnings Recording and Self-Employment Income System, 60-0059. When determining an individual's eligibility for a certificate of coverage under a Social Security agreement authorized by section 233 of the Social Security Act, SSA must be able to contact appropriate sources, as necessary, for information relating to the issuance of certificates of coverage.

3. To contractors and other Federal agencies, as necessary, for the purpose of assisting the Social Security Administration (SSA) in the efficient administration of its programs. We will disclose information under this routine use only in situations in which SSA may enter into a contractual or similar agreement with a third party to assist in accomplishing an agency function relating to this system of records.

This proposed routine use disclosure is applicable to the Financial Transactions of SSA Accounting and Finance Offices, 60-0231, and the Central Registry of Individuals Doing Business with SSA (Vendor File), 60-0232. SSA occasionally contracts out certain of its functions when this would contribute to effective and efficient operations. SSA must be able to give a contractor whatever information the Agency can legally provide in order for the contractor to fulfill its duties. In these situations, safeguards are provided in the contract prohibiting the contractor from using or disclosing the information for any purpose other than that described in the contract.

4. To Federal, State, and local law enforcement agencies and private security contractors, as appropriate, information necessary:

• To enable them to protect the safety of Social Security Administration (SSA) employees and customers, the security of the SSA workplace and the operation of SSA facilities; or

• To assist investigations or prosecutions with respect to activities that affect such safety and security or activities that disrupt the operation of SSA facilities.

This proposed routine use disclosure is applicable to the Assignment and Correspondence Tracking (ACT) System, 60-0001. We will disclose information under the routine use to law enforcement agencies and private security contractors when the information is needed to investigate, prevent, or respond to activities that jeopardize the security and safety of SSA customers, employees or workplaces or that otherwise disrupt the operation of SSA facilities. Information would also be disclosed to assist in the prosecution of persons charged with violating Federal or local law in connection with such activities.

5. To the Office of the President for the purpose of responding to an individual pursuant to an inquiry received from that individual or from a third party on his/her behalf.

This proposed routine use disclosure is applicable to the Assignment and Correspondence Tracking (ACT) System, 60-0001. We will disclose information under this routine use only in situations in which an individual may contact the Office of the President, seeking that Office's assistance in a matter relating to the Assignment and Correspondence Tracking (ACT) System. Information will be disclosed when the Office of the President makes an inquiry and indicates that it is acting on behalf of the individual whose record is requested.

6. To the Department of Treasury to:

• Find out whether or not the individual has a delinquent tax account for the purpose of determining the individual's creditworthiness for the loan in question under the Internal Revenue Code (26 U.S.C. 6103(l)(3)(A)-(C)), and

• Assist SSA in recovering the collection of delinquent administrative debts through Administrative Wage Garnishment (AWG) (31 U.S.C. 3720D) via the Treasury Cross Servicing program as authorized by the Debt Collection Improvement Act of 1996.

This proposed routine use is a revision of existing routine use numbered 11 that is applicable to the system of records entitled Financial Transactions of SSA Accounting and Finance Offices, 60-0231. The revised routine use will allow the disclosure of information to the Department of Treasury to assist SSA in collecting delinquent administrative debts from the wages of debtors in the private sector.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

This proposed routine use in compliance with section 704(e)(1)(B) of the Social Security Independence and Program Improvements Act of 1994, which mandates certain disclosures to HHS components. This routine use is applicable to the following systems of records:

• Optical System for Correspondence Analysis and Response, 60-0002

• Storage of Hearing Records: Tape Cassettes and Audiograph Discs, 60-0006

• Listing and Alphabetical Name File (Folder) of Vocational Experts, Medical Experts, and Other Health Care Professional and/or Non-Health Care Professional Experts (Medicare), 60-0012

• Records of Usage of Medical Experts, Vocational Experts, and Other Health Care Professional and/or Non-Health Care Professional Experts (Medicare), 60-0013

• National Disability Determination Services (NDDS) File, 60-0044

• Disability Determination Service Consultants File, 60-0046

• Completed Determination Record—Continuing Disability Determinations, 60-0050

• Master Files of Social Security Number (SSN) Holders and SSN Applications, 60-0058

• Earnings Recording and Self-Employment Income System, 60-0059

• Congressional Inquiry File, 60-0077

• Public Inquiry Correspondence File, 60-0078

• Master Beneficiary Record, 60-0090

• Supplemental Security Income Record and Special Veterans Benefits, 60-0103

• Non-Contributory Military Service Reimbursement System, 60-0118

• Disability Insurance and Supplemental Security Income Demonstration Projects and Experiments System, 60-0218

• Representative Disqualification/Suspension Information System, 60-0219

• Vocational Rehabilitation Reimbursement Case Processing System, 60-0221

• Master Representative Payee File, 60-0222

• Personnel Records in Operating Offices, 60-0239

• Plans for Achieving Self-Support (PASS) Management Information System, 60-0255 (formerly 05-009)

• Social Security Administration's Customer PIN/Password (PPW) Master File System, 60-0290

B. Compatibility of Proposed Routine Uses

The Privacy Act (5 U.S.C. 552a(b)(3)) and our disclosure regulations (20 CFR part 401) permit us to disclose information under a published routine use for a purpose which is compatible with the purpose for which we collected the information. Section 401.150(c) of SSA's regulations permits us to disclose information under a routine use where necessary to assist in carrying out SSA programs or other government programs that have the same purposes as SSA programs. Section 401.120 of SSA's regulations provides that we will disclose information when a law specifically requires the disclosure. The proposed routine uses are appropriate and meet the relevant statutory and regulatory criteria.

IV. Housekeeping Revisions to Systems of Records

1. Commissioner's Correspondence File, 60-0001. We are changing the “System name” from Commissioner's Correspondence File to Assignment and Correspondence Tracking System (ACT) and revising the language in the “Categories of individuals covered by the system” to read “Any individual or entity” rather than “person or group.”

2. Extramural Surveys (Statistics) System, 60-0199 and the Disability Insurance and Supplemental Security Income Demonstration Projects and Experiments System, 60-0218. We are changing the “System manager(s)” from the Office of Policy, Office of Research, Evaluation and Statistics to the Deputy Commissioner for Disability and Income Security Programs, Office of Program Development and Research.

3. Listing and Alphabetical Name File (Folder) of Vocational Experts and Medical Advisors, 60-0012. We are changing the “System name” from Listing and Alphabetical Name File (Folder) of Vocational Experts and Medical Advisors to Listing and Alphabetical Name File (Folder) of Vocational Experts, Medical Experts, and Other Health Care Professional and/or Non-Health Care Professional Experts (Medicare).

4. Records of Usage of Medical Advisors and Vocational Experts, 60-0013. We are changing the “System name” from Records of Usage of Medical Advisors and Vocational Experts to Records of Usage of Medical Experts, Vocational Experts, and Other Health Care Professional and/or Non-Health Care Professional Experts (Medicare).

5. Representative Disqualification/Suspension Information System, 60-0219. We are changing the “System manager(s)” from the Office of Disability and Income Security Programs, Office of Hearings and Appeals to the Office of the General Counsel.

6. Disability Determination Service Processing File, 60-0044. We are making the following changes:

• Changing the “System name” from Disability Determination Service Processing File to National Disability Determination Services (NDDS) File;

• Revising the “System location” to show SSA, Office of Systems as the appropriate address of the system location;

• Deleting the reference and citation to “BL (Black Lung) benefits” from the “Categories of individuals covered by the system,” “Authority for maintenance of the system,” and “Purpose(s)” sections of the notice of the system of records;

• Revising the “Categories of records in the system” to clarify that in addition to the names and titles of persons making or reviewing the determination on a claim, we also maintain the SSNs of the DDS personnel;

• Clarifying the language in the “Purpose(s)” section to read as follows: The records are used primarily for processing Social Security Title II disability insurance (DI) and Title XVI Supplemental Security Income (SSI) disability for detecting and correcting deficiencies and problems involved in case processing, to track case movement through the DDS, to respond to inquiries on case status, and to provide recurring and one-time management information; and

• Updating the “Policies and practices for storing, retrieving, accessing, retaining and disposing of records in the system” section to reflect current storage, retention, and disposal practices.

V. General Editorial Changes

In addition to the changes discussed in sections II, III, and IV, we have made editorial revisions throughout the notices appearing in this publication to make them accurate and up-to-date.

VI. Deletion of Obsolete Systems of Records

Effective with this publication, we are deleting notices for the following systems of records for the reasons stated.

1. Administrative Law Judge Docket of Claimant Cases, 60-0008 (last published in its entirety at 47 FR 45596, October 13, 1982); and Hearing Office Master Docket of Claimant Cases, 60-0184. We have combined these two systems of records into a single system of records entitled Hearing Office Tracking System of Claimant Cases, 60-0010 (see section I.B. above).

2. Personnel Research and Merit Promotion Test Records, 60-0017 (last published in its entirety at 47 FR 45601, October 13, 1982). This system of records is a duplication of the Office of Personnel Management system of records, OPM/GOVT-6, Personnel Research and Test Validation Records. We, therefore, are deleting the notice from publication.

3. Employee Production and Accuracy Records, 60-0031 (last published in its entirety at 47 FR 45602, October 13, 1982). This system of records is obsolete. We, therefore, will dispose of the records in the system of records and are deleting the notice from publication.

4. Employee Indebtedness Counseling System, 60-0032 (last published in its entirety at 47 FR 45603, October 13, 1982). This system of records is obsolete. We, therefore, will dispose of the records in the system of records and are deleting the notice from publication.

5. General Criminal Investigations Files, 60-0037 (last published in its entirety at 47 FR 45605, October 13, 1982). The functions for which this system of records was established are now covered by systems of records maintained by the SSA, Office of the Inspector General. Therefore, we are deleting the notice from publication.

6. Claims Development Record, 60-0066 (last published in its entirety at 47 FR 45621, October 13, 1982). The functions for which this system of records was established are now covered under other SSA claims related systems of records; e.g., the Claims Folders System, 60-0089; the Master Beneficiary Record, 60-0090; and Supplemental Security Income Record and Special Veterans Benefits, 60-0103. Therefore, we are deleting the notice from publication.

7. Health Insurance Overpayment Ledger Cards, 60-0095 (last published in its entirety at 47 FR 45631, October 13, 1982). This system of records is obsolete. We, therefore, will dispose of the records in the system of records and are deleting the notice from publication.

8. The National Fraud Case Data Base, 60-0097 (last published in its entirety at 47 FR 45632, October 13, 1982). This system of records is obsolete. We, therefore, will dispose of the records in the system of records and are deleting the notice from publication.

9. Double Check Negotiation (DCN) File (SSI), 60-0111 (last published in its entirety at 47 FR 45637, October 13, 1982). This system of records is obsolete. We, therefore, will dispose of the records in the system of records and are deleting the notice from publication.

10. Matches of Internal Revenue Service (IRS) and Social Security Administration (SSA) Data (Joint SSA/Treasury Department, Office of Tax Analysis, Statistics Development Project), 60-0149 (last published in its entirety at 47 FR 45642, October 13, 1982). This system of records is obsolete. We, therefore, will dispose of the records in the system of records and are deleting the notice from publication.

11. Extramural Research Administrative File, 60-0198, (last published in its entirety at 47 FR 45647, October 13, 1982). This system of records is obsolete. We, therefore, will dispose of the records in the system of records and are deleting the notice from publication.

12. Supplemental Security Income Quality Initial Claims Review Process System, 60-0212, (last published in its entirety at 47 FR 45654, October 13, 1982). This system of records is obsolete. We, therefore, will dispose of the records in the system of records and are deleting the notice from publication.

13. Telephone Call Receipt System, 60-0223, (last published in its entirety at 57 FR 29879, July 7, 1992). This system of records is obsolete. We, therefore, will dispose of the records in the system of records and are deleting the notice from publication.

14. Vocational Rehabilitation; State Vocational Rehabilitation Agency Information (VR SVRA) File, 60-0253 (formerly 05-007) (last published in its entirety at 63 FR 7034, February 11, 1998). This system of records is obsolete. We, therefore, will dispose of the records in the system of records and are deleting the notice from publication.

15. Vocational Rehabilitation; SSA Disability Beneficiaries/Recipients Eligible for Re-Referral to an Alternate Vocational Rehabilitation Service Provider (VR Re-Referral) File, 60-0254 (formerly 05-008) (last published in its entirety at 63 FR 7034, February 11, 1998). This system of records is obsolete. We, therefore, will dispose of the records in the system of records and are deleting the notice from publication.

VII. Effect of the Proposed New and Altered Systems of Records and Proposed Routine Use Disclosures on the Rights of Individuals

We will maintain information in the new and altered systems of records only as necessary to carry out our official functions under the Social Security Act and other applicable Federal statutes. Our maintenance and use of the information are in accordance with the provisions of the Privacy Act (5 U.S.C. 552a) and SSA's disclosure regulations (20 CFR part 401). We employ safeguards to protect all personal information in our possession as well as the confidentiality of the information. We will disclose information under the routine uses discussed above only as necessary to accomplish the stated purpose(s). Thus, we do not anticipate that the new and altered systems of records and the new routine use disclosures will have an unwarranted adverse effect on the rights of the individuals to whom they pertain.

Dated: December 23, 2005.
Jo Anne B. Barnhart,
Commissioner.

Index of SSA Privacy Act Systems of Records Appearing in This Publication
60-0001 | Assignment and Correspondence Tracking System (ACT).
60-0002 | Optical System for Correspondence Analysis and Response.
60-0003 | Attorney Fee File.
60-0006 | Storage of Hearing Records: Tape Cassettes and Audiograph Discs.
60-0010 | Hearing Office Tracking System of Claimant Cases.
60-0012 | Listing and Alphabetical Name File (Folder) of Vocational Experts, Medical Experts, and Other Health Care/Non-Health Care Professionals Experts (Medicare).
60-0013 | Records of Usage of Medical Experts, Vocational Experts, and Other Health Care/Non-Health Care Professionals Experts (Medicare).
60-0044 | National Disability Determination Services.
60-0046 | Disability Determination Service Consultant's File.
60-0050 | Completed Determination Record—Continuing Disability Determinations.
60-0058 | Master Files of Social Security Number Holders, and SSN Applications.
60-0059 | Earnings Recording and Self-Employment Income System.
60-0077 | Congressional Inquiry File.
60-0078 | Public Inquiry Correspondence File.
60-0090 | Master Beneficiary Record.
60-0103 | Supplemental Security Income Record.
60-0118 | Non-Contributory Military Service Reimbursement System.
60-0199 | Extramural Surveys (Statistics).
60-0218 | Disability Insurance and Supplemental Security Income Demonstration Projects and Experiments System.
60-0219 | Representative Disqualification/Suspension Information System.
60-0221 | Vocational Rehabilitation Reimbursement Case Processing System.
60-0222 | Master Representative Payee File.
60-0228 | Safety Management Information System.
60-0230 | Social Security Administration Parking Management Record System.
60-0231 | Financial Transactions of SSA Accounting and Finance Offices.
60-0232 | Central Registry of Individuals Doing Business with SSA (Vendor File).
60-0234 | Employee Assistance Program (EAP) Records.
60-0236 | Employee Development Program Records.
60-0237 | Employees' Medical Records.
60-0238 | Pay, Leave and Attendance Records.
60-0239 | Personnel Records in Operating Offices.
60-0241 | Employee Suggestion Program Records.
60-0244 | Administrative Grievances Filed Under Part 771 of 5 CFR.
60-0245 | Negotiated Grievance Procedures.
60-0250 | EEO Counselor and Investigator Personnel Records.
60-0255 | Plans for Achieving Self-Support (PASS) Management Information System, SSA/OPB.
60-0259 | Claims Under the Federal Tort Claims Act and Military Personnel and Civilian Employees' Claims Act.
60-0262 | Attorney Applicant File.
60-0274 | Litigation Docket and Tracking System.
60-0275 | Civil Rights Complaints Filed by Members of the Public.
60-0290 | Social Security Administration's Customer PIN/Password (PPW) Master File System.

SYSTEM NUMBER: 60-0001

System name:

Assignment and Correspondence Tracking (ACT) System, Social Security Administration, Office of the Commissioner.

Security classification:

None.

System Location:

Social Security Administration, Office of the Commissioner, 6401 Security Boulevard, Baltimore, MD 21235.

Categories of individuals covered by the system:

Any individual or entity that makes a request or writes to the Commissioner of Social Security and receives a direct response from the Commissioner.

Categories of in the system:

The Commissioner's incoming personal requests and correspondence and responses to such correspondence.

Authority for maintenance of the system:

Section 205 of the Social Security Act (42 U.S.C. 405).

Purpose(s):

This system is established for tracking incoming correspondence and reference when replying to subsequent inquiries.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Office of the President for the purpose of responding to an individual pursuant to an inquiry received from that individual or from a third party on his/her behalf.

3. To the General Services Administration and the National Archives Records Administration (NARA) under 44 U.S.C. 2904 and 2906, as amended by the NARA Act of 1984, information which is not restricted from disclosure by Federal law for the use of those agencies in conducting records management studies.

4. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before such tribunal, is relevant and necessary to the litigation, provided, however, that in each case, SSA determines that such disclosure is compatible with the purpose for which the records were collected.

5. To student volunteers, individuals working under a personal services contract, and other workers who technically do not have the status of Federal employees, when they are performing work for the Social Security Administration (SSA), as authorized by law, and they need access to personally identifiable information in SSA records in order to perform their assigned Agency functions.

6. To Federal, State, and local law enforcement agencies and private security contractors, as appropriate, information necessary:

(a) To enable them to protect the safety of Social Security Administration (SSA) employees and customers, the security of the SSA workplace and the operation of SSA facilities; or

(b) To assist investigations or prosecutions with respect to activities that affect such safety and security or activities that disrupt the operation of SSA facilities.

Policies for storing, retrieving, accessing, retaining, and disposing of records in the system:

Storage:

Records in this system are stored in paper form and in magnetic media (e.g., magnetic tape and disc).

Retrievability:

Records in this system are indexed and retrieved by the name of the correspondent.

Safeguards:

Safeguards for automated records have been established in accordance with the Systems Security Handbook. This includes maintaining the records in a secured enclosure attended by security guards. Anyone entering or leaving the enclosure must have a special badge issued only to authorized personnel. Access to specific records in this system is limited to members of the Office of the Commissioner. Also, employees are periodically briefed on Privacy Act requirements and Social Security Administration (SSA) rules, including the criminal sanctions for unauthorized disclosure of, or access to, personal records. Access http://www.socialsecurity.gov/foia/bluebook/app_g.htm for additional information relating to SSA data security measures.

Retention and disposal:

General correspondence is archived after 3 years. Paper files are destroyed by shredding when deemed appropriate. Computer files are archived after 3 years.

System manager(s) and address(es):

Director, Office of Executive Operations, Social Security Administration, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is untimely, incomplete, inaccurate or irrelevant. These procedures are in accordance with SSA Regulations (20 CFR 401.65(a)).

Record source categories:

Incoming correspondence and responses to the correspondence.

System exempted from certain provisions of the Privacy Act:

None.

SYSTEM NUMBER: 60-0002

System name:

Optical System for Correspondence Analysis and Response, Social Security Administration, Deputy Commissioner for Communications, Office of Public Inquires.

Security classification:

None.

System Location:

Social Security Administration, Office of Public Affairs, Office of Public Inquiries, 6401 Security Boulevard, Baltimore, MD 21235.

Social Security Administration, Office of Central Operations, Metro West Building, 300 North Greene Street, Baltimore, MD 21201.

Social Security Administration, Office of Disability Operations, Security West Building, 1500 Woodlawn Drive, Baltimore, MD 21241.

Social Security Administration, Office of Disability Operations, Metro West Building, 300 North Greene Street, Baltimore, MD 21201.

Social Security Administration, Office of Hearings and Appeals, 5107 Leesburg Pike, Falls Church, VA 22041.

Categories of individuals covered by the system:

Records are maintained on individuals: (1) Who forward a request for information to the Social Security Administration (SSA) (or component thereof); (2) whose requests to members of Congress, the President, etc., are forwarded to SSA for response; (3) who forward a request to the Freedom of Information (FOI) Officer at SSA; and (4) Social Security beneficiaries (or persons inquiring on their behalf) who are reporting failure to receive a check or checks which they believe are due or are inquiring about other matters which have been determined to be of a critical or sensitive nature.

Categories of records in the system:

Information in the records may include the following: name of claimant (if appropriate); name of individual involved (and Social Security number (SSN), if given); name of third party inquirer (if present); type of correspondence; date of correspondence; date received in SSA component; organizational component having initial responsibility for the inquiry; Congressperson name or name code (if a congressional inquiry); any subsequent locations that handle the inquiry before a final action is taken; address-to-code (official to whom inquiry is directed); signature code (official whose name will appear on the reply); computer-generated control number (six or seven alpha-numerics used to update or retrieve a record); subject matter codes (up to three that summarize the contents of the inquiry); and response information (types and dates of SSA's responses).

Authority for maintenance of the system:

Sections 205(a), 1631 and Titles XI and XVIII of the Social Security Act (42 U.S.C. 405(a) and 1383) and section 413(b) of the Federal Coal Mine Health and Safety Act, as amended.

Purpose(s):

Information about the inquiries is maintained in this system solely to aid in the control of correspondence through the various processing steps. The information may include a scanned copy of the inquiry. This system is used to control processing of correspondence within the SSA Central Office complex and the Office of Hearings and Appeals (OHA) headquarters in Falls Church, Virginia and to provide management information regarding the correspondence process.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of the Treasury to determine if a social security payment was issued or a check returned for cash.

3. To contractors and other Federal agencies, as necessary, for the purpose of assisting the Social Security Administration (SSA) in the efficient administration of its programs. We will disclose information under this routine use only in situations in which SSA may enter into a contractual or similar agreement with a third party to assist in accomplishing an Agency function relating to this system of records.

4. To the General Services Administration and the National Archives Records Administration (NARA) under 44 U.S.C. 2904 and 2906, as amended by the NARA Act of 1984, information which is not restricted from disclosure by Federal law for the use of those agencies in conducting records management studies.

5. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

6. To student volunteers, individuals working under a personal services contract, and other workers who technically do not have the status of Federal employees, when they are performing work for the Social Security Administration (SSA), as authorized by law, and they need access to personally identifiable information in SSA records in order to perform their assigned Agency functions.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

The records are maintained in electronic and paper form.

Retrievability:

The data in this system are retrieved by name, SSN or control number.

Safeguards:

Safeguards for automated records have been established in accordance with the Systems Security Handbook. This includes maintaining the records in a secured enclosure. Access to specific records is limited to employees who have a need for them in the performance of their official duties. Paper records are maintained in locked files or in buildings that are secured after normal business hours.

Also, all employees periodically are briefed on Privacy Act requirements and SSA confidentiality rules, including the criminal sanctions for unauthorized disclosure of or access to personal records. Access http://www.socialsecurity.gov/foia/bluebook/app_g.htm for additional information relating to SSA data security measures.

Retention and disposal:

Records are maintained on-line in the system from the time of control until 13 months after the final response is released. Electronic records are maintained offline for an additional five years before being erased. Paper records are disposed of by shredding when deemed no longer needed.

System manager(s) and address(es):

Social Security Administration, Associate Commissioner, Office of Public Inquiries, Office of Public Affairs, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Records in this system are derived from inquiries directed to SSA (or component thereof) from members of the public; individuals or someone acting on their behalf; the individual's claims record (maintained in the Claim Folder System, 60-0089); and contacts within and outside SSA.

Systems exempted from certain provisions of the Privacy Act:

None.

SYSTEM NUMBER: 60-0003

System name:

Attorney Fee File, Social Security Administration, Office of Hearings and Appeals.

Security classification:

None.

System Location:

Attorney fee information is maintained in Social Security Administration (SSA), Office of Hearings and Appeals hearing offices, regional offices and OHA headquarters, as appropriate (contact the system manager at the address below or access http://www.socialsecurity.gov/foia/bluebook/app_f.htm for address information).

When the Administrative Law Judge (ALJ) recommends approval of a requested fee amount which exceeds $5,000 or when there is a requested administrative review of fees initially authorized by the ALJ, the files are maintained by the Regional Chief (RC) ALJ in the appropriate regional office (see http://www.socialsecurity.gov/foia/bluebook/app_f.htm for address information).

Attorney fee files relating to requested administrative review of fees initially authorized by the RC ALJs, as well as those where the Attorney Fee staff has sole jurisdiction, are maintained at:

Social Security Administration, Office of Hearings and Appeals, 5107 Leesburg Pike, Falls Church, VA 22041.

Categories of individuals covered by the system:

Claimants—Title II (Retirement and Survivors Insurance (RSI) and Disability Insurance (DI)); Title VIII (Special Veterans Benefits); Title XI (claimants subject to Professional Standards Review); Title XVI Supplemental Security Income; and Title XVIII (HI). Effective October 1, 2005, the Social Security Administration (SSA) only has jurisdiction to determine eligibility for Title XVIII benefits, not the benefit amount.

Categories of records in the system:

Attorney Fee/Petition; Fee Agreement; Authorization Order; related correspondence and case tracking information; and when appropriate, request for administrative review.

Authority for maintenance of the system:

Sections 205, 1631(d)(1), and 1872 of the Social Security Act, as amended, and section 413(b) of the Black Lung Benefits Act.

Purpose(s):

Attorney fee files are used in processing attorney fee petitions, fee agreements, and requests for administrative review, and to respond to correspondence and other inquiries related to representation of claimants.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, the court or other tribunal, or another party before such tribunal, is relevant and necessary to the litigation provided, however, that in each case, SSA determines that such disclosure is compatible with the purpose for which the records were collected.

3. To applicants, claimants, beneficiaries (other than the subject individual), authorized representatives, experts, and other participants at a hearing to the extent necessary to pursue a claim or other matter on appeal.

4. To a claimant's representative to the extent necessary to dispose of a fee petition or fee agreement; except for pre-decisional deliberative documents, such as analyses and recommendations prepared for the decision-maker.

5. To the Department of the Treasury, Internal Revenue Service, as necessary, for the purpose of auditing the Social Security Administration's compliance with safeguard provisions of the Internal Revenue Code of 1986, as amended.

6. Information may be disclosed to contractors and other Federal agencies, as necessary, for the purpose of assisting the Social Security Administration (SSA) in the efficient administration of its programs. We will disclose information under this routine use only in situations in which SSA may enter into a contractual or similar agreement with a third party to assist in accomplishing an agency function relating to this system of records.

7. To the General Services Administration and the National Archives and Records Administration (NARA) under 44 U.S.C. 2904 and 2906, as amended by the NARA Act of 1984, information which is not restricted from disclosure by Federal law for the use of those agencies in conducting records management studies.

8. To student volunteers, individuals working under a personal services contract, and other workers who technically do not have the status of Federal employees, when they are performing work for the Social Security Administration (SSA), as authorized by law, and they need access to personally identifiable information in SSA records in order to perform their assigned Agency functions.

Policies and practices for storing, retrieving, accessing, retaining and disposing of records in the system:

Storage:

Records are stored either in paper form (e.g., individual case folders and file control cards) or electronically on disc (the Attorney Fee case tracking system). The records stored in paper and electronic files are duplicates. This is a system in transition.

Retrievability:

Records are retrieved by name and Social Security number (SSN).

Safeguards:

System security is maintained in accordance with the Systems Security Handbook. Access to the Attorney Fee File and electronic case tracking records is limited to those persons whose official duties require such access. Control cards are stored in filing containers. The folders are kept on filing shelves. The paper records are kept in a secured storage area. All employees are instructed in SSA confidentiality rules as part of their initial orientation training. Access http://www.socialsecurity.gov/foia/bluebook/app_g.htm for additional information relating to SSA data security measures.

Retention and disposal:

Attorney fee file folders are destroyed after 2 years. Control cards are shredded after 5 years. Any electronic case tracking records are deleted 5 years after final action was taken.

System manager(s) and address:

Associate Commissioner, Office of Hearings and Appeals, Social Security Administration, 5107 Leesburg Pike, Falls Church, VA 22041.

Notification procedure:

An individual can determine if this system contains a record about him/her by writing to the systems manager(s) at the above address and providing his/her name, SSN or other information that may be in the system of records that will identify him/her. An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters also should reasonably specify the record contents they are seeking. These procedures are in accordance with SSA Regulations (20 CFR 401.40(c)).

Contesting record procedures:

Same as Notification procedures. Requesters also should reasonably identify the record, specify the information they are contesting and the corrective action sought, and the reasons for the correction, with supporting justification showing how the record is incomplete, untimely, inaccurate or irrelevant. These procedures are in accordance with SSA Regulations (20 CFR 401.65(a)).

Record source categories:

Information in this system is derived from the claimant, his or her representative, appropriate members of the public, SSA and other Federal, State, and local agencies.

Systems exempted from certain provisions of the Privacy Act:

None.

SYSTEM NUMBER: 60-0006

System name:

Storage of Hearing Records: Tape Cassettes, Social Security Administration, Office of Hearings and Appeals.

Security classification:

None.

System Location:

Social Security Administration, Office of Hearings and Appeals, 5107 Leesburg Pike, Falls Church, Virginia 22041.

Categories of individuals covered by the system:

Claimants—Title II (Retirement and Survivors Insurance (RSI) and Disability Insurance (DI)); Title VIII (Special Veterans Benefits); Title XI (claimants subject to Professional Standards Review); Title XVI Supplemental Security Income; and Title XVIII (HI). Effective October 1, 2005, the Social Security Administration (SSA) only has jurisdiction to determine eligibility for Title XVIII benefits, not the benefit amount.

Categories of records in the system:

Recordings of actual hearings before Administrative Law Judges (ALJ).

Authority for maintenance of the system:

Sections 205, 1631, and 1872 of the Social Security Act (42 U.S.C. 405, 1383, and 1395ii).

Purpose(s):

The tape cassette or other electronic media, such as the compact disc (CD), is the basic record of the hearing conducted in an individual case by the ALJ. It is the source from which the documentary transcript is prepared. Social Security Administration (SSA) employees use the information as a reference to respond to subsequent correspondence and/or further appeal of the claim and to process an attorney fee petition when appropriate.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

3. To the Internal Revenue Service, Department of the Treasury, as necessary, for the purpose of auditing the Social Security Administration's compliance with the safeguard provisions of the Internal Revenue Code of 1986, as amended.

4. To contractors and other Federal agencies, as necessary, for the purpose of assisting the Social Security Administration (SSA) in the efficient administration of its programs. We will disclose information under this routine use only in situations in which SSA may enter into a contractual or similar agreement with a third party to assist in accomplishing an agency function relating to this system of records.

5. To the General Services Administration and the National Archives and Records Administration (NARA) under 44 U.S.C. 2904 and 2906, as amended by the NARA Act of 1984, information which is not restricted from disclosure by Federal law for the use of those agencies in conducting records management studies.

6. To student volunteers, individuals working under a personal services contract, and other workers who technically do not have the status of Federal employees, when they are performing work for the Social Security Administration (SSA), as authorized by law, and they need access to personally identifiable information in SSA records in order to perform their assigned Agency functions.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and Practices for Storing, Retrieving, Accessing, Retaining, and Disposing of Records in the System:

Storage:

Records in this system may be stored either on cassette tapes, CDs, or other electronic format.

Retrievability:

Records in this system are indexed by claimant name, Social Security number (SSN), and date of hearing.

Safeguards:

System security is maintained in accordance with the Systems Security Handbook. Access to, and use of, both the cassettes and electronic digital records are limited to those persons whose official duties require such access. All employees are instructed in SSA confidentiality rules as part of their initial orientation training. Access http://www.socialsecurity.gov/foia/bluebook/app_g.htm for additional information relating to SSA data security measures.

Retention and disposal:

Tape cassettes and CDs are transferred to the Washington Nation Records Center (WNRC) immediately after separation from the claim file. The cassettes and CDs are destroyed (erased) after 10 years in the WNRC. Electronic records are deleted when no longer needed.

System manager(s) and address(es):

Associate Commissioner, Office of Hearings and Appeals, Social Security Administration, 5107 Leesburg Pike, Falls Church, VA 22041.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

An individual who requests access to his or her medical record must also name a representative in writing. The representative may be a physician, other health professional, or other responsible individual who would be willing to explain the contents of the medical record(s) before giving the entire medical record(s) to the individual. These procedures are in accordance with SSA Regulations (20 CFR 401.40(c) and 401.55).

A parent or guardian who requests notification of, or access to, a minor's medical record shall, at the time he/she makes the request, designate a physician or other health professional (other than a family member) who will be willing to explain the contents of the medical record(s) before giving the entire medical record(s) to the parent or guardian. These procedures are in accordance with SSA Regulations (20 CFR 401.40(c) and 401.55).

Record access procedures:

Same as Notification procedures. Requesters should also reasonably specify the record contents being sought. These procedures are in accordance with SSA Regulations (20 CFR 401.40(c) and 401.55).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

The records are derived from claimants, representatives, witnesses, ALJs and staff persons.

Systems exempted from certain provisions of the Privacy Act:

None.

SYSTEM NUMBER: 60-0010

System name:

Hearing Office Tracking System of Claimant Cases, Social Security Administration, Office of Hearings and Appeals.

Security classification:

None.

System Location:

All Hearing Offices: contact the system manager at the address below or access http://www.socialsecurity.gov/foia/bluebook/app_f.htm for Social Security Administration (SSA), Office of Hearings and Appeals hearing office address information. Program Service Centers (PSC): contact the system manager at the address below or access http://www.socialsecurity.gov/foia/bluebook/app_a.htm for PSC address information.

Categories of individuals covered by the system:

Claimants—Title II (Retirement and Survivors Insurance (RSI) and Disability Insurance (DI)); Title VIII (Special Veterans Benefits); Title XI (claimants subject to Professional Standards Review); Title XVI Supplemental Security Income; and Title XVIII (HI). Effective October 1, 2005, SSA only has jurisdiction to determine eligibility for Title XVIII benefits, not the benefit amount.

Categories of in the system:

Social Security number (SSN), claimant name, type of claim, hearing request receipt date, last action date, location of case within hearings process (Assigned to name/date: pre-hearing, scheduling, hearing, post-hearing, disposition date, routing and transfer).

Authority for maintenance of the system:

Sections 205, 1631(d)(1) and 1872 of the Social Security Act.

Purpose:

The purpose of this system is to track hearing office workload from the receipt of a request for hearing until the final hearing level disposition (decision or dismissal).

Routine uses of records maintained in the system, including categories of users and the purposes of such uses:

Disclosure may be made for routine uses as indicated below:

1. To a congressional office in response to an inquiry from that office made at the request of the subject of a record.

2. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

3. To the General Services Administration and the National Archives and Records Administration (NARA) under 44 U.S.C. 2904 and 2906, as amended by the NARA Act of 1984, information which is not restricted from disclosure by Federal law for the use of those agencies in conducting records management studies.

4. To student volunteers, individuals working under a personal services contract, and other workers who technically do not have the status of Federal employees, when they are performing work for the Social Security Administration (SSA), as authorized by law, and they need access to personally identifiable information in SSA records in order to perform their assigned Agency functions.

5. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and Practices for Storing, Retrieving, Accessing, Retaining and Disposing of Records in the System:

Storage:

The records are maintained electronically or in paper format.

Retrievability:

Records are retrieved by SSN.

Safeguards:

Access to, and use of, the records is limited to those employees whose official duties require access and use. System security for automated records has been established in accordance with the Systems Security Handbook. All employees are instructed in SSA confidentiality rules as part of their initial orientation training. Access http://www.socialsecurity.gov/foia/bluebook/app_g.htm for additional information relating to SSA data security measures.

Retention and disposal:

As each case is completed, the electronic record is transferred to an archive. It is retained in the archive file for two years and then erased. Paper records are disposed of by shredding when no longer needed.

System manager(s) and address:

Associate Commissioner, Office of Hearings and Appeals, Social Security Administration, 5107 Leesburg Pike, Falls Church, VA 22041.

Notification procedure:

An individual can determine if this system contains a record about him/her by writing to the appropriate hearing office (contact the system manager at the above address or access http://www.socialsecurity.gov/foia/bluebook/app_f.htm for hearing office address information).

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Requesters should also reasonably identify the record, specify the information they are contesting and the corrective action sought, and the reasons for the correction, with supporting justification showing how the record is untimely, incomplete, inaccurate or irrelevant. These procedures are in accordance with SSA Regulations 20 CFR 401.65(a)).

Record source categories:

Records in the system are derived from hearing office personnel and from information on incoming cases.

Systems exempted from certain provisions of the Privacy Act:

None.

SYSTEM NUMBER: 60-0012

System name:

Listing and Alphabetical Name File (Folder) of Vocational Experts, Medical Experts, and Other Health Care Professional and/or Non-Health Care Professional Experts (Medicare), Social Security Administration, Office of Hearings and Appeals.

Security classification:

None.

System Location:

Medical, vocational, and other health care professional and/or non-health care professional experts for Medicare are prepared and updated by the appropriate Social Security Administration (SSA) Office of Hearings and Appeals (OHA) regional office for each hearing office in their jurisdiction (contact the system manager at the address below or access http://www.socialsecurity.gov/foia/bluebook/app_f.htm for hearing office address information). The listing is maintained and used by each hearing office to facilitate the selection of expert witnesses.

Social Security Administration, Office of Hearings and Appeals, Division of Field Practices and Procedures, 5107 Leesburg Pike, Falls Church, VA 22041.

Records also are maintained at each hearing office (contact the system manager at the address below or access http://www.socialsecurity.gov/foia/bluebook/app_f.htm for hearing office address information).

Categories of individuals covered by the system:

Medical, vocational, and other health care professional and/or non-health care professional experts for Medicare employed under a Blanket Purchase Agreement (BPA) with OHA to provide expert witness services to OHA.

Categories of in the system:

A list of all medical, vocational, and other health care professional and/or non-health care professional experts for Medicare under BPA, who are within the area serviced by the hearing office, and their usage. In addition, a folder is kept for each expert which may contain name, Social Security number (SSN), a copy of the BPA, qualifications, travel orders, invoices, and correspondence and other written records such as reports of contact by telephone or letter.

Authority for maintenance of the system:

Sections 205, 1631(d)(1) (42 U.S.C. 405 and 1383), Titles XI and XVIII of the Social Security Act, and Section 413(b) of the Federal Coal Mine Health and Safety Act (the Coal Act), as amended.

Purpose(s):

The purposes of this system are as follows: The listing alphabetically by name of medical, vocational, and other health care professional and/or non-health care professional experts for Medicare is used to select the expert on a rotational basis for use in a hearing case. Records maintained in expert witness files are used for carrying out administrative management responsibilities. These may be used in connection with budgetary planning, assessing services and usage, renewal of contracts, and preparing statistical or summary reports.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

3. To contractors and other Federal agencies, as necessary, for the purpose of assisting the Social Security Administration (SSA) in the efficient administration of its programs. We will disclose information under this routine use only in situations in which SSA may enter into a contractual or similar agreement with a third party to assist in accomplishing an agency function relating to this system of records.

4. To the General Services Administration and the National Archives Records Administration (NARA) under 44 U.S.C. 2904 and 2906, as amended by the NARA Act of 1984, information which is not restricted from disclosure by Federal law for the use of those agencies in conducting records management studies.

5. To student volunteers, individuals working under a personal services contract, and other workers who technically do not have the status of Federal employees, when they are performing work for the Social Security Administration (SSA), as authorized by law, and they need access to personally identifiable information in SSA records in order to perform their assigned Agency functions.

6. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, access, retaining, and disposing of records in the system:

Storage:

Records are stored in electronic and/or paper format.

Retrievability:

Records are retrieved alphabetically by name and by hearing office.

Safeguards:

System security for electronic records has been established in accordance with the Systems Security Handbook. Access to, and use of, the records is limited to those persons whose official duties require such access. Paper folders are maintained in locked filing cabinets. Access to, and use, is limited to those persons whose official duties require such access. All employees are instructed in SSA confidentiality rules as part of their initial training. Access http://www.socialsecurity.gov/foia/bluebook/app_g.htm for additional information relating to SSA data security measures.

Retention and disposal:

Paper and electronic records are retained for at least 2 years after expiration of contract at which time they are disposed of by shredding.

System manager(s) and address(es):

Social Security Administration, Associate Commissioner, Office of Hearings and Appeals, 5107 Leesburg Pike, Falls Church, VA 22041.

Notification procedures:

An individual can determine if this system contains a record pertaining to him/her by writing to the applicable hearing office (contact the system manager at the above address or access http://www.socialsecurity.gov/foia/bluebook/app_f.htm for hearing office address information).

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

These records are derived from information supplied by the individual or information provided by SSA officials.

Systems exempted from certain provisions of the Privacy Act:

None.

SYSTEM NUMBER: 60-0013

System name:

Records of Usage of Medical Experts, Vocational Experts, and Other Health Care Professional and/or Non-Health Care Professional Experts (Medicare), Social Security Administration, Office of Hearings and Appeals.

Security classification:

None.

System Location:

Records of medical, vocational, and other health care professional and/or non-health care professional experts for Medicare are prepared and maintained in the appropriate hearing office. Usage records are also maintained at the appropriate Social Security Administration (SSA), Office of Hearings and Appeals (OHA) regional office (contact the system manager at the address below or access http://www.socialsecurity.gov/foia/bluebook/app_f.htm for regional office address information).

Social Security Administration, Office of Hearings and Appeals, Division of Field Practices and Procedures, 5107 Leesburg Pike, Falls Church, VA 22041.

Categories of individuals covered by the system:

Medical, vocational, and other health care professional and/or non-health care professional experts for Medicare employed under the Blanket Purchase Agreement (BPA) with OHA to provide expert witness services to OHA.

Categories in the system:

Records contain information about the usage of medical, vocational, and other health care professional and/or non-health care professional experts for Medicare, such as the occasions on which each expert supplied services to OHA.

Authority for maintenance of the system:

Sections 205, 1631(d)(1) of the Social Security Act (42 U.S.C. 405 and 1383), Titles XI and XVIII of the Social Security Act, and Section 413(b) of the Federal Coal Mine Health and Safety Act, as amended.

Purpose(s):

The purpose of this system is to provide information to enable OHA to measure the usage of expert witnesses and to make its determinations on contract and BPA renewals. The system provides information for statistical and summary reports.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

3. To contractors and other Federal agencies, as necessary, for the purpose of assisting the Social Security Administration (SSA) in the efficient administration of its programs. We will disclose information under this routine use only in situations in which SSA may enter into a contractual or similar agreement with a third party to assist in accomplishing an agency function relating to this system of records.

4. To the General Services Administration and the National Archives Records Administration (NARA) under 44 U.S.C. 2904 and 2906, as amended by the NARA Act of 1984, information which is not restricted from disclosure by Federal law for the use of those agencies in conducting records management studies.

5. To student volunteers, individuals working under a personal services contract, and other workers who technically do not have the status of Federal employees, when they are performing work for the Social Security Administration (SSA), as authorized by law, and they need access to personally identifiable information in SSA records in order to perform their assigned Agency functions.

6. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records are maintained in paper form (e.g., folders and loose-leaf binders) and/or in electronic form.

Retrievability:

Records are retrieved alphabetically by name or by BPA number.

Safeguards:

System security for automated records has been established in accordance with the Systems Security Handbook. Access to paper and electronic records is limited to those persons whose official duties require such access. Paper folders are kept in file cabinets in secured areas. All employees are instructed in SSA confidentiality rules as part of their initial training. Access http://www.socialsecurity.gov/foia/bluebook/app_g.htm for additional information relating to SSA data security measures.

Retention and disposal:

Records of usage are maintained for two years. Paper records are disposed of by shredding and automated records are disposed of by erasure when no longer needed.

System manager(s) and address(es):

Social Security Administration, Associate Commissioner, Office of Hearings and Appeals, 5107 Leesburg Pike, Falls Church, VA 22041.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

The records are obtained from the medical and vocational experts and from the administrative law judges and support staffs.

Systems exempted from certain provisions of the Privacy Act:

None.

SYSTEM NUMBER: 60-0044

System name:

National Disability Determination Services (NDDS) File, Social Security Administration, Office of Disability Determinations.

Security classification:

None.

System Location:

Each State Disability Determination Services (DDS) office and the Federal Disability Determination Service (FDDS) (contact the system manager at the address below or access http://www.socialsecurity.gov/foia/bluebook/app_b.htm for the name and address of each State DDS and the FDDS).

Categories of individuals covered by the system:

Claimants for Social Security Disability Insurance (DI) and Black Lung (BL) benefits, and Supplemental Security Income (SSI) payments alleging a disability for which the DDS processes claims.

Categories of records in the system:

Name and Social Security number (SSN) of wage earner, claimant's name and address, date of birth, diagnosis, beginning and ending dates of disability, basis for determination, work history information, educational level, reexamination date (if applicable), date of application, names and titles of persons making or reviewing the determination and certain administrative data. Also included could be data relative to the location of the file and the status of the claim, copies of medical reports, and data relating to the evaluation and measurement of the effectiveness of claims policies.

Authority for maintenance of the system:

5 U.S.C. 301, 30 U.S.C. 923(b), and sections 221 and 1633 of the Social Security Act (42 U.S.C. 421 and 1383b).

Purpose(s):

The records are used primarily for processing Social Security Title II disability (DI), Title XVI SSI disability, and BL claims, for detection and correction of deficiencies and problems involved in this processing, and for case control purposes.

Routine uses of records maintained in the system, including categories of users and the purposes of such uses:

Disclosure may be for routine uses as indicated below:

1. To State vocational rehabilitation agencies or the appropriate State agency (or agencies providing services to disabled children) for the consideration of rehabilitation services per sections 222 and 1615 of the Social Security Act.

2. To State audit agencies utilizing this information for verifying proper expenditure of Federal funds by the State in support of the DDS.

3. To the Department of Veterans Affairs (DVA) for information requested for purposes of determining eligibility for or amount of veterans benefits, or verifying other information with respect thereto in accordance with 38 U.S.C. 5106.

4. To a congressional office in response to an inquiry from that office made at the request of the subject of a record.

5. To a party named in an order, process, or interrogatory, in accordance with section 459 of the Social Security Act if a designee of the Agency is served with any such order, process, or interrogatory with respect to an individual's child support or alimony payment obligations.

6. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal or another party before such tribunal, is relevant and necessary to the litigation, provided, however, that in each case, SSA determines that such disclosure is compatible with the purpose for which the records were collected.

7. To contractors and other Federal agencies, as necessary, for the purpose of assisting the Social Security Administration (SSA) in the efficient administration of its programs. We will disclose information under this routine use only in situations in which SSA may enter into a contractual or similar agreement with a third party to assist in accomplishing an agency function relating to this system of records.

8. To the General Services Administration and the National Archives Records Administration (NARA) under 44 U.S.C. 2904 and 2906, as amended by the NARA Act of 1984, information which is not restricted from disclosure by Federal law for the use of those agencies in conducting records management studies.

9. To student volunteers, individuals working under a personal services contract, and other workers who technically do not have the status of Federal employees, when they are performing work for the Social Security Administration (SSA), as authorized by law, and they need access to personally identifiable information in SSA records in order to perform their assigned Agency functions.

10. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are maintained in paper form, on magnetic tape or disc packs. The method of storage may vary from State to State and within the FDDS.

Retrievability:

The records are filed by a combination of name and SSN depending on the DDS's preference.

Safeguards:

Automated records are maintained in accordance with the Systems Security Handbook. The records are accessible only to DDS personnel and subject to the restrictions on disclosures under 5 U.S.C. 552(b)(6), 21 U.S.C. 1175, and 42 U.S.C. 1306. Access http://www.socialsecurity.gov/foia/bluebook/app_g.htm for additional information relating to SSA data security measures.

Retention and disposal:

May vary from State to State and within the FDDS according to the preference, but generally each office destroys its files over a period varying from 6 months to 36 months unless held in an inactive storage under security measures for a longer period.

System manager(s) and address(es):

Social Security Administration, Associate Commissioner, Office of Disability Determinations, 6401 Security Boulevard, Baltimore, Maryland 21235.

Notification procedures:

An individual can determine if this system contains a record about him/her by providing his/her name and SSN to the DDS Administrator, Disability Determination Services, c/o State in which he or she resides and/or information is likely to be maintained. Contact the system manager at the address below or access (http://www.socialsecurity.gov/foia/bluebook/app_b.htm. (Furnishing the SSN is voluntary, but it will make searching for an individual's record easier and avoid delay.)

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with Social Security Administration (SSA) Regulations (20 CFR 401.40(c)).

An individual who requests access to his or her medical record must also name a representative in writing. The representative may be a physician, other health professional, or other responsible individual who would be willing to explain the contents of the medical record(s) before giving the entire medical record(s) to the individual. These procedures are in accordance with SSA Regulations (20 CFR 401.40(c) and 401.55).

A parent or guardian who requests notification of, or access to, a minor's medical record shall, at the time he/she makes the request, designate a physician or other health professional (other than a family member) who will be willing to explain the contents of the medical record(s) before giving the entire medical record(s) to the parent or guardian. These procedures are in accordance with SSA Regulations (20 CFR 401.40(c) and 401.55).

Record access procedures:

Same as Notification procedures. Requesters should also reasonably specify the record contents being sought. These procedures are in accordance with SSA Regulations (20 CFR 401.40(c) and 401.55).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

The information to support factors of entitlement and/or continuing eligibility originates from claimants or those acting on their behalf, physicians, hospitals, and other appropriate sources. Also, information is received from control data that monitors the location and status of the claim.

Systems exempted from certain provisions of the Privacy Act:

None.

SYSTEM NUMBER: 60-0046

System name:

Disability Determination Services Consultant File, Social Security Administration, Office of Disability Determinations.

Security classification:

None.

System Location:

Offices of State Disability Determination Services (DDS) may currently maintain this type of file. Contact the system manager at the address below or access http://www.socialsecurity.gov/foia/bluebook/app_b.htm for the name and address of each State DDS and the Federal Disability Determination Services (FDDS).

Categories of individuals covered by the system:

Physicians who have expressed a willingness to conduct consultative examinations for the DDS and, in some instances, other physicians with whom the DDS has contact. The latter are usually treating physicians. This file also includes, but is not limited to, psychologists, social workers, nurses, audiologists and vocational consultants who express a willingness to conduct some type of consultative service for the DDS.

Categories of records in the system:

Information relative to a consultant's specialty, past experience as to the promptness with which reports are submitted, general thoroughness of reports, fees received, etc., and perhaps comments on the consultant's own preferences (such as appointment hours, etc.).

Authority for maintenance of the system:

5 U.S.C. 301, 30 U.S.C. 923(b), and sections 221 and 1633 of the Social Security Act (42 U.S.C. 421 and 1383b).

Purpose(s):

DDS personnel use this information in the selection of a consultant when additional medical or vocational evidence is needed for claims under Titles II and XVI of the Social Security Act.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from the office made at the request of the subject of a record.

2. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) the United States or any agency thereof where SSA determines that the litigation is likely to affect the operations of SSA or any of its components,is a party to litigation or has an interest in such litigation, and SSA determines that the use of such records by DOJ, a court or other tribunal, or another party before such tribunal, is relevant and necessary to the litigation, provided, however, that in each case, SSA determines that such disclosure is compatible with the purpose for which the records were collected.

3. To contractors and other Federal agencies, as necessary, for the purpose of assisting the Social Security Administration (SSA) in the efficient administration of its programs. We will disclose information under this routine use only in situations in which SSA may enter into a contractual or similar agreement with a third party to assist in accomplishing an agency function relating to this system of records.

4. To the General Services Administration and the National Archives Records Administration (NARA) under 44 U.S.C. 2904 and 2906, as amended by the NARA Act of 1984, information which is not restricted from disclosure by Federal law for the use of those agencies in conducting records management studies.

5. To student volunteers, individuals working under a personal services contract, and other workers who technically do not have the status of Federal employees, when they are performing work for the Social Security Administration (SSA), as authorized by law, and they need access to personally identifiable information in SSA records in order to perform their assigned Agency functions.

6. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Each DDS maintains its own records and the method of storage may vary from State to State and within the FDDS. Generally, the information is on a file card maintained in a standard card file cabinet. However, some States may use an automated format.

Retrievability:

Records are retrieved by consultant's surname.

Safeguards:

Only authorized SSA and DDS personnel have access to these records. Personal information other than the name of the consultant is subject to the disclosure restrictions of 5 U.S.C. 552(b)(6), 21 U.S.C. 1175, and 42 U.S.C. 1306. Access http://www.socialsecurity.gov/foia/bluebook/app_g.htm for additional information relating to SSA data security measures.

Retention and disposal:

DDS policy as to retention and disposal varies from State to State and within the FDDS, but generally, the file is destroyed upon death, retirement or relocation of the consultant.

System manager(s) and address(es):

Social Security Administration, Associate Commissioner, Office of Disability Determinations, 6401 Security Boulevard, Baltimore, Maryland 21235.

Notification procedures:

An individual can determine if this system contains a record about him/her by providing name and address to the DDS Administrator, c/o the State in which he or she resides and/or information is likely to be maintained (contact the system manager at the address above or access http://www.socialsecurity.gov/foia/bluebook/app_b.htm for address information).

An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with the Social Security Administration (SSA) and the requesting individual in the same phone call. SSA will establish the subject individual's identity (his/her name, Social Security number, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters also should reasonably specify the record contents being sought. These access procedures are in accordance with SSA Regulations (20 CFR 401.40(c)).

Contesting record procedures:

Same as Notification procedures. Requesters also should reasonably identify the record, specify the information they are contesting and the corrective action sought, and the reasons for the correction, with supporting justification showing how the record is incomplete, untimely, inaccurate or irrelevant. These procedures are in accordance with SSA Regulations (20 CFR 401.65(a)).

Record source categories:

Information is obtained mostly from the consultant. Observations of DDS personnel about the consultant, such as the individual's general promptness in filing reports, may occasionally be found in a consultant's file.

Systems exempted from certain provisions of the Privacy Act:

None.

SYSTEM NUMBER: 60-0050

System name:

Completed Determination Record—Continuing Disability Determinations, Social Security Administration, Office of Disability Determinations.

Security classification:

None.

System Location:

Social Security Administration, Office of Systems, 6401 Security Boulevard, Baltimore, MD 21235.

Categories of individuals covered by the system:

This file contains a record on allowed disability claimants on which a continuing disability issue has occurred and a decision of continuance or cessation has been approved. This file also covers Title II and Title XVI disability beneficiaries who have been selected to receive a Ticket-to-Work as part of the Ticket-to-Work and Self-Sufficiency Program.

Categories of records in the system:

Name and Social Security number (SSN) of the individual and other data such as date of birth, district office and State agency code, date disability began, type of claim, reason for reopening, continuance or cessation code, date of termination (if applicable), date of completion, etc. In addition, data related to the Ticket-to-Work program, such as Ticket eligibility, receipt, assignment and use, alleged and verified earnings and suspension of continuing disability determinations.

Authority for maintenance of the system:

Sections 221 and 1148 of the Social Security Act (42 U.S.C. 421 and 1320b-19).

Purpose(s):

This system is used by the Social Security Administration (SSA) to (1) record the result of continuing disability investigations, and (2) record information related to the administration of the Ticket-to-Work and Self-Sufficiency Program.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service IRS, or IRS regulations.

1. To a congressional office in response to an inquiry from the office made at the request of the subject of a record.

2. To the Internal Revenue Service, Department of the Treasury, as necessary, for the purpose of auditing the Social Security Administration's compliance with the safeguard provisions of the Internal Revenue Code of 1986, as amended.

3. To contractors and other Federal agencies, as necessary, for the purpose of assisting the Social Security Administration (SSA) in the efficient administration of its programs. We will disclose information under this routine use only in situations in which SSA may enter into a contractual or similar agreement with a third party to assist in accomplishing an agency function relating to this system of records.

4. To the General Services Administration and the National Archives Records Administration (NARA) under 44 U.S.C. 2904 and 2906, as amended by the NARA Act of 1984, information which is not restricted from disclosure by Federal law for the use of those agencies in conducting records management studies.

5. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

6. To student volunteers, individuals working under a personal services contract, and other workers who technically do not have the status of Federal employees, when they are performing work for the Social Security Administration (SSA), as authorized by law, and they need access to personally identifiable information in SSA records in order to perform their assigned Agency functions.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

8. To contractors for the purpose of assisting SSA in the efficient administration of the Ticket-to-Work and Self-Sufficiency Program. (These contractors would be limited to the Program Manager, which is directly assisting the Social Security Administration (SSA) in administering the Ticket program, and to Employment Networks, which are providing services to SSA beneficiaries under the Ticket program.)

9. To a Federal, State, or congressional support agency (e.g., Congressional Budget Office and the Congressional Research Staff in the Library of Congress) for research, evaluation, or statistical studies. Such disclosures include, but are not limited to, release of information in assessing the extent to which one can predict eligibility for Supplemental Security Income (SSI) payments or Social Security disability insurance benefits; examining the distribution of Social Security benefits by economic and demographic groups and how these differences might be affected by possible changes in policy; analyzing the interaction of economic and non-economic variables affecting entry and exit events and duration in the Title II Old Age, Survivors, and Disability Insurance and the Title XVI SSI disability programs; and, analyzing retirement decisions focusing on the role of Social Security benefit amounts, automatic benefit recomputation, the delayed retirement credit, and the retirement test, if the Social Security Administration (SSA):

(a) Determines that the routine use does not violate legal limitations under which the record was provided, collected, or obtained;

(b) Determines that the purpose for which the proposed use is to be made:

(i) Cannot reasonably be accomplished unless the record is provided in a form that identifies individuals;

(ii) Is of sufficient importance to warrant the effect on, or risk to, the privacy of the individual which such limited additional exposure of the record might bring;

(iii) Has reasonable probability that the objective of the use would be accomplished;

(iv) Is of importance to the Social Security program or the Social Security beneficiaries or is for an epidemiological research project that relates to the Social Security program or beneficiaries;

(c) Requires the recipient of information to:

(i) Establish appropriate administrative, technical, and physical safeguards to prevent unauthorized use or disclosure of the record and agree to on-site inspection by SSA's personnel, its agents, or by independent agents of the recipient agency of those safeguards;

(ii) Remove or destroy the information that enables the individual to be identified at the earliest time at which removal or destruction can be accomplished consistent with the purpose of the project, unless the recipient receives written authorization from SSA that it is justified, based on research objectives, for retaining such information;

(iii) Make no further use of the records except:

(1) Under emergency circumstances affecting the health and safety of any individual, following written authorization from SSA;

(2) For disclosure to an identified person, approved by SSA, for the purpose of auditing the research project;

(iv) Keep the data as a system of statistical records. A statistical record is one which is maintained only for statistical and research purposes and which is not used to make any determination about an individual;

(d) Secures a written statement by the recipient of the information attesting to the recipient's understanding of, and willingness to abide by, these provisions.

Policies and practices for storing, retrieving, accessing, retaining, and disposing of records in the system:

Storage:

Records are maintained in magnetic media (e.g., magnetic tapes).

Retrievability:

The records are retrieved by the SSN.

Safeguards:

Only authorized personnel having a need for this information in the performance of their official duties have access to this data under stringent security measures involving guards, building passes and photographs, etc. Access http://www.socialsecurity.gov/foia/bluebook/app_g.htm for additional information relating to SSA data security measures.

Retention and disposal:

The records are maintained indefinitely.

System manager(s) and address(es):

Social Security Administration, Office of Disability Determinations, 6401 Security Boulevard, Baltimore, Maryland 21235.

Notification procedures:

An individual can determine if this system contains a record about him/her by contacting the system manager at the address shown above and furnishing his or her name, SSN, approximate date and place claim was filed, type of claim (DI, BL, or SSI), and return address. (Furnishing the SSN is voluntary, but it will make searching for an individual's record easier and avoid delay.)

An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

An individual who requests access to his or her medical record must also name a representative in writing. The representative may be a physician, other health professional, or other responsible individual who would be willing to explain the contents of the medical record(s) before giving the entire medical record(s) to the individual. These procedures are in accordance with SSA Regulations (20 CFR 401.40(c) and 401.55).

A parent or guardian who requests notification of, or access to, a minor's medical record shall, at the time he/she makes the request, designate a physician or other health professional (other than a family member) who will be willing to explain the contents of the medical record(s) before giving the entire medical record(s) to the parent or guardian. These procedures are in accordance with SSA Regulations (20 CFR 401.40(c) and 401.55).

Record access procedures:

Same as Notification procedures. Requesters also should reasonably specify the record contents being sought. These access procedures are in accordance with SSA Regulations (20 CFR 401.40(c) and 401.55).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

These records summarize information contained in the claims folder which was obtained from the individual or someone acting on the individual's behalf and from this individual's physician or a physician performing a consultative examination or from hospitals and other treatment sources.

Systems exempted from certain provisions of the Privacy Act:

None.

SYSTEM NUMBER: 60-0058

System name:

Master Files of Social Security Number (SSN) Holders and SSN Applications, Social Security Administration, Office of Systems.

Security classification:

None.

System Location:

Social Security Administration, Office of Telecommunications and Systems Operations, 6401 Security Boulevard, Baltimore, Maryland 21235.

Social Security Administration, Office of Central Operations, Metro West Building, 300 N. Greene Street, Baltimore, Maryland 21201.

Records may also be maintained at contractor sites (contact the system manager at the address below to obtain contractor addresses).

Categories of individuals covered by the system:

This system contains a record of each individual who has applied for and been assigned a Social Security number (SSN). Also, each individual who applied for an SSN, but was not assigned one due to the following:

• His/her application was supported by documents which are suspected to be fraudulent and are being verified with the issuing agency, or have been determined to be fraudulent, or

• Fraud is not suspected, but further verification of information on his/her application or additional supporting documents are needed, or

• None of the above applies, but processing of the application has not yet been completed.

Categories of in the system:

This system contains:

• All of the information received on applications for SSNs (e.g., name, date and place of birth, sex, both parents' names, and race/ethnic data) (in the case of an application for an SSN for an individual who has not attained the age of 18, the SSNs of the parents are maintained), and any changes in the information on the applications that are submitted by the SSN holders;

• Information from applications supported by evidence suspected or determined to be fraudulent, along with the mailing addresses of the individuals who filed such applications and descriptions of the documentation they submitted;

• Cross-references where multiple numbers have been issued to the same individual;

• Form code that identifies the form SS-5 (Application for a Social Security Number) as the application for the initial issuance of an SSN, or for changing the identifying information (e.g., a code indicating original issuance of the SSN, or that the application was enumeration at birth);

• Citizenship code that identifies the number holder status as a U.S. citizen or the work authorization of a noncitizen;

• Special indicator code that identifies type or questionable data or special circumstance concerning an application for an SSN (e.g., false identity; illegal alien; scrambled earnings; SSN assigned based on harassment, abuse or life endangerment); and

• An indication that a benefit claim has been made under a particular SSN(s).

Authority for maintenance of the system:

Sections 205(a) and 205(c)(2) of the Social Security Act (42 U.S.C. 405(a) and 405(c)(2)).

Purpose(s):

Information in this system is used by the Social Security Administration (SSA) to assign SSNs. The information also is used for a number of administrative purposes, such as:

• By SSA components for various Old Age, Survivors and Disability Insurance, Supplemental Security Income, and Medicare/Medicaid claims purposes including usage of the SSN itself as a case control number and a secondary beneficiary cross-reference control number for enforcement purposes and use of the SSN record data for verification of claimant identity factors and for other claims purposes related to establishing benefit entitlement;

• By SSA as a basic control for retained earnings information;

• By SSA as a basic control and data source to prevent issuance of multiple SSNs;

• As the means to identify reported names or SSNs on earnings reports;

• For resolution of earnings discrepancy cases;

• For statistical studies;

• By the Office of the Inspector General, Office of Audit, for auditing benefit payments under Social Security programs;

• By the Department of Health and Human Services (DHHS), Office of Child Support Enforcement for locating parents who owe child support;

• By the National Institute of Occupational Safety and Health for epidemiological research studies required by the Occupational Safety and Health Act of 1974;

• By the DHHS Office of Refugee Resettlement for administering Cuban refugee assistance payments;

• By the DHHS Centers for Medicare and Medicaid Services (CMS) for administering Titles XVIII and XIX claims.

• By the Secretary of the Treasury for use in administering those sections of the Internal Revenue Code of 1986 which grant tax benefits based on support or residence of children. (Applies specifically to SSNs of parents provided on applications for SSNs for individuals who have not attained the age of 18); and

• By SSA to prevent the processing of an SSN card application for an individual whose application is identified as having been supported by evidence that either:

—Is suspect and being verified, or

—Has been determined to be fraudulent.

With this system in place, clerical investigation and intervention is required. Social Security offices are alerted when an applicant attempting to obtain an SSN card visits other offices in an attempt to find one which might unwittingly accept fraudulent documentation.

Routine uses of records maintained in the system, including categories of users and the purposes of such uses:

Disclosure may be made for routine uses as indicated below. However, disclosure of any information defined as “return or return information” under 26 U.S.C. 6103 of the Internal Revenue Code will not be disclosed unless authorized by statute, the Internal Revenue Service IRS, or IRS regulations.

1. To employers in order to complete their records for reporting wages to SSA pursuant to the Federal Insurance Contributions Act and section 218 of the Social Security Act.

2. To Federal, State and local entities for the purpose of administering income-maintenance and health-maintenance programs, where such use of the Social Security number is authorized by Federal statute.

3. To the Department of Justice, Federal Bureau of Investigation and United States Attorneys Offices, and to the Department of the Treasury, United States Secret Service, for investigating and prosecuting violations of the Social Security Act.

4. To the Department of Homeland Security, United States Citizenship and Immigration Services, for identifying and locating aliens in the United States pursuant to requests received under section 290(b) of the Immigration and Nationality Act (8 U.S.C. 1360(b)).

5. To a contractor for the purpose of collating, evaluating, analyzing, aggregating or otherwise refining records when the Social Security Administration contracts with a private firm. (The contractor shall be required to maintain Privacy Act safeguards with respect to such records.)

6. To the Railroad Retirement Board for:

(a) Administering provisions of the Railroad Retirement and Social Security Act relating to railroad employment; and

(b) Administering the Railroad Unemployment Insurance Act.

7. To the Department of Energy for its epidemiological research study of the long-term effects of low-level radiation exposure, as permitted by Social Security Administration Regulations 20 CFR 401.150(c).

8. To the Department of the Treasury for:

(a) Tax administration as defined in section 6103 of the Internal Revenue Code (IRC) (26 U.S.C. 6103);

(b) Investigating the alleged theft, forgery, or unlawful negotiation of Social Security checks; and

(c) Administering those sections of the IRC which grants tax benefits based on support or residence of children. (As required by section 1090(b) of the Taxpayer Relief Act of 1997, Pub. L. 105-34, this routine use applies specifically to the Social Security numbers (SSN) of parents shown on an application for an SSN for an individual who has not attained the age of 18.

9. To a congressional office in response to an inquiry from the office made at the request of the subject of a record.

10. To the Department of State for administering the Social Security Act in foreign countries through facilities and services of that agency.

11. To the American Institute, a private corporation under contract to the Department of State, for administering the Social Security Act on Taiwan through facilities and services of that agency.

12. To the Department of Veterans Affairs, Regional Office, Manila, Philippines, for administering the Social Security Act in the Philippines and other parts of the Asia-Pacific region through facilities and services of that agency.

13. To the Department of Labor for:

(a) Administering provisions of the Black Lung Benefits Act; and

(b) Conducting studies of the effectiveness of training programs to combat poverty.

14. To Department of Veterans Affairs (DVA) for the following purposes:

(a) For the purpose of validating Social Security numbers of compensation recipients/pensioners in order to provide the release of accurate pension/compensation data by DVA to the Social Security Administration for Social Security program purposes; and

(b) Upon request, for purposes of determining eligibility for or amount of DVA benefits, or verifying other information with respect thereto.

15. To Federal agencies which use the Social Security number (SSN) as a numerical identifier in their record-keeping systems, for the purpose of validating SSNs.

16. To the Department of Justice (DOJ), a court or other tribunal, or another party before such tribunal when:

(a) The Social Security Administration (SSA), or any component thereof; or

(b) Any SSA employee in his/her official capacity; or

(c) Any SSA employee in his/her individual capacity when DOJ (or SSA when it is authorized to do so) has agreed to represent the employee; or

(d) The United States or any agency thereof when SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

17. To State audit agencies for auditing State supplementation payments and Medicaid eligibility considerations.

18. To the Social Security agency of a foreign country to carry out the purpose of an international Social Security agreement entered into between the United States and the other country, pursuant to section 233 of the Social Security Act.

19. To Federal, State, or local agencies (or agents on their behalf) for the purpose of validating Social Security numbers used in administering cash or non-cash income maintenance programs or health maintenance programs (including programs under the Social Security Act).

20. To third party contacts (e.g., State bureaus of vital statistics and the Department of Homeland Security that issue documents to individuals) when the party to be contacted has, or is expected to have, information which will verify documents when the Social Security Administration is unable to determine if such documents are authentic.

21. To the Department of Justice, Criminal Division, Office of Special Investigations, upon receipt of a request for information pertaining to the identity and location of aliens for the purpose of detecting, investigating, and, when appropriate, taking legal action against suspected Nazi war criminals in the United States.

22. To the Selective Service System for the purpose of enforcing draft registration pursuant to the provisions of the Military Selective Service Act (50 U.S.C. App. 462, as amended by section 916 of Pub. L. 97-86).

23. To contractors and other Federal agencies, as necessary, for the purpose of assisting the Social Security Administration (SSA) in the efficient administration of its programs. We will disclose information under this routine use only in situations in which SSA may enter into a contractual or similar agreement with a third party to assist in accomplishing an Agency function relating to this system of records.

24. To organizations or agencies such as prison systems that are required by law to furnish Social Security Administration with validated Social Security number information.

25. To the General Services Administration and the National Archives and Records Administration (NARA) under 44 U.S.C. 2904 and 2906, as amended by the NARA Act of 1984, information which is not restricted from disclosure by Federal law for the use of those agencies in conducting records management studies.

26. To Department of Veterans Affairs (DVA) or third parties under contract to that agency Social Security numbers and dates of birth may be disclosed for the purpose of conducting DVA medical research and epidemiological studies.

27. To the Office of Personnel Management (OPM) upon receipt of a request from that agency in accordance with 5 U.S.C. 8347(m)(3), Social Security number information when OPM needs the information to administer its pension program for retired Federal Civil Service employees.

28. To the Department of Education, upon request, verification of Social Security numbers which are provided by students to postsecondary educational institutions, as required by Title IV of the Higher Education Act of 1965 (20 U.S.C. 1091).

29. To student volunteers, individuals working under a personal services contract, and other workers who technically do not have the status of Federal employees, when they are performing work for the Social Security Administration (SSA), as authorized by law, and they need access to personally identifiable information in SSA records in order to perform their assigned Agency functions.

30. To Federal, State, and local law enforcement agencies and private security contractors, as appropriate, information necessary:

(a) To enable them to protect the safety of Social Security Administration (SSA) employees and customers, the security of the SSA workplace and the operation of SSA facilities; or

(b) To assist investigations or prosecutions with respect to activities that affect such safety and security or activities that disrupt the operation of SSA facilities.

31. To recipients of erroneous Death Master File (DMF) information, corrections to information that resulted in erroneous inclusion of individuals in the DMF.

32. To State vital records and statistics agencies, the Social Security numbers of newborn children for administering public health and income maintenance programs, including conducting statistical studies and evaluation projects.

33. To State motor vehicle agencies (MVA), verification of personal identification data (i.e., name, Social Security number, and date of birth) concerning individuals who apply for, or are issued, drivers' licenses or other identification documents. In performing such “verification,” the Social Security Administration (SSA) may indicate whether the identifying data furnished by a State MVA concerning an individual match, or do not match, data maintained in this system of records, and SSA may identify the particular data elements that do not match. SSA will not disclose information from this system of records which does not match the information furnished by the State MVA.

34. To entities conducting epidemiological or similar research projects, upon request, information as to whether an individual is alive or deceased pursuant to section 1106(d) of the Social Security Act (42 U.S.C. 1306(d)), provided that:

(a) The Social Security Administration (SSA) determines, in consultation with the Department of Health and Human Services, that the research may reasonably be expected to contribute to a national health interest; and

(b) The requester agrees to reimburse SSA for the costs of providing the information; and

(c) The requester agrees to comply with any safeguards and limitations specified by SSA regarding re-release or re-disclosure of the information.

35. To employers in connection with a pilot program, conducted with the Department of Homeland Security under 8 U.S.C. 1324a(d)(4) to test methods of verifying that individuals are authorized to work in the United States, the Social Security Administration will inform an employer participating in such pilot program that the identifying data (Social Security number, name and date of birth) furnished by an employer concerning a particular employee match, or do not match, the data maintained in this system of records, and when there is such a match, that information in this system of records indicates that the employee is, or is not, a citizen of the United States.

36. To a State bureau of vital statistics (BVS) that is authorized by States to issue electronic death reports when the State BVS requests the Social Security Administration to verify the Social Security number (SSN) of an individual on whom an electronic death report will be filed after SSN verification.

37. To the Department of Defense (DOD) validated Social Security number information and citizenship status information for the purpose of assisting DOD in identifying those members of the Armed Forces and military enrollees who are aliens or noncitizen nationals that may qualify for expedited naturalization or citizenship processing. These disclosures will be made pursuant to requests made under section 329 of the Immigration and Nationality Act, 8 U.S.C. 1440, as executed by Executive Order 13269.

38. To a Federal, State, or congressional support agency (e.g., Congressional Budget Office and the Congressional Research Staff in the Library of Congress) for research, evaluation, or statistical studies. Such disclosures include, but are not limited to, release of information in assessing the extent to which one can predict eligibility for Supplemental Security Income (SSI) payments or Social Security disability insurance benefits; examining the distribution of Social Security benefits by economic and demographic groups and how these differences might be affected by possible changes in policy; analyzing the interaction of economic and non-economic variables affecting entry and exit events and duration in the Title II Old Age, Survivors, and Disability Insurance and the Title XVI SSI disability programs; and, analyzing retirement decisions focusing on the role of Social Security benefit amounts, automatic benefit recomputation, the delayed retirement credit, and the retirement test, if the Social Security Administration (SSA):

(a) Determines that the routine use does not violate legal limitations under which the record was provided, collected, or obtained;

(b) Determines that the purpose for which the proposed use is to be made:

(i) Cannot reasonably be accomplished unless the record is provided in a form that identifies individuals;

(ii) Is of sufficient importance to warrant the effect on, or risk to, the privacy of the individual which such limited additional exposure of the record might bring;

(iii) Has reasonable probability that the objective of the use would be accomplished;

(iv) Is of importance to the Social Security program or the Social Security beneficiaries or is for an epidemiological research project that relates to the Social Security program or beneficiaries;

(c) Requires the recipient of information to:

(i) Establish appropriate administrative, technical, and physical safeguards to prevent unauthorized use or disclosure of the record and agree to on-site inspection by SSA's personnel, its agents, or by independent agents of the recipient agency of those safeguards;

(ii) Remove or destroy the information that enables the individual to be identified at the earliest time at which removal or destruction can be accomplished consistent with the purpose of the project, unless the recipient receives written authorization from SSA that it is justified, based on research objectives, for retaining such information;

(iii) Make no further use of the records except:

(1) Under emergency circumstances affecting the health and safety of any individual, following written authorization from SSA;

(2) For disclosure to an identified person approved by SSA for the purpose of auditing the research project;

(iv) Keep the data as a system of statistical records. A statistical record is one which is maintained only for statistical and research purposes and which is not used to make any determination about an individual;

(d) Secures a written statement by the recipient of the information attesting to the recipient's understanding of, and willingness to abide by, these provisions.

39. To State and Territory Motor Vehicle Administration officials (or agents or contractors on their behalf) and State and Territory chief election officials to verify the accuracy of information provided by the State agency with respect to applications for voter registration, for whom the last four digits of the Social Security number are provided instead of a driver's license number.

40. To State and Territory Motor Vehicle Administration officials (or agents or contractors on their behalf) and State and Territory chief election officials, under the provisions of section 205(r)(8) of the Social Security Act (42 U.S.C. 408(r)(8)), to verify the accuracy of information provided by the State agency with respect to applications for voter registration for those individuals who do not have a driver's license number:

(a) For whom the last four digits of the Social Security number (SSN) are provided, or

(b) For whom the full SSN is provided in accordance with section 7 of the Privacy Act (5 U.S.C. 552a note), as described in section 303(a)(5)(D) of the Help America Vote Act of 2002 (42 U.S.C. 15483(a)(5)(D).

41. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records in this system are maintained in paper form (e.g., Forms SS-5 (Application for an SSN card), and system generated forms); magnetic media (e.g., magnetic tape and disc with on-line access); in microfilm and microfiche form and on electronic files (e.g., NUMIDENT and Alpha-Index).

Retrievability:

Records of SSN holders are indexed by both SSN and name. Records of applications that have been denied because the applicant submitted fraudulent evidence, or that are being verified because the evidence is suspected to be fraudulent, are indexed either by the applicant's name plus month and year of birth, or by the applicant's name plus the eleven-digit reference number of the disallowed application.

Safeguards:

Safeguards for automated records have been established in accordance with the Systems Security Handbook. This includes maintaining the magnetic tapes and discs within a secured enclosure attended by security guards. Anyone entering or leaving this enclosure must have a special badge issued only to authorized personnel.

For computerized records electronically transmitted between Central Office and Field Office locations (including organizations administering SSA programs under contractual agreements), safeguards include a lock/unlock password system, exclusive use of leased telephone lines, a terminal-oriented transaction matrix, and an audit trail. All microfilm, microfiche, and paper files are accessible only by authorized personnel who have a need for the records in the performance of their official duties.

Expansion and improvement of SSA telecommunications systems has resulted in the acquisition of terminals equipped with physical key locks. The terminals also are fitted with adapters to permit the future installation of data encryption devices and devices to permit the identification of terminal users. Access http://www.socialsecurity.gov/foia/bluebook/app_g.htm for additional information relating to SSA data security measures.

Retention and disposal:

Most paper forms are retained only until they have been filmed and verified for accuracy. They then are destroyed by shredding. Electronic, as well as updated microfilm and microfiche records, are retained indefinitely. All tape, discs, microfilm and microfiche files are updated periodically. Out-of-date magnetic tapes and discs are erased. Out-of-date microfiches are disposed of by shredding.

System manager(s) and address(es):

Director, Division of Enumeration Verification and Death Alerts, Office of Earnings, Enumeration and Administrative Systems, Social Security Administration, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents they are seeking. These procedures are in accordance with SSA Regulations (20 CFR 401.40(c)).

Contesting record procedures:

Same as Notification procedures. Requesters should also reasonably identify the record, specify the information they are contesting and the corrective action sought, and the reasons for the correction, with supporting justification showing how the record is untimely, incomplete, inaccurate or irrelevant. These procedures are in accordance with SSA Regulations (20 CFR 401.65(a)).

Record source categories:

Information in this system is obtained from SSN applicants (or individuals acting on their behalf) and generated internally by SSA. The SSN itself is assigned to the individual as a result of internal processes of this system.

System exemptions from certain provisions of the Privacy Act:

None.

SYSTEM NUMBER: 60-0059

System Name:

Earnings Recording and Self-Employment Income System, Social Security Administration, Office of Systems.

Security classification:

None.

System Location:

Social Security Administration, Office of Systems, 6401 Security Boulevard, Baltimore, Maryland 21235.

Social Security Administration, Office of Earnings, Enumerations and Administrative Systems, 6401 Security Boulevard, Baltimore, Maryland 21235.

Social Security Administration, Office of Central Operations, Metro West Building, 300 North Greene Street, Baltimore, Maryland 21201.

Records also may be located at contractor sites and in Social Security Administration (SSA) program service centers (PSC) (contact the system manager at the address below for contractor and PSC addresses).

Categories of individuals covered by the system:

This system contains information about individuals who have been issued a Social Security number (SSN) and who may or may not have earnings under Social Security; or any person requesting, reporting, changing and/or inquiring about earnings information; or any person affected by the Coal Industry Retiree Health Benefit Act of 1992; or any person having a vested interest in a private pension fund.

Categories of in the system:

This system contains records of every SSN holder, his/her name, date of birth, sex, and race/ethnic data and a summary of his/her yearly earnings and quarters of coverage; special employment codes (i.e., self-employment, military, agriculture, and railroad); benefit status information; employer identification (i.e., employer identification numbers and pension plan numbers); minister waiver forms (i.e., forms filed by the clergy for the election or waiver of coverage under the Social Security Act); correspondence received from individuals pertaining to the above-mentioned items; the replies to such correspondence; information about miners and their families needed to administer the Coal Industry Retiree Health Benefit Act of 1992 and pension plan information (i.e., nature, form, and amount of vested benefits); and information about the period during which an employee or self-employed person is exempt from coverage and taxes under the social security system of a foreign country as a result of a Social Security agreement between the United States and that foreign country.

Authority for maintenance of the system:

Sections 205(a) and 205(c)(2) and 233 of the Social Security Act (42 U.S.C. 405 and 433), the Federal Records Act of 1950 (64 Stat. 583), and the Employee Retirement Income Security Act of 1974 (Pub. L. 93-406), and the Coal Industry Retiree Health Benefit Act of 1992 (Pub. L. 102-486, 106 Stat. 2776).

Purpose(s):

This system is used for the following purposes:

• As a primary working record file of all SSN holders;

• As a quarterly record detail file to provide full data in wage investigation cases;

• To provide information for determining amount of benefits;

• To record all incorrect or incomplete earnings items;

• To reinstate incorrectly or incompletely reported earnings items;

• To record the latest employer of a wage earner;

• For statistical studies;

• For identification of possible overpayments of benefits;

• For identification of individuals entitled to additional benefits;

• To provide information to employers/former employers for correcting or reconstructing earnings records and for Social Security tax purposes;

• To provide workers and self-employed individuals with earnings statements or quarters of coverage statements;

• To provide information to SSA's Office of the Inspector General for auditing benefit payments under Social Security programs;

• To provide information to the National Institute for Occupational Safety and Health for epidemiological research studies required by the Occupational Health and Safety Act of 1974;

• To assist SSA in responding to general inquiries about Social Security, including earnings or adjustments to earnings, and in preparing responses to subsequent inquiries;

• To store minister waivers, thus preventing erroneous payment of Social Security benefits;

• To make assignments of responsibility for paying premiums and to perform other functions under the Coal Industry Retiree Health Benefit Act of 1992;

• To issue certificates of coverage forms for United States citizens and residents who qualify for a foreign coverage exemption under the terms of a Social Security agreement between the United States and another country;

• To determine whether an individual who requests a certificate of coverage, establishing a foreign coverage exemption under a Social Security agreement, has been issued one or more certificates in the past; and

• To respond to inquiries concerning a worker's Social Security coverage status from an appropriate agency in a country which has a Social Security agreement with the United States.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service IRS, or IRS regulations.

1. To employers or former employers, including State Social Security administrators, for correcting and reconstructing State employee earnings records and for Social Security purposes.

2. To the Department of the Treasury for:

(a) Investigating the alleged forgery, or unlawful negotiation of Social Security checks; and

(b) Tax administration as defined in 26 U.S.C. 6103 of the Internal Revenue Code.

3. To the Railroad Retirement Board for administering provisions of the Railroad Retirement and Social Security Acts relating to railroad employment.

4. To the Department of Justice (Federal Bureau of Investigation and United States Attorneys) for investigating and prosecuting violations of the Social Security Act.

5. To a contractor for the purpose of collating, evaluating, analyzing, aggregating or otherwise refining records when the Social Security Administration contracts with a private firm. (The contractor shall be required to maintain Privacy Act safeguards with respect to such records.)

6. To the Department of Energy for their study of low-level radiation exposure.

7. To a congressional office in response to an inquiry from the congressional office made at the request of the subject of a record.

8. To the Department of State for administering the Social Security Act in foreign countries through services and facilities of that agency.

9. To the American Institute, a private corporation under contract to the Department of State, for administering the Social Security Act on Taiwan through facilities and services of that agency.

10. To the Department of Veterans Affairs, Regional Office, Manila, Philippines, for administering the Social Security Act in the Philippines and other parts of the Asia-Pacific region through services and facilities of that agency.

11. To State audit agencies for auditing State supplementation payments and Medicaid eligibility considerations.

12. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

13. To a party named in an order, process, or interrogatory, in accordance with section 459 of the Social Security Act if a designee of the Agency is served with any such order, process, or interrogatory with respect to an individual's child support or alimony payment obligations.

14. To the Social Security Agency of a foreign country, to carry out the purpose of an international Social Security agreement entered into between the United States and the other country, pursuant to section 233 of the Social Security Act.

15. To Federal, State, or local agencies (or agents on their behalf) for the purpose of validating Social Security numbers used in administering cash or non-cash income maintenance programs or health maintenance programs (including programs under the Social Security Act).

16. To officers and employees of Federal, State or local agencies upon written request in accordance with the Internal Revenue Code (IRC) U.S.C. 6103(l)(7)), tax return information (e.g., information with respect to net earnings from self-employment, wages, payments of retirement income which have been disclosed to the Social Security Administration, and business and employment addresses) for purposes of, and to the extent necessary in, determining an individual's eligibility for, or the correct amount of, benefits under certain programs listed in the IRC. These programs are:

(a) Temporary Assistance to Needy Families provided under a State plan approved under part A of Title IV of the Social Security Act;

(b) Medical assistance provided under a State plan approved under Title XIX of the Social Security Act;

(c) Supplemental Security Income benefits provided under Title XVI of the Social Security Act, and federally administered supplementary payments of the type described in section 1616(a) of the Social Security Act (including payments pursuant to an agreement entered into under section 212(a) of Pub. L. 93-66);

(d) Any benefits provided under a State plan approved under Title I, X, XIV, or XVI of the Social Security Act (as those Titles apply to Puerto Rico, Guam and the Virgin Islands);

(e) Unemployment compensation provided under a State law described in section 3304 of the IRC;

(f) Assistance provided under the Food Stamp Act of 1977; and

(g) State-administered supplementary payments of the type described in section 1616(a) of the Social Security Act (including payments pursuant to an agreement entered into under section 212(a) of Pub. L. 93-66).

17. To appropriate officers and employees of a State or local child support enforcement agency, upon written request in accordance with the Internal Revenue Code (26 U.S.C. 6103(l)(8)), tax return information (e.g., information with respect to net earnings from self-employment, wages, payments of retirement income which have been disclosed to the Social Security Administration, and business and employment addresses) for purposes of, and to the extent necessary in:

(a) Establishing and collecting child support obligations from individuals who owe such obligations, and

(b) Locating those individuals under a program established under Title IV-D of the Social Security Act (42 U.S.C. 651ff).

18. To the Office of Personnel Management (OPM) the fact that a veteran is, or is not, eligible for retirement insurance benefits under the Social Security program for OPM's use in determining a veteran's eligibility for a civil service retirement annuity and the amount of such annuity.

19. To the Department of Homeland Security (United States Citizenship and Immigration Services in accordance with 8 U.S.C. 1360(b), employee and employer name and address information for the purpose of informing that agency of the identities and locations of aliens who appear to be illegally employed.

20. To contractors and other Federal agencies, as necessary, for the purpose of assisting the Social Security Administration (SSA) in the efficient administration of its programs. We will disclose information under this routine use only in situations in which SSA may enter into a contractual or similar agreement with a third party to assist in accomplishing an Agency function relating to this system of records.

21. To the Office of Personnel Management information derived from this system for the purpose of computing civil service annuity offsets of civil service annuitants with military service or the survivors of such individuals pursuant to provisions of section 307 of Pub. L. 97-253.

22. To the General Services Administration and the National Archives Records Administration (NARA) under 44 U.S.C. 2904 and 2906, as amended by the NARA Act of 1984, information which is not restricted from disclosure by Federal law for the use of those agencies in conducting records management studies.

23. To the Office of Personnel Management, upon written request, tax return information for the purpose of administering the Civil Service and Federal Employees Retirement Systems in accordance with Chapter 83 and 84 of Title 5, U.S.C.

24. To Rehabilitation Services Administration (RSA) for use in its program studies of, and development of enhancements for, State vocational rehabilitation programs. These are programs to which applicants or beneficiaries under Titles II and/or XVI of the Social Security Act may be referred. Data released to RSA will not include any personally identifying information (such as names or Social Security numbers).

25. To Department of Veterans Affairs in accordance with the Internal Revenue Code (26 U.S.C. 6103(l)(7)), upon written request, tax return information for purposes of, and to the extent necessary for determining eligibility for, or the amount of, benefits under the following programs:

(a) Any needs-based pension provided under chapter 15 of Title 38, U.S.C. or under any other law administered by the Secretary of Veterans Affairs;

(b) Parents' dependency and indemnity compensation provided under section 1315 of Title 38, U.S.C.;

(c) Health-care services furnished under sections 1710(a)(1)(I), 1710(a)(2), 1710(b), and 1712(a)(2)(B) of Title 38, U.S.C.;

(d) Compensation paid under chapter 11 of Title 38, U.S.C., at the 100 percent rate based solely on unemployables and without regard to the fact that the disability or disabilities are not rated as 100 percent disabling under the rating schedule.

The tax return information which may be disclosed under this paragraph includes wages, net earnings from self-employment, payments of retirement income which have been disclosed to the Social Security Administration, and business and employment addresses, except that information on payments of retirement income will not be disclosed for use with respect to programs described in subparagraph (d).

26. To trustees of the United Mine Workers of America Combined Benefit Fund pursuant to section 9706(e)(1) of the Internal Revenue Code as added by the Coal Industry Retiree. Health Benefit Act of 1992, Pub. L. 102-486, 106 Stat. 2776 (codified at 26 U.S.C. 9701-9721 (1992)), the identity of each coal industry assigned operator determined to be responsible for annual premiums, and the names and Social Security numbers of eligible beneficiaries with respect to whom the operator is identified.

27. To the United Mine Workers of America Combined Benefit Fund pursuant to section 9706(e)(2) of the Internal Revenue Code as added by the Coal Industry Retiree Health Benefit Act of 1992, Pub. L. 102-486, 106 Stat. 2776 (codified at 26 U.S.C. 9701-9721 (1992)), the names and Social Security numbers of eligible beneficiaries who have been assigned to a coal industry assigned operator responsible for that individual's annual premiums payable and a brief summary of the facts related to the basis for such assignments.

28. To the coal industry assigned operator determined to be responsible for an individual's annual premiums payable to the United Mine Workers of America Combined Benefit Fund pursuant to section 9706(f)(1) of the Internal Revenue Code as added by the Coal Industry Retiree Health Benefit Act of 1992, Pub. L. 102-486, 106 Stat. 2776 (codified at 26 U.S.C. 9701-9721 (1992)), detailed information from an individual's work history and other detailed information as to the basis for the assignment of that individual.

29. To student volunteers, individuals working under a personal services contract, and other workers who technically do not have the status of Federal employees, when they are performing work for the Social Security Administration (SSA), as authorized by law, and they need access to personally identifiable information in SSA records in order to perform their assigned Agency functions.

30. To entities conducting epidemiological or similar research projects, upon request, information as to whether an individual is alive or deceased pursuant to section 1106(d) of the Social Security Act (42 U.S.C. 1306(d)), provided that:

(a) The Social Security Administration (SSA) determines, in consultation with the Department of Health and Human Services, that the research may reasonably be expected to contribute to a national health interest; and

(b) The requester agrees to reimburse SSA for the costs of providing the information; and

(c) The requester agrees to comply with any safeguards and limitations specified by SSA regarding re-release or re-disclosure of the information.

31. To Federal, State, and local agencies for determining alien applicants' eligibility for programs or benefit programs covered by sections 402, 412, 421 and/or 435 of the Personal Responsibility and Work Opportunity Reconciliation Act of 1996, Pub. L. 104-193, SSA will disclose information regarding quarters of coverage (non-tax return information) earned by:

• The alien applicant;

• His/her parents while the alien was under age 18; and/or

• His/her spouse during the marriage (if the alien remains married to such spouse or the marriage ended with the death of the spouse).

32. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

33. To the Department of Housing and Urban Development (HUD) in accordance with the Internal Revenue Code (26 U.S.C. 6103(l)(7)), upon written request, tax return information (e.g., information with respect to wages, net earnings from self-employment, and payments of retirement income which have been disclosed to the Social Security Administration,) for use by HUD in an initial or periodic review of the income of an applicant or participant in any HUD housing assistance program.

34. To any source that has, or is expected to have, information that the Social Security Administration needs in order to establish or verify a person's eligibility for a certificate of coverage under a Social Security agreement authorized by section 233 of the Social Security Act.

Policies and practices for storing, retrieving, accessing, retaining, and disposing of records in the system:

Storage:

Records in this system are maintained as paper forms, correspondence in manila folders on open shelving, paper lists, punch-cards, microfilm, magnetic tapes, and discs with online access files.

Retrievability:

Records in this system are indexed by SSN, name, and employer identification number.

Safeguards:

Safeguards for automated records have been established in accordance with the Systems Security Handbook. This includes maintaining the magnetic tapes and discs within an enclosure attended by security guards. Anyone entering or leaving this enclosure must have a special badge issued only to authorized personnel.

For computerized records electronically transmitted between Central Office and field office locations (including organizations administering SSA programs under contractual agreements), safeguards include a lock/unlock password system, exclusive use of leased telephone lines, a terminal-oriented transaction matrix, and an audit trail. All microfilm and paper files are accessible only by authorized personnel who have a need for the information in the performance of their official duties.

Expansion and improvement of SSA's telecommunications systems has resulted in the acquisition of terminals equipped with physical key locks. The terminals also are fitted with adapters to permit the future installation of data encryption devices and devices to permit the identification of terminal users. Access http://www.socialsecurity.gov/foia/bluebook/app_g.htm for additional information relating to SSA data security measures.

Retention and disposal:

All paper forms and cards are retained until they are filmed or are entered on tape and their accuracy is verified. Then they are destroyed by shredding. All tapes, discs, and microfilm files are updated periodically. The out-of-date magnetic tapes and discs are erased. The out-of-date microfilm is shredded.

SSA retains correspondence for 1 year when it concerns documents returned to an individual, denials of confidential information, release of confidential information to an authorized third party and undeliverable material, for 4 years when it concerns information and evidence pertaining to coverage, wage, and self-employment determinations or when the statute of limitations is involved, and permanently when it affects future claims development especially coverage, wage, and self-employment determinations. Correspondence is destroyed, when appropriate, by shredding.

System manager(s) and address(es):

Director, Division of Earnings Correction and Use, Office of Earnings, Enumeration and Administration Systems, Social Security Administration, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents they are seeking. These procedures are in accordance with SSA Regulations (20 CFR 401.40(c)).

Contesting record procedures:

Same as Notification procedures. Also, requesters should reasonably identify the record, specify the information they are contesting and the corrective action sought, and the reasons for the correction, with supporting justification showing how the record is untimely, incomplete, inaccurate or irrelevant. These procedures are in accordance with SSA Regulations (20 CFR 401.65(a)).

Record source categories:

SSN applicants, employers and self-employed individuals; DOJ, the Department of Homeland Security (United States Citizenship and Immigration Services); the Department of Treasury; the United Mine Workers of America Combined Benefit Fund; an existing system of records maintained by SSA, Master Beneficiary Record, 60-0090; correspondence, replies to correspondence, and earnings modifications resulting from SSA internal processes.

Systems exempted from certain provisions of the Privacy Act:

None.

SYSTEM NUMBER: 60-0077

System name:

Congressional Inquiry File, Social Security Administration, Regional Offices.

Security classification:

None.

System Location:

1. Offices of the Regional Commissioners, Social Security Administration (SSA) (see the system manager section below or access http://www.socialsecurity.gov/foia/bluebook/app_c.htm for address information).

2. Social Security field offices (consult local telephone directories for addresses and telephone numbers).

3. Teleservice centers (contact the system manager at the address below or access http://www.socialsecurity.gov/foia/bluebook/app_e.htm for the addresses of SSA's teleservice centers).

Categories of individuals covered by the system:

This system contains a record of congressional representatives and the individuals about whom they inquire.

Categories of records in the system:

Correspondence to and from congressional representatives.

Authority for maintenance of the system:

Section 205(a) of the Social Security Act (42 U.S.C. 405).

Purpose(s):

This system is used to control and respond to correspondence from congressional representatives.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of the Treasury, Internal Revenue Service, as necessary, for the purpose of auditing the Social Security Administration's compliance with the safeguard provisions of the Internal Revenue Code of 1986, as amended.

3. To Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

4. To the General Services Administration and the National Archives Records Administration (NARA) under 44 U.S.C. 2904 and 2906, as amended by the NARA Act of 1984, information which is not restricted from disclosure by Federal law for the use of those agencies in conducting records management studies.

5. To student volunteers, individuals working under a personal services contract, and other workers who technically do not have the status of Federal employees, when they are performing work for the Social Security Administration (SSA), as authorized by law, and they need access to personally identifiable information in SSA records in order to perform their assigned Agency functions.

6. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records generally are maintained in paper form in manila type folders. However, records also may be maintained in magnetic media (e.g., on disc, microcomputer).

Retrievability:

Records are retrieved alphabetically by the Congressperson's or individual's name.

Safeguards:

These records usually are available to personnel who have a need for them in the performance of their official duties. Access http://www.socialsecurity.gov/foia/bluebook/app_g.htm for additional information relating to SSA data security measures.

Retention and disposal:

These records are generally retained for 6 months to 3 years.

System manager(s) and address(es):

In the Boston Region (Connecticut, Maine, Massachusetts, New Hampshire, Rhode Island, Vermont):

Assistant Regional Commissioner, Field Operations, Office of the Regional Commissioner, Room 1100, John F. Kennedy Federal Building, Boston, MA 02203.

In the New York Region (New Jersey, New York, Puerto Rico, Virgin Islands):

Executive Support Staff, Office of the Regional Commissioner, Room 40-100, 24 Federal Plaza, New York, NY 10278.

In the Philadelphia Region (Delaware, District of Columbia, Maryland, Pennsylvania, Virginia, West Virginia):

Assistant Regional Commissioner for Processing Center Operations, Office of the Regional Commissioner, P.O. Box 8788, Mail Stop 22, Philadelphia, PA 19101.

In the Atlanta Region (Alabama, North Carolina, South Carolina, Florida, Georgia, Kentucky, Mississippi, Tennessee):

Director, Office of Congressional, Governmental and External Affairs, Office of the Regional Commissioner, 101 Marietta Tower, Suite 1902, P.O. Box 1684, Atlanta, GA 30301.

In the Chicago Region (Illinois, Indiana, Michigan, Minnesota, Ohio, Wisconsin):

Regional Public Affairs Office, Office of the Regional Commissioner, 105 W. Adams St., 10th Floor, Chicago, IL 60603.

In the Dallas Region (Arkansas, Louisiana, New Mexico, Oklahoma, Texas):

Executive Officer, Office of the Regional Commissioner, Room 1420, 1200 Main Tower Building, Dallas, TX 75202.

In the Kansas City Region (Iowa, Kansas, Missouri, Nebraska):

Assistant Regional Commissioner, Programs Operations and Systems, Office of the Regional Commissioner, Room 436, Federal Office Building, 601 East 12th Street, Kansas City, MO 64106.

In the Denver Region (Colorado, Montana, North Dakota, South Dakota, Utah, Wyoming):

Assistant Regional Commissioner, Management and Budget, Office of the Regional Commissioner, Federal Office Building, 1961 Stout Street, Denver, CO 80294.

In the San Francisco Region (American Samoa, Arizona, California, Guam, Hawaii, Nevada, Northern Marianna Islands):

Regional Public Affairs Officer, Office of the Regional Commissioner, 75 Hawthorne St., San Francisco, CA 94105.

In the Seattle Region (Alaska, Idaho, Oregon, Washington):

Assistant Regional Commissioner, Field Operations, Office of the Regional Commissioner, M/S RX-52, 2201 Sixth Avenue, Seattle, WA 98121.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents they are seeking. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Information in this system is obtained from congressional representatives.

Systems exempted from certain provisions of the Privacy Act:

None.

SYSTEM NUMBER: 60-0078

System name:

Public Inquiry Correspondence File, Social Security Administration, Regional Offices.

Security classification:

None.

System Location:

1. Offices of the Regional Commissioners, Social Security Administration (SSA) (see system manager section below for address information).

2. Social Security field offices (consult local telephone directories for addresses and telephone numbers).

3. Teleservice centers (contact the system manager at the address below or access http://www.socialsecurity.gov/foia/bluebook/app_e.htm for the addresses of SSA's teleservice centers).

Categories of individuals covered by the system:

Members of the public who make inquiries to SSA, generally regarding benefit information.

Categories of records in the system:

Copies of inquires from the public and replies from SSA, generally regarding benefit information.

Authority for maintenance of the system:

Section 205(a) of the Social Security Act (42 U.S.C. 405).

Purpose(s):

Information is maintained in this file in case an inquirer requests information or files a formal application for benefits. Consequently, the information can be used as a filing date for benefit purposes.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of a record.

2. To the Department of the Treasury, Internal Revenue Service, as necessary, for the purpose of auditing the Social Security Administration's compliance with the safeguard provisions of the Internal Revenue Code of 1986, as amended.

3. To Department of Justice (DOJ), a court or other tribunal, or another party before such tribunal when:

(a) SSA, any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

4. To the General Services Administration and the National Archives Records Administration (NARA) under 44 U.S.C. 2904 and 2906, as amended by the NARA Act of 1984, information which is not restricted from disclosure by Federal law for the use of those agencies in conducting records management studies.

5. To student volunteers, individuals working under a personal services contract, and other workers who technically do not have the status of Federal employees, when they are performing work for the Social Security Administration (SSA), as authorized by law, and they need access to personally identifiable information in SSA records in order to perform their assigned Agency functions.

6. To Federal, State, and local law enforcement agencies and private security contractors, as appropriate, information necessary:

(a) To enable them to protect the safety of Social Security Administration (SSA) employees and customers, the security of the SSA workplace and the operation of SSA facilities; or

(b) To assist investigations or prosecutions with respect to activities that affect such safety and security or activities that disrupts the operation of SSA facilities.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records generally are maintained in paper form in folders in standard file cabinets. However, records also may be maintained in magnetic media (e.g., disc, microcomputer).

Retrievability:

By name of inquirer or name of person about whom information is requested.

Safeguards:

Information in this system is restricted to Agency personnel who need them in the performance of their official duties. Access http://www.socialsecurity.gov/foia/bluebook/app_g.htm for additional information relating to SSA data security measures.

Retention and disposal:

The records are retained for up to 3 years and then disposed of by shredding.

System manager(s) and address(es):

In the Boston Region (Connecticut, Maine, Massachusetts, New Hampshire, Rhode Island, Vermont)

Assistant Regional Commissioner, Field Operations, Office of the Regional Commissioner, Room 1900, John F. Kennedy Federal Building, Boston, MA 02203-1900.

In the New York Region (New Jersey, New York, Puerto Rico, Virgin Islands)

Regional Public Affairs Office, Office of the Regional Commissioner, Social Security Administration, Room 40-100, 26 Federal Plaza, New York, NY 10278.

In the Philadelphia Region (Delaware, District of Columbia, Maryland, Pennsylvania, Virginia, West Virginia)

Assistant Regional Commissioner, Programs, Office of the Regional Commissioner, P.O. Box 8788, Mail Stop 22, Philadelphia, PA 19101.

In the Atlanta Region (Alabama, North Carolina, South Carolina, Florida, Georgia, Kentucky, Mississippi, Tennessee)

Regional Commissioner's Inquiry Unit, Office of the Regional Commissioner, Social Security Administration, 61 Forsyth Street, NW., Atlanta, GA 30303.

In the Chicago Region (Illinois, Indiana, Michigan, Minnesota, Ohio, Wisconsin)

Assistant Regional Commissioner, Programs Operations and Systems, Office of the Regional Commissioner, 105 W. Adams Street, 10th Floor, Chicago, IL 60603.

In the Dallas Region (Arkansas, Louisiana, New Mexico, Oklahoma, Texas)

Office of the Regional Commissioner, Social Security Administration, Room 1440, 1200 Main Tower, Dallas, TX 75202.

In the Kansas City Region (Iowa, Kansas, Missouri, Nebraska)

Assistant Regional Commissioner, Programs Operations and Systems, Office of the Regional Commissioner, Room 436, Federal Office Building, 601 East 12th Street, Kansas City, MO 64106.

In the Denver Region (Colorado, Montana, North Dakota, South Dakota, Utah, Wyoming)

Assistant Regional Commissioner, Management and Budget, Office of the Regional Commissioner, Federal Office Building, 1961 Stout Street, Denver, CO 80294.

In the San Francisco Region (American Samoa, Arizona, California, Guam, Hawaii, Nevada, Northern Marianna Islands):

Regional Communications Director, Office of the Regional Commissioner, P.O. Box 4201, Richmond, CA 94804.

In the Seattle Region (Alaska, Idaho, Oregon, Washington)

Assistant Regional Commissioner, Field Operations, Office of the Regional Commissioner, M/S RX-52, 2201 Sixth Avenue, Seattle, WA 98121.

Notification procedures:

An individual can determine if this system contains a record pertaining to him/her by contacting the most convenient SSA field office (FO) or by writing to the system manager(s) at the above address and providing his/her name, SSN or other information that may be in the system of records that will identify him/her. FO addresses and telephone numbers can be found in local telephone directories under “Social Security Administration,” or by accessing http://www.ssa.gov/regions/regional.html. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Information is furnished by the inquirer and generated by SSA in response to inquiries.

Systems exempted from certain provisions of the Privacy Act:

None.

SYSTEM NUMBER: 60-0090

System name:

Master Beneficiary Record, Social Security Administration, Deputy Commissioner for Systems, Office of Retirement and Survivors Insurance Systems (ORSIS).

Security classification:

None.

System Location:

Social Security Administration, Office of Telecommunications and Systems Operations, 6401 Security Boulevard, Baltimore, MD 21235.

Categories of individuals covered by the system:

All Social Security beneficiaries who are, or were, entitled to receive Retirement and Survivors Insurance (RSI), or Disability Insurance (DI) benefits, including individuals who have received a RSI or DI payment since November 1978, even if their payment is not part of an ongoing award of benefits; individuals (non-claimants) on whose earnings records former spouses apply for RSI or DI benefits; persons who are only enrolled in the Hospital or Supplementary Medical Insurance (SMI) programs; and claimants whose benefits have been denied or disallowed.

The system also contains short references to records for persons entitled to Supplemental Security Income payments, black lung benefits or railroad retirement board benefits.

Categories of in the system:

The Master Beneficiary Record (MBR) contains information about each claimant who has applied for RSI or DI benefits, or to be enrolled in the Hospital or SMI programs; a record of the amount of Federal tax withheld on benefits paid to nonresident aliens; and the aggregate amount of benefit payments, repayments and reductions with respect to an individual in a calendar year. A record is maintained under each individual's Social Security number (SSN). However, if the individual has filed on another person's SSN, only a short “pointer” record is maintained. Personal and general data about the claim is maintained under the SSN of that claim. Data about the claimant can be accessed using the claimant's SSN or the SSN on which benefits have been awarded or claimed (claim account number (CAN)).

There are three types of data in each CAN:

Account data: This includes the primary insurance amount, insured status of the SSN holder (if no monthly benefits are payable), data relating to the computation (use of military service credits, railroad retirement credits, or coverage credits earned under the Social Security system of a foreign country when the claim is based on a totalization agreement), and, if only survivor's benefits have been paid, identifying data about the SSN holder (full name, date of birth, date of death and verification of date of death).

Payment data: This includes the payee's name and address, data about a financial institution (if benefits are sent directly to the institution for deposit), the monthly payment amount, the amount and date of a one-time payment of past due benefits, and, where appropriate, a scheduled future payment.

Beneficiary data: This includes personal information (name, date of birth, sex, date of filing, relationship to the SSN holder, other SSNs, benefit amount and payment status), and, if applicable, information about a representative payee, data about disability entitlement, worker's compensation offset data, estimates and report of earnings, or student entitlement information.

Authority for maintenance of the system:

Sections 202-205, 223, 226, 228, 1818, 1836, and 1840 of the Social Security Act (42 U.S.C. 402-405, 423, 426, 428, 1395i-2, 1395o, and 1395s).

Purposes(s):

Data in this system are used by a broad range of Social Security Administration (SSA) employees for responding to inquiries, generating follow-ups on beneficiary reporting events, computer exception processing, statistical studies, conversion of benefits, and generating records for the Department of the Treasury to pay the correct benefit amount.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To applicants or claimants, prospective applicants or claimants (other than the data subject), their authorized representatives or representative payees to the extent necessary to pursue Social Security claims, and to representative payees, when the information pertains to individuals for whom they serve as representative payees, for the purpose of assisting the Social Security Administration in administering its representative payment responsibilities under the Act and assisting the representative payees in performing their duties as payees, including receiving and accounting for benefits for individuals for whom they serve as payees.

2. To third party contacts (e.g., employers and private pension plan) in situations where the party to be contacted has, or is expected to have, information relating to the individual's capability to manage his/her affairs or his/her eligibility for, or entitlement to, benefits under the Social Security program when:

(a) The individual is unable to provide information being sought. An individual is considered to be unable to provide certain types of information when:

(i) He/she is incapable or of questionable mental capability;

(ii) He/she cannot read or write;

(iii) He/she cannot afford the cost of obtaining the information;

(iv) He/she has a hearing impairment, and is contacting SSA by telephone through a telecommunications relay system operator;

(v) A language barrier exists; or

(vi) The custodian of the information will not, as a matter of policy, provide it to the individual; or

(b) The data are needed to establish the validity of evidence or to verify the accuracy of information presented by the individual, and it concerns one or more of the following:

(i) His/her eligibility for benefits under the Social Security program;

(ii) The amount of his/her benefit payment; or

(iii) Any case in which the evidence is being reviewed as a result of suspected fraud, concern for program integrity, quality appraisal, or evaluation and measurement activities.

3. To third party contacts that may have information relevant to the Social Security Administration's establishment or verification of information provided by representative payees or payee applicants.

4. To a Social Security beneficiary/claimant when a claim is filed by another individual on the same record which is adverse to the beneficiary, but only information concerning the facts relevant to the interests of each party in a claim; e.g.:

(a) An award of benefits to a new claimant precludes an award to a prior claimant; or

(b) An award of benefits to a new claimant will reduce the benefit payments to the individual(s) on the roll.

5. To the Department of the Treasury for:

(a) Collecting Social Security taxes or as otherwise pertinent to tax and benefit payment provisions of the Social Security Act (including Social Security number verification services);

(b) Investigating the alleged theft, forgery, or unlawful negotiation of Social Security checks;

(c) Determining the Federal tax liability on Social Security benefits pursuant to 26 U.S.C. 6050F, as amended by Pub. L. 98-21. The information disclosed will consist of the following:

(i) The aggregate amount of Social Security benefits paid with respect to any individual during any calendar year;

(ii) The aggregate amount of Social Security benefits repaid by such individual during such calendar year;

(iii) The aggregate reductions under section 224 of the Social Security Act in benefits which would otherwise have been paid to such individual during the calendar year on account of amounts received under a worker's compensation act; and

(iv) The name and address of such individual;

(d) Depositing the tax withheld on benefits paid to nonresident aliens in the Treasury (Social Security Trust Funds) pursuant to 26 U.S.C. 871, as amended by Pub. L. 98-21.

6. To the United States Postal Service for investigating the alleged theft or forgery of Social Security checks.

7. To the Department of Justice for:

(a) Investigating and prosecuting violations of the Act to which criminal penalties attach;

(b) Representing the Commissioner of Social Security; and

(c) Investigating issues of fraud by Agency officers or employees, or violation of civil rights.

8. To the Department of State for administering the Social Security Act in foreign countries through services and facilities of that agency.

9. To the American Institute, a private corporation under contract to the Department of State, for administering the Social Security Act on Taiwan through facilities and services of that agency.

10. To the Department of Veterans Affairs, Regional Office, Manila, Philippines, for administering the Act in the Philippines and other parts of the Asia-Pacific region through the services and facilities of that agency.

11. To the Social Security Agency of a foreign country, to carry out the purpose of an international Social Security agreement entered into between the United States and the other country, pursuant to section 233 of the Social Security Act.

12. To the Office of the President for the purpose of responding to an individual pursuant to an inquiry received from that individual or from a third party on his/her behalf.

13. To the Department of Education for determining eligibility of applicants for basic educational opportunity grants.

14. To the Bureau of the Census when it performs as a collecting agent or data processor for research and statistical purposes directly relating to this system of records.

15. To the Department of the Treasury, Office of Tax Analysis, for studying the effects of income taxes and taxes on earnings.

16. To the Office of Personnel Management for the study of the relationship of civil service annuities to minimum Social Security benefits, and the effects on the Social Security trust fund.

17. To State Social Security Administrators for administering agreements pursuant to section 218 of the Social Security Act.

18. To the Department of Energy for its epidemiological research study of the long-term effects of low-level radiation exposure, as permitted by SSA Regulations 20 CFR 401.150(c).

19. To contractors under contract to the Social Security Administration (SSA), or under contract to another agency with funds provided by SSA, for the performance of research and statistical activities directly relating to this system of records.

20. To a congressional office in response to an inquiry from that office made at the request of the subject of a record.

21. To the Department of Labor for conducting statistical studies of the relationship of private pensions and Social Security benefits to prior earnings.

22. To a party named in an order, process, or interrogatory, in accordance with section 459 of the Social Security Act, if a designee of the Agency is served with any such order, process, or interrogatory with respect to an individual's child support or alimony payment obligations.

23. To Federal, State, or local agencies (or agents on their behalf) for administering income maintenance or health maintenance programs (including programs under the Social Security Act). Such disclosures include, but are not limited to, release of information to:

(a) Railroad Retirement Board for administering provisions of the Railroad Retirement Act relating to railroad employment; for administering the Railroad Unemployment Insurance Act and for administering provisions of the Social Security Act relating to railroad employment;

(b) Department of Veterans Affairs for administering 38 U.S.C. 1312, and upon request, for determining eligibility for, or amount of, veterans benefits or verifying other information with respect thereto pursuant to 38 U.S.C. 5106;

(c) State welfare departments for administering sections 205(c)(2)(B)(i)(II) and 402(a)(25) of the Social Security Act requiring information about assigned Social Security numbers for Temporary Assistance for Needy Families (TANF) program purposes and for determining a recipient's eligibility under the TANF program; and

(d) State agencies for administering the Medicaid program.

24. To the Department of Justice, Criminal Division, Office of Special Investigations, upon receipt of a request for information pertaining to the identity and location of aliens for the purpose of detecting, investigating and, where appropriate, taking legal action against suspected Nazi war criminals in the United States.

25. To third party contacts such as private collection agencies and credit reporting agencies under contract with the Social Security Administration (SSA) and State motor vehicle agencies for the purpose of their assisting SSA in recovering overpayments.

26. To contractors and other Federal agencies, as necessary, for the purpose of assisting the Social Security Administration (SSA) in the efficient administration of its programs. We will disclose information under the routine use only in situations in which SSA may enter into a contractual or similar agreement with a third party to assist in accomplishing an agency function relating to this system of records.

27. To the General Services Administration and the National Archives Records Administration (NARA) under 44 U.S.C. 2904 and 2906, as amended by the NARA Act of 1984, information which is not restricted from disclosure by Federal law for the use of those agencies in conducting records management studies.

28. To the Federal Reserve Bank of New York for the purpose of making direct deposit/electronic funds transfer of Social Security benefits to foreign-resident beneficiaries.

29. To the Department of Justice (DOJ), a court or other tribunal, or another party before such tribunal when:

(a) Social Security Administration (SSA), or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

30. To the Rehabilitation Services Administration (RSA) for use in its program studies of, and development of enhancements for, State vocational rehabilitation programs. These are programs to which applicants or beneficiaries under Titles II and or XVI of the Social Security Act may be referred. Data released to RSA will not include any personally identifying information (such as names or Social Security numbers).

31. To the Department of Education addresses of beneficiaries who are obligated on loans held by the Secretary of Education or a loan made in accordance with 20 U.S.C. 1071, et seq. (the Robert T. Stafford Federal Student Loan Program) as authorized by section 489A of the Higher Education Act of 1965.

32. To student volunteers, individuals working under a personal services contract, and other workers who technically do not have the status of Federal employees, when they are performing work for the Social Security Administration (SSA), as authorized by law, and they need access to personally identifiable information in SSA records in order to perform their assigned Agency functions.

33. To Federal, State, and local law enforcement agencies and private security contractors, as appropriate, information necessary:

(a) To enable them to protect the safety of Social Security Administration (SSA) employees and customers, the security of the SSA workplace and the operation of SSA facilities; or

(b) To assist investigations or prosecutions with respect to activities that affect such safety and security or activities that disrupts the operation of SSA facilities.

34. To recipients of erroneous Death Master File (DMF) information, corrections to information that resulted in erroneous inclusion of individuals in the DMF.

35. To entities conducting epidemiological or similar research projects, upon request, information as to whether an individual is alive or deceased pursuant to section 1106(d) of the Social Security Act (42 U.S.C. 1306(d)), provided that:

(a) The Social Security Administration (SSA) determines, in consultation with the Department of Health and Human Services, that the research may reasonably be expected to contribute to a national health interest; and

(b) The requester agrees to reimburse SSA for the costs of providing the information; and

(c) The requester agrees to comply with any safeguards and limitations specified by SSA regarding re-release or re-disclosure of the information.

36. To a Federal, State, or congressional support agency (e.g., Congressional Budget Office and the Congressional Research Staff in the Library of Congress) for research, evaluation, or statistical studies. Such disclosures include, but are not limited to, release of information in assessing the extent to which one can predict eligibility for Supplemental Security Income (SSI) payments or Social Security disability insurance benefits; examining the distribution of Social Security benefits by economic and demographic groups and how these differences might be affected by possible changes in policy; analyzing the interaction of economic and non-economic variables affecting entry and exit events and duration in the Title II Old Age, Survivors, and Disability Insurance and the Title XVI SSI disability programs; and, analyzing retirement decisions focusing on the role of Social Security benefit amounts, automatic benefit recomputation, the delayed retirement credit, and the retirement test, if the Social Security Administration (SSA):

(a) Determines that the routine use does not violate legal limitations under which the record was provided, collected, or obtained;

(b) Determines that the purpose for which the proposed use is to be made:

(i) Cannot reasonably be accomplished unless the record is provided in a form that identifies individuals;

(ii) Is of sufficient importance to warrant the effect on, or risk to, the privacy of the individual which such limited additional exposure of the record might bring;

(iii) Has reasonable probability that the objective of the use would be accomplished;

(iv) Is of importance to the Social Security program or the Social Security beneficiaries or is for an epidemiological research project that relates to the Social Security program or beneficiaries;

(c) Requires the recipient of information to:

(i) Establish appropriate administrative, technical, and physical safeguards to prevent unauthorized use or disclosure of the record and agree to on-site inspection by SSA's personnel, its agents, or by independent agents of the recipient agency of those safeguards;

(ii) Remove or destroy the information that enables the individual to be identified at the earliest time at which removal or destruction can be accomplished consistent with the purpose of the project, unless the recipient receives written authorization from SSA that it is justified, based on research objectives, for retaining such information;

(iii) Make no further use of the records except:

(1) Under emergency circumstances affecting the health and safety of any individual, following written authorization from SSA;

(2) For disclosure to an identified person approved by SSA for the purpose of auditing the research project;

(iv) Keep the data as a system of statistical records. A statistical record is one which is maintained only for statistical and research purposes and which is not used to make any determination about an individual;

(d) Secures a written statement by the recipient of the information attesting to the recipient's understanding of, and willingness to abide by, these provisions.

37. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Disclosure to Consumer Reporting Agencies:

Disclosure pursuant to 5 U.S.C. 552a(b)(12) may be made to consumer reporting agencies as defined in the Fair Credit Reporting Act (15 U.S.C. 1681a(f)) or the Federal Claims Collection Act of 1966 as amended (31 U.S.C. 3701, et seq.) or the Social Security Domestic Employment Reform Act of 1994, Public Law 103-387, 42 U.S.C. 404(f). The purpose of this disclosure is to aid in the collection of outstanding debts owed to the Federal Government, typically, to provide an incentive for debtors to repay delinquent Federal Government debts by making these part of their credit records.

Disclosure of records is limited to the individual's name, address, SSN, and other information necessary to establish the individual's identity; the amount, status, and history of the claim and the agency or program under which the claim arose. The disclosure will be made only after the procedural requirements of 31 U.S.C. 3711(e) has been followed.

Policies and practices for storing, retrieving, accessing, retaining and disposing of records in the system:

Storage:

Records are stored in magnetic media (e.g., magnetic tape and magnetic disk) and in microform and paper form.

Retrievability:

Records in this system are indexed and retrieved by SSN.

Safeguards:

Safeguards for automated records have been established in accordance with the Systems Security Handbook. All magnetic tapes and disks are within an enclosure attended by security guards. Anyone entering or leaving this enclosure must have special badges which are issued only to authorized personnel. All microform and paper files are accessible only by authorized personnel and are locked after working hours.

For computerized records, electronically transmitted between SSA's central office and field office locations (including organizations administering SSA programs under contractual agreements), safeguards include a lock/unlock password system, exclusive use of leased telephone lines, a terminal oriented transaction matrix, and an audit trail. Access http://www.socialsecurity.gov/foia/bluebook/app_g.htm for additional information relating to SSA data security measures.

Retention and disposal:

Primary data storage is on magnetic disk. A new version of the disk file is generated each month based on changes to the beneficiary's record (adjustment in benefit amount, termination, or new entitlements). The prior version is written to tape and retained for 90 days in SSA's main data processing facility and is then sent to a secured storage facility for indefinite retention.

Selected records also are retained on magnetic disk for on-line query purposes. The query files are updated monthly and retained indefinitely. Microform records are disposed of by shredding or the application of heat after periodic replacement of a complete file.

Paper records are usually destroyed after use, by shredding, except where needed for documentation of the claims folder. (See the notice for the Claims Folders System, 60-0089 for retention periods and method of disposal for these records).

System manager(s) and address(es):

Associate Commissioner, Office of Retirement and Survivors Insurance Systems, Social Security Administration, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably specify the record contents they are seeking. These procedures are in accordance with SSA Regulations (20 CFR 401.40(c)).

Contesting record procedures:

Same as Notification procedures. Requesters should also reasonably identify the record, specify the information they are contesting and the corrective action sought, and the reasons for the correction, with supporting justification showing how the record is untimely, incomplete, inaccurate or irrelevant. These procedures are in accordance with SSA Regulations (20 CFR 401.65(a)).

Record source categories:

Data for the MBR come primarily from the Claims Folders System, 60-0089 and/or are furnished by the claimant/beneficiary at the time of filing for benefits, via the application form and necessary proofs, and during the period of entitlement when notices of events such as changes of address, work, marriage, are given to SSA by the beneficiary; and from States regarding Hospital Insurance third party premium payment/buy-in cases.

Systems exempted from certain provisions of the Privacy Act:

None.

SYSTEM NUMBER: 60-0103

System name:

Supplemental Security Income Record and Special Veterans Benefits, Social Security Administration, Office of Systems, Office of Disability and Supplemental Security Income Systems (ODSSIS).

Security classification:

None.

System Location:

Social Security Administration, Office of Telecommunications and Systems Operations, 6401 Security Boulevard, Baltimore, MD 21235.

Records also may be located in the Social Security Administration (SSA) regional offices (contact the system manager at the address below or access http://www.socialsecurity.gov/foia/bluebook/app_c.htm for address information) and field offices (individuals should consult their local telephone directories for address information).

Categories of individuals covered by the system:

This file contains a record for each individual who has applied for Supplemental Security Income (SSI) payments, including individuals who have requested an advance payment; SSI recipients who have been overpaid; and ineligible persons associated with an SSI recipient. This file also covers those individuals who have applied for and who are entitled to the Special Veterans Benefits (SVB) under Title VIII of the Social Security Act. (This file does not cover applicants who do not have a Social Security number (SSN).)

Categories of in the system:

This file contains data regarding SSI eligibility; citizenship; residence; Medicaid eligibility; eligibility for other benefits; alcoholism or drug addiction data, if applicable (disclosure of this information may be restricted by 21 U.S.C. 1175 and 42 U.S.C. 290dd-3 and ee-3); income data; resources; payment amounts, including the date and amount of advance payments; overpayment amounts, including identifying characteristics of each overpayment (e.g., name, SSN, address of the individual(s) involved, recovery efforts made and the date of each action and planned future actions); and date and amount of advance payments; living arrangements; case folder location data; appellate decisions, if applicable; SSN used to identify a particular individual, if applicable; information about representative payees, if applicable; and a history of changes to any of the persons who have applied for SSI payments. For eligible individuals, the file contains basic identifying information such as the applicant's name, Social Security number (SSN), and date of birth (DOB), income and resources (if any) and, in conversion cases, the State welfare number.

This file also contains information about applicants for SVB. The information maintained in this system of records is collected from the applicants for Title VIII SVB, and other systems of records maintained by SSA. The information maintained includes a data element indicating this is a Title VIII SVB claim. It will also include: identifying information such as the applicant's name, SSN and DOB; telephone number (if any); foreign and domestic addresses; the applicant's sex; income data, payment amounts (including overpayment amounts); and other information provided by the applicant relative to his or her entitlement for SVB.

If the beneficiary has a representative payee, this system of records includes data about the representative payee such as the payee's SSN; employer identification number, if applicable; and mailing address.

Authority for maintenance of the system:

Sections 1602, 1611, 1612, 1613, 1614, 1615, 1616, 1631, 1633, 1634 of Title XVI and Title VIII of the Social Security Act (42 U.S.C. 1382, 1382a, 1382b, 1382c, 1382d, 1382e, 1383, 1383b, 1383c.

Purpose(s):

SSI records begin in Social Security field offices where an individual or couple files an application for SSI payments. SVB records begin in Social Security field offices and the Veterans Affairs Regional Office where an individual files an application for SVB payments. The SSI and SVB applications contain data which may be used to prove the identity of the applicant, to determine his/her eligibility for SSI or SVB payments and, in cases where eligibility is determined, to compute the amount of the payment. Information from the application, in addition to data used internally to control and process SSI and SVB cases, is used to create the Supplemental Security Income Record (SSR). The SSR also is used as a means of providing a historical record of all activity on a particular individual's or couple's record.

In addition, statistical data are derived from the SSR for actuarial and management information purposes.

Routine uses of records maintained in the system, including categories of users and the purposes of such uses:

Disclosure may be made for routine uses as indicated below. However, disclosure of any information defined as “returns or return information” under 26 U.S.C. 6103 of the Internal Revenue Code will not be disclosed unless authorized by a statute, the Internal Revenue Service (IRS), or IRS regulations.

1. To the Department of the Treasury to prepare SSI, Energy Assistance, and SVB checks to be sent to claimants or beneficiaries.

2. To the States to establish the minimum income level for computation of State supplements.

3. To the following Federal and State agencies to prepare information for verification of benefit eligibility under section 1631(e) of the Social Security Act: Bureau of Indian Affairs; Office of Personnel Management; Department of Agriculture; Department of Labor; U.S. Citizenship and Immigration Services; Internal Revenue Service; Railroad Retirement Board; State Pension Funds; State Welfare Offices; State Worker's Compensation; Department of Defense; United States Coast Guard; and Department of Veterans Affairs.

4. To a congressional office in response to an inquiry from that office made at the request of the subject of a record.

5. To the appropriate State agencies (or other agencies providing services to disabled children) to identify Title XVI eligibles under the age of 16 for the consideration of rehabilitation services in accordance with section 1615 of the Act, 42 U.S.C. 1382d.

6. To contractors under contract to the Social Security Administration (SSA), or under contract to another agency with funds provided by SSA, for the performance of research and statistical activities directly relating to this system of records.

7. To State audit agencies for auditing State supplementation payments and Medicaid eligibility consideration.

8. To State agencies to effect and report the fact of Medicaid eligibility of Title XVI recipients in the jurisdiction of those States which have elected Federal determinations of Medicaid eligibility of Title XVI eligibles and to assist the States in administering the Medicaid program.

9. To State agencies to identify Title XVI eligibles in the jurisdiction of those States which have not elected Federal determinations of Medicaid eligibility in order to assist those States in establishing and maintaining Medicaid rolls and in administering the Medicaid program.

10. To State agencies to enable those agencies which have elected Federal administration of their supplementation programs to monitor changes in applicant/recipient income, special needs, and circumstances.

11. To State agencies to enable those agencies which have elected to administer their own supplementation programs to identify SSI eligibles in order to determine the amount of their monthly supplementary payments.

12. To State agencies to enable them to assist in the effective and efficient administration of the Supplemental Security Income program.

13. To State agencies to enable those which have an agreement with the Social Security Administration to carry out their functions with respect to Interim Assistance Reimbursement pursuant to section 1631(g) of the Social Security Act.

14. To State agencies to enable them to locate potentially eligible individuals and to make eligibility determinations for extensions of social services under the provisions of Title XX of the Social Security Act.

15. To State agencies to assist them in determining initial and continuing eligibility in their income maintenance programs and for investigation and prosecution of conduct subject to criminal sanctions under these programs.

16. To the United States Postal Service for investigating the alleged theft, forgery or unlawful negotiation of Supplemental Security Income and Special Veterans Benefit checks.

17. To the Department of the Treasury for investigating the alleged theft, forgery or unlawful negotiation of Supplemental Security Income and Special Veterans Benefit checks.

18. To the Department of Education for determining the eligibility of applicants for Basic Educational Opportunity Grants.

19. To Federal, State or local agencies (or agents on their behalf) for administering cash or non-cash income maintenance or health maintenance programs (including programs under the Social Security Act). Such disclosures include, but are not limited to, release of information to:

(a) The Department of Veterans Affairs (DVA) upon request for determining eligibility for, or amount of, DVA benefits or verifying other information with respect thereto in accordance with 38 U.S.C. 5106;

(b) The Railroad Retirement Board for administering the Railroad Unemployment Insurance Act;

(c) State agencies to determine eligibility for Medicaid;

(d) State agencies to locate potentially eligible individuals and to make determinations of eligibility for the food stamp program;

(e) State agencies to administer energy assistance to low income groups under programs for which the States are responsible; and

(f) Department of State (DOS) and its agents to assist SSA in administering the Social Security Act in foreign countries; the American Institute on Taiwan, a private corporation under contract to DOS, to assist in administering the Social Security Act in Taiwan; and the DVA, Regional Office, Manila, Philippines, and its agents, to assist in administering the Social Security Act in the Philippine and other parts of the Asia-Pacific region.

20. To the Internal Revenue Service, Department of the Treasury, as necessary, for the purpose of auditing the Social Security Administration's compliance with the safeguard provisions of the Internal Revenue Code of 1986, as amended.

21. To the Office of the President for the purpose of responding to an individual pursuant to an inquiry received from that individual or a third party on his/her behalf.

22. To the Department of Justice, Criminal Division, Office of Special Investigations, upon receipt of a request for information pertaining to the identity and location of aliens for the purpose of detecting, investigating and, where necessary, taking legal action against suspected Nazi war criminals in the United States.

23. To third party contacts such as private collection agencies and credit reporting agencies under contract with the Social Security Administration (SSA) and State motor vehicle agencies for the purpose of their assisting SSA in recovering overpayments.

24. To contractors and other Federal agencies, as necessary, for the purpose of assisting the Social Security Administration (SSA) in the efficient administration of its programs. We will disclose information under this routine use only in situations in which SSA may enter a contractual or similar agreement with a third party to assist in accomplishing an Agency function relating to this system of records.

25. To the General Services Administration and the National Archives Records Administration (NARA) under 44 U.S.C. 2904 and 2906, as amended by the NARA Act of 1984, information which is not restricted from disclosure by Federal law for the use of those agencies in conducting records management studies.

26. To the Department of Justice (DOJ), a court or other tribunal, or another party before such tribunal when:

(a) Social Security Administration (SSA), or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

27. To representative payees, when the information pertains to individuals for whom they serve as representative payees, for the purpose of assisting the Social Security Administration in administering its representative payment responsibilities under the Act and assisting the representative payees in performing their duties as payees, including receiving and accounting for benefits for individuals for whom they serve as payees.

28. To third party contacts (e.g., employers and private pension plans) in situations where the party to be contacted has, or is expected to have, information relating to the individual's capability to manage his/her affairs or his/her eligibility for, or entitlement to, benefits under the Social Security program when:

(a) The individual is unable to provide information being sought. An individual is considered to be unable to provide certain types of information when:

(i) He/she is incapable or of questionable mental capability;

(ii) He/she cannot read or write;

(iii) He/she cannot afford the cost of obtaining the information;

(iv) He/she has a hearing impairment, and is contacting SSA by telephone through a telecommunications relay system operator;

(v) A language barrier exists; or

(vi) The custodian of the information will not, as a matter of policy, provide it to the individual; or

(b) The data are needed to establish the validity of evidence or to verify the accuracy of information presented by the individual, and it concerns one or more of the following:

(i) His/her eligibility for benefits under the Social Security program;

(ii) The amount of his/her benefit payment; or

(iii) Any case in which the evidence is being reviewed as a result of suspected fraud, concern for program integrity, quality appraisal, or evaluation and measurement activities.

29. To the Rehabilitation Services Administration (RSA) for use in its program studies of, and development of enhancements for, State vocational rehabilitation programs. These are programs to which applicants or beneficiaries under Titles II and or XVI of the Social Security Act may be referred. Data released to RSA will not include any personally identifying information (such as names or Social Security numbers).

30. To the Department of Education, addresses of beneficiaries who are obligated on loans held by the Secretary of Education or a loan made in accordance with 20 U.S.C. 1071, et. seq. (the Robert T. Stafford Student Loan Program), as authorized by section 489A of the Higher Education Act of 1965.

31. To student volunteers, individuals working under a personal services contract, and other workers who technically do not have the status of Federal employees, when they are performing work for the Social Security Administration (SSA), as authorized by law, and they need access to personally identifiable information in SSA records in order to perform their assigned Agency functions.

32. To Federal, State, and local law enforcement agencies and private security contractors, as appropriate, if information is necessary:

(a) To enable them to protect the safety of Social Security Administration (SSA) employees and customers, the security of the SSA workplace and the operation of SSA facilities; or

(b) To assist investigations or prosecutions with respect to activities that affect such safety and security or activities that disrupt the operation of SSA facilities.

33. To recipient of erroneous Death Master File (DMF), corrections to information that resulted in erroneous inclusion of individuals DMF.

34. To entities conducting epidemiological or similar research projects, upon request, information as to whether an individual is alive or deceased pursuant to section 1106(d) of the Social Security Act (42 U.S.C. 1306(d)), provided that:

(a) The Social Security Administration (SSA) determines, in consultation with the Department of Health and Human Services, that the research may reasonably be expected to contribute to a national health interest; and

(b) The requester agrees to reimburse SSA for the costs of providing the information; and

(c) The requester agrees to comply with any safeguards and limitations specified by SSA regarding re-release or re-disclosure of the information.

35. To a Federal, State, or congressional support agency (e.g., Congressional Budget Office and the Congressional Research Staff in the Library of Congress) for research, evaluation, or statistical studies. Such disclosures include, but are not limited to, release of information in assessing the extent to which one can predict eligibility for Supplemental Security Income (SSI) payments or Social Security disability insurance benefits; examining the distribution of Social Security benefits by economic and demographic groups and how these differences might be affected by possible changes in policy; analyzing the interaction of economic and non-economic variables affecting entry and exit events and duration in the Title II Old Age, Survivors, and Disability Insurance and the Title XVI SSI disability programs; and analyzing retirement decisions focusing on the role of Social Security benefit amounts, automatic benefit recomputation, the delayed retirement credit, and the retirement test, if the Social Security Administration (SSA):

(a) Determines that the routine use does not violate legal limitations under which the record was provided, collected, or obtained;

(b) Determines that the purpose for which the proposed use is to be made:

(i) Cannot reasonably be accomplished unless the record is provided in a form that identifies individuals;

(ii) Is of sufficient importance to warrant the effect on, or risk to, the privacy of the individual which such limited additional exposure of the record might bring;

(iii) Has reasonable probability that the objective of the use would be accomplished;

(iv) Is of importance to the Social Security program or the Social Security beneficiaries or is for an epidemiological research project that relates to the Social Security program or beneficiaries;

(c) Requires the recipient of information to:

(i) Establish appropriate administrative, technical, and physical safeguards to prevent unauthorized use or disclosure of the record and agree to on-site inspection by SSA's personnel, its agents, or by independent agents of the recipient agency of those safeguards;

(ii) Remove or destroy the information that enables the individual to be identified at the earliest time at which removal or destruction can be accomplished consistent with the purpose of the project, unless the recipient receives written authorization from SSA that it is justified, based on research objectives, for retaining such information;

(iii) Make no further use of the records except:

(1) Under emergency circumstances affecting the health and safety of any individual, following written authorization from SSA;

(2) For disclosure to an identified person approved by SSA for the purpose of auditing the research project;

(iv) Keep the data as a system of statistical records. A statistical record is one which is maintained only for statistical and research purposes and which is not used to make any determination about an individual;

(d) Secures a written statement by the recipient of the information attesting to the recipient's understanding of, and willingness to abide by, these provisions.

36. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.), as amended. The disclosure will be made in accordance with 31 U.S.C. 3711(e) when authorized by sections 204(f), 808(e) or 1631(b)(4) of the Social Security Act (42 U.S.C. 404(f), 1008(e) or 1383(b)(4)). The purpose of this disclosure is to aid in the collection of outstanding debts owed the Federal Government, typically, to provide an incentive for debtors to repay delinquent Federal Government debts by making these debts part of their credit records. The information to be disclosed is limited to the individual's name, address, SSN, and other information necessary to establish the individual's identity; the amount, status, and history of the debt and the agency or program under which the debt arose.

Policies and practices for storing, retrieving, accessing, retaining and disposing of records in the system:

Storage:

Records are maintained in magnetic media (e.g., magnetic tape) and in microform and microfiche form.

Retrievability:

Records are indexed and retrieved by SSN.

Safeguards:

Systems security for automated records has been established in accordance with the Systems Security Handbook. This includes maintaining all magnetic tapes and magnetic disks within an enclosure attended by security guards. Anyone entering or leaving that enclosure must have special badges which are only issued to authorized personnel. All authorized personnel having access to the magnetic records are subject to the penalties of the Privacy Act. The microfiche are stored in locked cabinets, and are accessible to employees only on a need-to-know basis. All SSR State Data Exchange records are protected in accordance with agreements between SSA and the respective States regarding confidentiality, use, and re-disclosure. Access http://www.socialsecurity.gov/foia/bluebook/app_g.htm for additional information relating to SSA data security measures.

Retention and disposal:

Original input transaction tapes received which contain initial claims and posteligibility actions are retained indefinitely although these are processed as received and incorporated into processing tapes which are updated to the master SSR tape file on a monthly basis. All magnetic tapes appropriate to SSI information furnished to specified Federal, State, and local agencies for verification of eligibility for benefits and under section 1631(e) are retained, in accordance with the Privacy Act accounting requirements, for at least 5 years or the life of the record, whichever is longer.

System manager(s) and address(es):

Associate Commissioner, Office of Disability and Supplemental Security Income Systems (ODSSIS), Social Security Administration, 6401 Security Boulevard, Baltimore, Maryland 21235.

Notification procedures:

An individual can determine if this system contains a record about him/her by writing to or visiting any Social Security field office (FO) and providing his or her name and SSN. (FO addresses and telephone numbers can be found in local telephone directories under Social Security Administration, or by accessing www.ssa.gov/regions/regional.html.) Applicants for SVB who reside in the Philippines should contact Department of Veterans Affairs (DVA), Regional Office, Manila, Philippines. (Furnishing the SSN is voluntary, but it will make searching for an individual's record easier and prevent delay.)

An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. An individual who requests notification of, or access to, a medical record shall, at the time he or she makes the request, designate in writing a responsible representative who will be willing to review the record and inform the subject individual of its contents at the representative's discretion. A parent or guardian who requests notification of, or access to, a minor's medical record shall, at the time he or she makes the request, designate a physician or other health professional (other than a family member) who will be willing to review the record and inform the parent or guardian of its contents at the physician's or health professional's discretion. These procedures are in accordance with SSA Regulations (20 CFR 401.40(c) and 401.55).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

Data contained in the SSR are obtained for the most part from the applicant for SSI and SVB payments and are derived from the Claims Folders System, 60-0089 and the Modernized Supplemental Security Income Claims System. The States and other Federal agencies such as the DVA also provide data affecting the SSR.

Systems exempted from certain provisions of the Privacy Act:

None.

SYSTEM NUMBER: 60-0118

System name:

Non-Contributory Military Service Reimbursement System, Social Security Administration, Office of the Actuary.

Security classification:

None.

System Location:

Social Security Administration, Office of Systems, 6401 Security Boulevard, Baltimore, MD 21235.

Categories of individuals covered by the system:

A sample of beneficiaries who have noncontributory military service wage credits.

Categories of records in the system:

Information in this system consists of the beneficiary's name and claim account number (CAN) (Social Security number (SSN) plus alphabetic symbol), information concerning covered earnings, benefits and payment status.

Authority for maintenance of the system:

Sections 217, 229, and 231 of the Social Security Act (42 U.S.C. 417, 429 and 431).

Purpose(s):

Data in this system are used to determine amounts to be transferred between the Old-Age, Survivors and Disability Insurance Trust Funds and the general fund of the Treasury, as required by section 217(g) of the Social Security Act.

Routine uses of records maintained in the system, including categories of users and the purposes of such uses:

Disclosure may be made for routine uses as indicated below:

1. To a congressional office in response to an inquiry from that office made at the request of the subject of a record.

2. To the General Services Administration and the National Archives Records Administration (NARA) under 44 U.S.C. 2904 and 2906, as amended by the NARA Act of 1984, information which is not restricted from disclosure by Federal law for the use of those agencies in conducting records management studies.

3. To student volunteers, individuals working under a personal services contract, and other workers who technically do not have the status of Federal employees, when they are performing work for the Social Security Administration (SSA), as authorized by law, and they need access to personally identifiable information in SSA records in order to perform their assigned Agency functions.

4. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

5. To the Office of the Actuary, Centers for Medicare and Medicaid Services (CMS), a list of Claim Account Numbers (CAN) for which it has been determined that the corresponding workers would have been uninsured in the absence of military service wage credits. CMS, using CMS data pertaining to these CANs, determines the amount to be transferred between the Hospital Insurance Trust Fund and the general fund of the Treasury under section 217(g) of the Social Security Act.

Policies and practices for storing, retrieving, accessing, retaining and disposing of records in the system:

Storage:

Data are stored on magnetic tape and/or disc.

Retrievability:

Data in the system are retrieved by the CAN (SSN plus alphabetic symbol).

Safeguards:

System security has been established in accordance with the Systems Security Handbook. This includes retaining all magnetic tape files in secure storage areas accessible only to authorized persons who have a need for the files to perform their assigned duties and informing all employees having access to records of the criminal sanctions for unauthorized disclosure of information about individuals. Access http://www.socialsecurity.gov/foia/bluebook/app_g.htm for additional information relating to SSA data security measures.

Retention and disposal:

This system is updated annually. The records are retained indefinitely.

System manager(s) and address(es):

Deputy Chief Actuary, Short-Range Estimates, Office of the Actuary, Social Security Administration, 6401 Security Boulevard, Baltimore, Maryland 21235

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

Data in this system are derived from information in other SSA systems of records (e.g., the Earnings Recording and Self-Employment Income System, 60-0059, Claims Folders System, 60-0089 and the Master Beneficiary Record, 60-0090).

Systems exempted from certain provisions of the Privacy Act:

None.

SYSTEM NUMBER: 60-0199

System name:

Extramural Surveys (Statistics), Social Security Administration, Deputy Commissioner for Disability and Income Security Programs.

Security classification:

None.

System Location:

Social Security Administration, Office of Research, Evaluation and Statistics, 6401 Security Boulevard, Baltimore, MD 21235.

Contractor sites:

Addresses may be obtained by writing to the system manager.

Categories of individuals covered by the system:

Samples of individuals who are current or potential recipients of benefits from Social Security and related programs; personnel administering Social Security and related programs.

Categories of records in the system:

Socioeconomic, demographic, medical and disability characteristics; attitudes concerning subjects such as health, work experience, and family relationships; earnings and employment history, benefits, use of medical and rehabilitative services.

Authority for maintenance of the system:

Sections 1110 and 1115 of the Social Security Act (42 U.S.C. 1310 and 1315).

Purpose(s):

The purpose of this system is to obtain information for research and statistical studies of individuals who are current or potential recipients of benefits from Social Security and related programs. When the product is in the form of micro data it is available without personal identifiers to other Social Security Administration (SSA) components for data processing and data manipulation, with appropriate safeguards.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a congressional office in response to an inquiry from that office made at the request of the subject of the record.

2. To a contractor under contract to the Social Security Administration (SSA), or under contract to another agency with funds provided by SSA, for the performance of research and statistical activities directly related to this system of records.

3. To the General Services Administration and the National Archives Records Administration (NARA) under 44 U.S.C. 2904 and 2906, as amended by the NARA Act of 1984, information which is not restricted from disclosure by Federal law for the use of those agencies in conducting records management studies.

Policies and practices for storing, retrieving, accessing, retaining and disposing of records in the system:

Storage:

Data may be stored in paper form (e.g., computer printouts) and in magnetic media (e.g., magnetic tape and disc).

Retrievability:

Files based on SSA sample populations are indexed by SSA-assigned case numbers or Social Security numbers (SSN). Files based on contractor sample populations are indexed by contractor-assigned case numbers which may be cross-referred to SSNs. These files are retrieved by SSN or assigned case numbers.

Safeguards:

Safeguards are established in accordance with the Systems Security Handbook. Employees having access to records have been notified of criminal sanctions for unauthorized disclosure of information about individuals.

Magnetic tapes or other files with personal identifiers are retained in secured storage areas accessible only to authorized personnel.

Microdata files prepared for purposes of research and analysis are purged of personal identifiers and are subject to procedural safeguards to assure anonymity. Access http://www.socialsecurity.gov/foia/bluebook/app_g.htm for additional information relating to SSA data security measures.

Retention and disposal:

Hard copy questionnaires will be destroyed when survey reports are completed. Records with identifiers will be held in secure storage areas and will be retained only as long as needed for analysis.

Identifiers will be removed at the earliest possible time after data collection is completed. The need to retain identifiers will be evaluated at the time each survey is completed. Records with identifiers will be disposed of as soon as they are determined to be no longer needed. Means of disposal will be appropriate to the record storage medium; e.g., erasure of tapes, shredding of printouts, etc.

In longitudinal studies, working files are stripped of identifiers and given randomly assigned case numbers. A separate link file will be maintained in secure storage for updating with individual identifiers.

As long as identifiable records exist, a periodic review will be made at least every 2 years to determine the need for their retention.

System manager(s) and address:

Social Security Administration, Associate Commissioner, Office of Program Development and Research, 6401 Security Boulevard, Baltimore, MD 21235.

Notification procedure:

This system contains limited data selected for statistical analysis. Individuals inquiring about their records in SSA programs may wish to consult other SSA systems of records which contain more detailed information.

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Requesters should also reasonably identify the record, specify the information they are contesting and the corrective action sought, and the reasons for the correction, with supporting justification showing how the record is incomplete, untimely, inaccurate or irrelevant. These procedures are in accordance with SSA Regulations (20 CFR 401.65(a)).

Record source categories:

Survey data obtained by the contractor; SSA administrative records; medical data compiled by extramural research under contracts or grants.

Systems exempted from certain provisions of the Privacy Act:

None.

SYSTEM NUMBER: 60-0218

System name:

Disability Insurance and Supplemental Security Income Demonstration Projects and Experiments System, Social Security Administration, Deputy Commissioner for Disability Income and Security Programs.

Security classification:

None.

System Location:

Social Security Administration, Office of Systems, 6401 Security Boulevard, Baltimore, MD 21235.

Social Security Administration, Office of Disability and Income Security Programs, Office of Program Development and Research, 6401 Security Boulevard, Baltimore, MD 21235.

Certain Social Security Administration (SSA) field office (FO) locations (FO addresses and telephone numbers can be found in local telephone directories under “Social Security Administration,” (SSA) or by accessing http://www.ssa.gov/regions/regional.html).

Contractor sites: Contractor addresses may be obtained by writing to the system manager at the address below.

Categories of individuals covered by the system:

A. Persons in sample groups of Social Security Title II disability insurance (DI) applicants, DI beneficiaries and their auxiliary beneficiaries; persons selected from State temporary DI programs; other persons who are representative payees of these persons and temporarily disabled persons receiving State benefits (non-applicants) in comparison groups for the vocational rehabilitation (VR) demonstrations.

B. Persons in sample groups of individuals who apply for, or receive, Social Security Title XVI Supplemental Security Income (SSI) payments on the basis of a disability or blindness in general and particularly those who are medically determined to be drug addicted or alcoholic, mentally retarded or developmentally disabled, and representative payees of those individuals.

Categories of in the system:

The system maintains records which are used for statistical and research analysis only, as well as other records which will be used to conduct program functions involving the demonstrations and experiments. Tax return information, the disclosure of which would violate section 6103 of the Internal Revenue Code (IRC), will be used solely for internal SSA purposes and will not be disclosed to other entities. Participants will be informed at the time of data collection that information obtained by survey or interview exclusively for statistical and research purposes will be protected from disclosure for other purposes to the fullest extent permissible by law.

Records in the system will consist of data relating to the following: Demographic characteristics, education, marital status, military service, dependents, family and household composition; medical history (mental and physical); medical expenses, disability characteristics and health information; living arrangements, health insurance coverage and use; medical and rehabilitation services; employment; occupation and industry classification; income (including tax return information subject to section 6103 of the IRC); earnings and expenditures; referrals to and participation in the SSI and related Federal/State welfare programs; benefits received; types of cost of services under DI, SSI and related Federal/State welfare programs; reasons for, or circumstances of, closure; attitudes toward work, rehabilitation or treatment programs; impairment-related work expenses; worker's compensation benefits; job search methods; knowledge and understanding of provisions affecting entitlement to benefits; participation in, and services rendered, under the Ticket to Work program; also, for SSI projects only, driver's license and alcohol and drug use (disclosure of this information may be restricted by 21 U.S.C. 1175 and 42 U.S.C. 4582).

Authority for maintenance of the system:

Sections 222, 234 and 1110 of the Social Security Act (42 U.S.C. 422, 434 and 1310); section 505 of Pub. L. 96-265 (the Social Security Disability Amendments of 1980), as amended by section 12101 of Pub. L. 99-272; section 10103 of Pub. L. 101-239; and section 5120 of Pub. L. 101-508.

Purpose(s):

The purpose of this system is to provide SSA with data necessary to carry out and evaluate demonstrations and experiments for testing alternative approaches to continuing benefit eligibility during employment and to the rehabilitation of Title II DI beneficiaries and individuals who apply for, or receive, Title XVI SSI payments on the basis of a disability or blindness and, to report to Congress, as required by section 505 of Pub. L. 96-265, as amended by section 12101 of Pub. L. 99-272 and section 10103 of Pub. L. 101-239, section 5120 of Pub. L. 101-508, and sections 301 and 302 of Pub. L. 106-170.

Except for tax return information, and records collected by means of surveys or interviews for use solely for research and statistical purposes, SSA may also provide information from this system to components of the Department of Health and Human Services; e.g., the Centers for Medicare and Medicaid Services (CMS) for the purpose of determining eligibility for health insurance (HI) benefits or supplemental medical insurance (SMI) benefits under the demonstrations and experiments and for the purpose of obtaining data from CMS on HI and SMI utilization during the demonstrations and experiments; to State DDSs for the purpose of making disability determinations; and to State VR agencies for the purpose of screening DI beneficiaries and SSI recipients for VR potential and designing and implementing a plan of VR services for accepted beneficiaries and recipients.

Routine uses of records maintained in the system, including categories of users and the purposes of such uses:

Disclosure may be made for routine uses as indicated below:

1. With respect to any records, including those collected by means of survey or interview to be used solely for research and statistical purposes, disclosure may be made:

(a) To a congressional office in response to an inquiry from that office made at the request of the subject of a record.

(b) To a contractor under contract to the Social Security Administration, subject to any restrictions imposed by 26 U.S.C. 6103 of the Internal Revenue Code, for the performance of research and statistical activities directly related to this system of records in conducting the demonstrations and experiments and to provide a statistical data base for research studies.

2. With respect only to records that are not collected by means of surveys or interviews for use solely for research and statistical purposes, disclosure may be made subject to any restrictions imposed by 26 U.S.C. 6103 of the Internal Revenue Code:

(a) To a third party organization under contract to SSA for the performance of project management activities directly related to this system of records.

(b) To a State vocational rehabilitation agency in the State in which the disabled individual resides, for the purpose of assisting the agency in providing rehabilitation counseling and service to the individual that are necessary in carrying out the demonstrations and experiments.

3. To the Internal Revenue Service, for the purpose of auditing the Social Security Administration's compliance with the safeguard provisions of the Internal Revenue Code of 1986, as amended.

4. To student volunteers, individuals working under a personal services contract, and other workers who technically do not have the status of Federal employees, when they are performing work for the Social Security Administration (SSA), as authorized by law, and they need access to personally identifiable information in SSA records in order to perform their assigned Agency functions.

5. To the General Services Administration and the National Archives Records Administration (NARA) under 44 U.S.C. 2904 and 2906, as amended by the NARA Act of 1984, information which is not restricted from disclosure by Federal law for the use of those agencies in conducting records management studies.

6. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records in this system may be stored in paper form (e.g., hard copy questionnaires and computer printouts) and in magnetic media (e.g., magnetic tape and disc) and on other media (e.g., compact, optical or zip diskette) formats.

Retrievability:

Records in this system are indexed and retrieved by the SSN.

Safeguards:

SSA safeguards are established for automated records in accordance with the SSA Systems Security Handbook. This includes maintaining the records in a secured building, such as the National Computer Center (NCC). Entry into the NCC is restricted to employees whose duties require such entry. Special passes, including the employees' photographs, are issued to all personnel authorized to enter the NCC. The employees are required to wear their passes at all times. Marshals are stationed in the lobby of the center to ensure that only those employees authorized to enter the NCC do so.

Manually maintained records are kept in locked cabinets or in otherwise secure areas. Access to the records is limited to those employees who require the information to perform their assigned duties. SSA employees and employees of contractors having access to the records in this system have been notified of criminal sanctions for unauthorized disclosure of information about individuals. Agreements ensure further confidentiality protections.

Contractor use of records is restricted to performing the duties of the contract, and contractors are required to establish adequate safeguards to protect personal information. Additionally, contractors and their employees are subject to the same criminal penalties as SSA employees for violations of the Privacy Act. Access http://www.socialsecurity.gov/foia/bluebook/app_g.htm for additional information relating to SSA data security measures.

Retention and disposal:

Magnetic tapes or other files with personal identifiers are retained in secured storage areas accessible only to authorized personnel.

Micro-data files, prepared for purposes of research, evaluation and analysis, are stripped of personal identifiers (e.g., purged, scrambled, encrypted, etc.) and are subject to procedural safeguards to assure anonymity.

Hardcopy questionnaires will be destroyed when survey reports are completed. Records with identifiers will be held in secure storage areas and will be disposed of when they are no longer needed for SSA analysis.

Means of disposal will be appropriate to the storage medium (e.g., erasure of tapes, shredding of paper records, etc.). Records used in administering the demonstration and experimental programs will be retained indefinitely.

System manager(s) and address(es):

Associate Commissioner, Office of Program Development and Research, Office of Disability Income and Security Programs, Social Security Administration, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, requesters should reasonably identify the record, specify the information they are attempting to obtain. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Records in this system are derived in part from other SSA systems of records such as the Earnings Record and Self-Employment Income System, 60-0059, the Claims Folders System, 60-0089 (disability case folders), the Master Beneficiary Record, 60-0090, the Supplemental Security Income Record and Special Veterans Benefits, 60-0103, the Completed Determination Record—Continuing Disability Determination, 60-0050, the National Disability Determination Services (NDDS) File, 60-0044, the Ticket-to-Work and Self-Sufficiency Program Payment Database, 60-0295, and the Ticket-to-Work Program Manager (PM) Management Information System, 60-0300; other SSA administrative records; program records of other Federal/State welfare programs; survey data collected by contractors or SSA personnel; from the individual; the Health Insurance Master Record, 09-70-0502 of the Centers for Medicare & Medicaid Services (CMS); case service reports of VR agencies and referral and monitoring agencies; and employers.

Systems exempted from certain provisions of the Privacy Act:

None.

SYSTEM NUMBER: 60-0219

System name:

Representative Disqualification/Suspension Information System, Social Security Administration, Office of the General Counsel.

System classification:

None.

System Location:

Social Security Administration, Office of the General Counsel, Office of General Law, One Skyline Tower, Suite 1605, 5107 Leesburg Pike, Falls Church, VA 22041.

Categories of individuals covered by the system:

Individuals alleged to have violated the provisions of the Social Security Act and regulations relating to representation of claimants/beneficiaries before the Commissioner, Social Security Administration (SSA), those found to have committed such violations and who are disqualified/suspended, and those who are investigated, but not disqualified/suspended. The last category would include cases in which we find that a violation has not occurred or that a violation has occurred, but we are able to resolve the matter without taking action to disqualify/suspend the representative.

Categories of RECORDS in the system:

Records in the system will consist of information such as the representative's name and address; each claimant's/beneficiary's name, address and Social Security number (SSN); copies of all documentation received as a result of SSA's investigation of alleged violations of the Social Security Act and regulations relating to representation; documentation resulting from an Administrative Law Judge (ALJ) hearing on charges of noncompliance; and copies of the notification of disqualification/suspension.

Authority for maintenance of the system:

Sections 206(a) and 1631(d)(2) of the Social Security Act (42 U.S.C. 406 and 1383).

Purpose(s):

Information in the system will be used to determine if a violation of the provisions of the Social Security Act and regulations relating to claimant representation has occurred and to provide timely and detailed information on cases in which disciplinary action is taken against a representative who has committed a violation. The system also will be used to assist SSA components in investigating alleged violations or enforcing disciplinary actions against a representative.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To a claimant/beneficiary that his/her representative has been disqualified/suspended from further representation before the Social Security Administration.

2. To a claimant/beneficiary who may want to hire a disqualified/suspended individual as his/her representative that the individual has been disqualified/suspended from further representation before the Social Security Administration.

3. To a State bar disciplinary authority in the State(s) in which a disqualified/suspended attorney is admitted to practice that the Social Security Administration (SSA) has disqualified/suspended the attorney from further practice before SSA and, upon request, further information concerning the disqualification/suspension.

4. To the Department of Justice (DOJ), a court or other tribunal, or another party before such tribunal when:

(a) Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

5. To a congressional office in response to an inquiry from that office made at the request of the subject of a record.

6. To the General Services Administration and the National Archives Records Administration (NARA) under 44 U.S.C. 2904 and 2906, as amended by the NARA Act of 1984, information which is not restricted from disclosure by Federal law for the use of those agencies in conducting records management studies.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are stored in paper form.

Retrievability:

Records are retrieved from the system by the name of the representative.

Safeguards:

Records are maintained in locked cabinets or in otherwise secure storage areas. Access to the records is restricted to SSA employees who have a need for the records in the performance of their official duties. Also, all employees having access to the records periodically are briefed on Privacy Act requirements and SSA confidentiality rules and notified of criminal sanctions against unauthorized access to, or disclosure of, information in a system of records. Access http://www.socialsecurity.gov/foia/bluebook/app_g.htm for additional information relating to SSA data security measures.

System manager(s) and address(es):

Associate General Counsel, Office of General Law, Office of the General Counsel, Social Security Administration, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, individuals requesting access should reasonably identify the record and specify the information they are attempting to obtain. These procedures are in accordance with SSA Regulations (20 CFR 401.40(c)).

Contesting record procedures:

Same as Notification procedures. Also, individuals contesting a record should identify the record, specify the information they are contesting and the corrective action sought, and the reasons for the correction, with supporting justification showing how the record is incomplete, untimely, inaccurate or irrelevant. These procedures are in accordance with SSA Regulations (20 CFR 401.65(a)).

Record source categories:

Records in this system are derived from existing systems of records maintained by SSA such as the Claims Folder System, 60-0089 which contains information relating to representation; documentation received as a result of investigations of alleged violations of the representation provisions of the Social Security Act and regulations; documentation resulting from ALJ hearings on charges of noncompliance; and documentation resulting from notifications of disciplinary actions.

Systems exempted from certain provisions of the Privacy Act:

None.

SYSTEM NUMBER: 60-0221

System name:

Vocational Rehabilitation Reimbursement Case Processing System, Social Security Administration, Office of Employment and Income Support Programs.

Security classification:

None.

System Location:

Social Security Administration, Office of Employment and Income Support Programs, 6401 Security Boulevard, Baltimore, MD 21235.

Social Security Administration, Office of Systems, 6401 Security Boulevard, Baltimore, MD 21235.

In addition, reimbursement claims documents may be temporarily transferred to other locations within the Social Security Administration (SSA). Contact the system manager at the address below to inquire about these addresses.

Categories of individuals covered by the system:

This system maintains information on disabled and blind individuals who received vocational rehabilitation (VR) services for which State VR agencies (VRA) or alternate participants seek reimbursement under sections 222(d) and 1615(d) of the Social Security Act because the individuals were entitled/eligible to Social Security benefits and/or Supplemental Security Income (SSI) payments based on disability or blindness while receiving those VR services.

The individuals described above will be included in the system when they:

(1) Performed substantial gainful activity (SGA) for a continuous period of at least 9 months as a result of VR services received or;

(2) Medically recovered while in a VR program and continued to receive cash payments under section 225(b) and/or 1631(a)(6) of the Social Security Act; or

(3) Refused, without good cause, to continue or to cooperate in a VR program in such a way as to preclude their successful rehabilitation; and

(4) State VR agencies or alternate participants filed claims for reimbursement of the cost of VR services rendered to the individuals. (An alternate participant is a public or private agency, organization, institution, or individual which the Commissioner of Social Security may use to provide VR services to disabled and blind beneficiaries/recipients within a State if that State is unwilling to participate in the SSA-VR Program or does not have an approved plan for VR services.)

Categories of in the system:

Data in the system consist of:

• Identifying information such as the VR client's name, Social Security number (SSN), disability diagnosis, sex and date of birth;

• The SSN and identification code under which the VR client received Social Security benefits/SSI payments;

• The type of benefits/payments received; the monthly benefit/payment amount;

• Information relating to the period he/she was entitled/eligible to benefits/payments and, if benefits/payments were terminated or suspended, the basis for termination/suspension;

• Information relating to his/her yearly earnings and employment;

• Information relating to the period he/she received VR services and the nature and costs of those services; and

• Information required to determine if and when he/she:

• Performed SGA for a continuous period of at least 9 months based on services the State VRA or alternate participant provided;

• Medically recovered while in a VR program and continued to receive cash payments under section 225(b) and/or 1631(a)(6) of the Social Security Act; or

• Refused, without good cause, to continue or to cooperate in a VR program in such a way as to preclude his/her successful rehabilitation.

Authority for maintenance of the system:

Sections 222(d) and 1615(d) of the Social Security Act (42 U.S.C. 422 and 1382d).

Purpose(s):

Data in this system will be used to determine if a State VR agency or alternate participant can be reimbursed for the costs of VR services provided to individuals while they were entitled/eligible to Social Security benefits or SSI payments based on disability or blindness. Data also will be used for program evaluation purposes and to determine what types of individuals are being successfully rehabilitated so that Social Security beneficiaries/SSI recipients with similar profiles are targeted for rehabilitation. In some instances, information furnished by a VR agency or alternate participant may be used as a lead in determining if an individual's disability/blindness payments should continue.

Routine uses of records maintained in the system, including categories of users and the purposes of such uses:

Disclosure may be made for routine uses as indicated below.

1. To a State vocational rehabilitation agency or alternate participant regarding the basis for SSA's decision on its claim for reimbursement and the reason(s) costs were allowed or denied.

2. To the Department of Justice (DOJ), a court or other tribunal, or to another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to litigation or has an interest in such litigation, and SSA determines that the use of such records by DOJ, a court or other tribunal, or another party before the tribunal, is relevant and necessary to the litigation, provided, however, that in each case, SSA determines that such disclosure is compatible with the purpose for which the records were collected.

3. To a congressional office in response to an inquiry from that office made at the request of the subject of the record.

4. To the General Services Administration and the National Archives Records Administration (NARA) under 44 U.S.C. 2904 and 2906, as amended by the NARA Act of 1984, information which is not restricted from disclosure by Federal law for the use of those agencies in conducting records management studies.

5. To contractors or other Federal agencies, as necessary, for the purpose of assisting the Social Security Administration (SSA) in the efficient administration of its programs. We will disclose information under this routine use only in situations in which SSA may enter into a contractual or similar agreement with a third party to assist in accomplishing an Agency function relating to this system of records.

6. To the Internal Revenue Service, for the purpose of auditing the Social Security Administration's compliance with safeguard provisions of the Internal Revenue Code of 1986, as amended.

7. To the Rehabilitation Service Administration (RSA) for use in its program studies and development of enhancements for, State vocational rehabilitation programs to which applicants or beneficiaries under Titles II and/or XVI of the Social Security Act may be referred. Data released to RSA will not include any personally identifying information such as names or Social Security numbers.

8. To student volunteers, individuals working under a personal services contract, and other workers who technically do not have the status of Federal employees, when they are performing work for the Social Security Administration (SSA), as authorized by law, and they need access to personally identifiable information in SSA records in order to perform their assigned Agency functions.

9. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records will be stored in magnetic media (e.g., computer disc packs) and, on a temporary basis, in paper form.

Retrievability:

Data will be retrieved from the system by the SSN of the individual who received VR services for which the State VRA or alternate participant filed the reimbursement claim.

Safeguards:

Safeguards for automated data have been established in accordance with the Systems Security Handbook. This includes maintaining computer disc packs or other magnetic files with personal identifiers in secured storage areas accessible only to authorized personnel. SSA employees having access to the computerized records and employees of any contractor who may be utilized to develop and maintain the software for the automated system will be notified of criminal sanctions for unauthorized disclosure of information about individuals. Also, contracts with third parties, if any, will contain language which delineates the conditions under which contractors will have access to data in the system and what safeguards must be employed to protect the data.

Manually maintained data will be stored in either lockable file cabinets within locked rooms or otherwise secured areas. Access to these records will be restricted to those employees who require them to perform their assigned duties. Access http://www.socialsecurity.gov/foia/bluebook/app_g.htm for additional information relating to SSA data security measures.

Retention and disposal:

Computerized records and manual data (claim applications, keyed claim forms, etc.) used in the VR claims reimbursement process will be maintained for a period of 6 years, 3 months, after the close of the fiscal year in which final adjudication was made. Means of disposal will be appropriate to the storage medium (e.g., erasure of discs, shredding of paper records, or transfer to another system of records).

System manager(s) and address(es):

Associate Commissioner, Office of Employment and Income Support Programs, Social Security Administration, 6401 Security Boulevard, Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Also, a requester should reasonably identify and specify the information he/she is attempting to obtain. These procedures are in accordance with SSA Regulations (20 CFR 401.40(c)).

Contesting data procedures:

Same as Notification procedures. Also, an individual contesting data in the system should identify the data, specify the information he/she is contesting and the corrective action sought, and the reasons for the correction, with supporting justification showing how the record is incomplete, untimely, inaccurate, or irrelevant. These procedures are in accordance with SSA Regulations (20 CFR 401.65(a)).

Record source categories:

Data in this system will be derived in part from other SSA systems of records such as the Earnings Record and Self-Employment Income System, 60-0059, Claims Folder System, 60-0089, Master Beneficiary Record, 60-0090, and the Supplemental Security Income Record and Special Veterans Benefits, 60-0103; the reimbursement applications submitted by State VR agencies or alternate participants; earnings information provided by the wage-earner/beneficiary; and investigations conducted by SSA and State VR agencies field employees which relate to a VR client's post-VR work activity, participation in a VR program after medical recovery, and/or reason(s) for failing to cooperate in a VR program.

Systems exempted from certain provisions of the Privacy Act:

None.

SYSTEM NUMBER: 60-0222

System name:

Master Representative Payee File.

Security classification:

None.

System Location:

National Computer Center, Social Security Administration, 6201 Security Boulevard, Baltimore, MD 21235. The system database will be available by direct electronic access by Social Security field offices (FO).

FO addresses and telephone numbers can be found in local telephone directories under “Social Security Administration,” (SSA) or by accessing http://www.ssa.gov/regions/regional.html.

Categories of individuals covered by the system:

This system maintains information about all payees and payee applicants, including persons whose certifications as representative payees have been revoked or terminated on or after January 1, 1991; persons who have been convicted of a violation of section 208 or section 1632 of the Social Security Act, persons convicted under other statutes in connection with services as a representative payee, and others whose certification as a representative payee SSA has revoked due to misuse of funds paid under Title II and Title XVI of the Social Security Act; persons who are acting or have acted as representative payees; representative payee applicants who were not selected to serve as representative payees; representative payee applicants who have been convicted of an offense resulting in more than one (1) year imprisonment; payees and payee applicants who have an outstanding felony warrant; organizational payees who have been authorized to collect a fee for their service; and beneficiaries/applicants who are being served by representative payees.

Categories of Records in the system:

Data in this system consist of:

1. Names and Social Security numbers (SSNs) (or employer identification numbers (EINs)) of representative payees whose certifications for payment of benefits as representative payees have been revoked or terminated on or after January 1, 1991, because of misuse of benefits under Title II or Title XVI of the Social Security Act;

2. Names and SSNs (or EINs) of all persons convicted of violations of sections 208 or 1632 of the Social Security Act;

3. Names, addresses, and SSNs (or EINs) of persons convicted of violations of statutes other than sections 208 and 1632 of the Social Security Act, when such violations were committed in connection with the individual's service as a Social Security representative payee;

4. Names, addresses, SSNs, and information about the crime reported by the payee for those who have an outstanding felony warrant or who have been imprisoned for a period exceeding one (1) year. (An indicator will be used in the system to identify persons identified as having an outstanding felony warrant);

5. Names, addresses, and SSNs (or EINs) of representative payees who are receiving benefit payments pursuant to section 205(j) or section 1631(a)(2) of the Social Security Act;

6. Names, addresses, and SSNs of individuals for whom representative payees are reported to be providing representative payee services under section 205(j) or section 1631(a)(2) of the Social Security Act;

7. Names, addresses, and SSNs of representative payee applicants who were not selected as representative payees;

8. Names, addresses, and SSNs of persons who were terminated as representative payees for reasons other than misuse of benefits paid to them on behalf of beneficiaries/recipients;

9. Information on the representative payee's relationship to the beneficiaries/recipients they serve;

10. Names, addresses, EINs and qualifying information of organizations authorized to charge a fee for providing representative payee services;

11. Codes which indicate the relationship (other than familial) between the beneficiaries/recipients and the individuals who have custody of the beneficiaries/recipients;

12. Dates and reasons for payee terminations (e.g., performance not acceptable, death of payee, beneficiary in direct payment, etc.) and revocations;

13. Codes indicating whether representative payee applicants were selected or not selected;

14. Dates and reasons representative payee applicants were not selected to serve as payees and dates and reasons for changes of payees (e.g., beneficiary in direct payment, etc.);

15. Amount of benefits misused;

16. Identification number assigned to the claim on which the misuse occurred;

17. Date of the determination of misuse; and

18. Information about a felony conviction reported by the representative payee.

Authority for maintenance of the system:

Sections 205(a), 205(j), 1631(a) of the Social Security Act, and the Social Security Protection Act of 2004 (Pub. L. 108-203).

Purpose(s):

Information maintained in this system will assist SSA in the representative payee selection process by enabling Social Security field offices to more carefully screen applicants and to determine their suitability to become representative payees. SSA also will use the data for management information and workload projection purposes and to prepare annual reports to Congress on representative payee activities.

Routine uses of records maintained in the system, including categories of users and the purposes of such uses:

Disclosure may be made for routine uses as indicated below. However, disclosure of any information defined as “return or return information” under 26 U.S.C. 6103 of the Internal Revenue Code will not be disclosed unless authorized by a statute, the Internal Revenue Service (IRS), or IRS regulations.

1. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to litigation or has an interest in such litigation, and SSA determines that the use of such records by DOJ, a court or other tribunal, or another party before the tribunal, is relevant and necessary to the litigation, provided, however, that in each case, SSA determines that such disclosure is compatible with the purpose for which the records were collected.

2. To a congressional office in response to an inquiry from that office made at the request of the subject of the records.

3. To the General Services Administration and the National Archives Records Administration (NARA) under 44 U.S.C. 2904 and 2906, as amended by the NARA Act of 1984, information which is not restricted from disclosure by Federal law for the use of those agencies in conducting records management studies.

4. To the Department of Veterans Affairs, Regional Office, Manila, Philippines, for the administration of the Social Security Act in the Philippines and other parts of the Asia-Pacific region through services and facilities of that agency.

5. To the Department of State for administration of the Social Security Act in foreign countries through services and facilities of that agency.

6. To the American Institute, a private corporation under contract to the Department of State, for administering the Social Security Act on Taiwan through facilities and services of that agency.

7. To the Department of Justice for:

(a) Investigating and prosecuting violations of the Social Security Act to which criminal penalties attach,

(b) Representing the Commissioner of Social Security, and

(c) Investigating issues of fraud or violations of civil rights by officers or employees of the Social Security Administration.

8. To the Office of the President for responding to an inquiry received from that individual or from a third party acting on that individual's behalf.

9. To the Department of Veterans Affairs (DVA) for the shared administration of DVA's and the Social Security Administration's representative payee programs.

10. To contractors and other Federal Agencies, as necessary, for the purpose of assisting the Social Security Administration in the efficient administration of its programs. We will disclose information under this routine use only in situations in which SSA may enter into a contractual or similar agreement to obtain assistance in accomplishing an SSA function relating to this system of records.

11. To a third party such as a physician, social worker, or community service worker, who has, or is expected to have, information which is needed to evaluate one or both of the following:

(a) The claimant's capability to manage or direct the management of his/her affairs.

(b) Any case in which disclosure aids investigation of suspected misuse of benefits, abuse or fraud, or is necessary for program integrity, or quality appraisal activities.

12. To a third party, where necessary, information pertaining to the identity of a payee or payee applicant, the fact of the person's application for or service as a payee, and, as necessary, the identity of the beneficiary, to obtain information on employment, sources of income, criminal justice records, stability of residence and other information relating to the qualifications and suitability of representative payees or representative payee applicants to serve as representative payees or their use of the benefits paid to them under section 205(j) or section 1631(a) of the Social Security Act.

13. To a claimant or other individual authorized to act on his/her behalf information pertaining to the address of a representative payee applicant or a selected representative payee when this information is needed to pursue a claim for recovery of misapplied or misused benefits.

14. To the Railroad Retirement Board (RRB) for the administration of RRB's representative payment program.

15. To student volunteers, individuals working under a personal services contract, and other workers who technically do not have the status of Federal employees, when they are performing work for the Social Security Administration (SSA), as authorized by law, and they need access to personally identifiable information in SSA records in order to perform their assigned Agency functions.

16. To the Office of Personnel Management (OPM) for the administration of OPM's representative payee programs.

17. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and Practices for Storing, Retrieving, Accessing, Retaining and Disposing of Records in the System:

Storage:

Records are stored in magnetic media (e.g., magnetic tape, microfilm, and disc).

Retrievability:

Data are retrieved from the system by the SSN or the ZIP code and name (in a situation where the representative payee is an organization) of the representative payee, or the SSN of the beneficiary/recipient.

Safeguards:

For computerized records electronically transmitted between Central Office and FO locations (including organizations administering SSA programs under contractual agreements), safeguards include a lock/unlock password system, exclusive use of leased telephone lines, a terminal-oriented transaction matrix, and an audit trail. All microfilm files are accessible only by authorized personnel who have a need for the information in performing their official duties. Magnetic tapes are in secured storage areas accessible only to authorized personnel. Access http://www.socialsecurity.gov/foia/bluebook/app_g.htm for additional information relating to SSA data security measures.

Retention and disposal:

The records should be definitively destroyed in accordance with their appropriate retention schedules.

System manager(s) and address:

Associate Commissioner, Office of Income Security Programs, Social Security Administration, Room 252 Altmeyer Building, 6401 Security Boulevard, Baltimore, Maryland 21235.

Notification procedures:

An individual can determine if this system contains data about him/her by writing to the systems manager at the address shown above and providing his/her name, SSN or other information that may be in the system of records that will identify him/her. An individual requesting notification of data in person should provide the same information, as well as provide any identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for access to records concerning another individual under false pretense is a criminal offense. These procedures are in accordance with SSA Regulations (20 CFR 401.40(c)).

Record access procedures:

Same as Notification procedures. Also, a requester should reasonably identify and specify the information he/she is attempting to obtain. These procedures are in accordance with SSA Regulations (20 CFR 401.40(c)).

Contesting record procedures:

Same as Notification procedures. Also, an individual contesting records in the system should identify the record, specify the information he/she is contesting and the corrective action sought, and the reasons for the correction, with supporting justification showing how the record is incomplete, untimely, inaccurate, or irrelevant. These procedures are in accordance with SSA Regulations (20 CFR 401.65(a)).

Record source categories:

Data in this system are obtained from representative payee applicants and representative payees, the SSA Office of Inspector General, and other SSA systems of records such as the Claims Folder System, 60-0089; Master Beneficiary Record, 60-0090; Supplemental Security Income Record, 60-0103; Master Files of SSN Holders, 60-0058; and Recovery, Accounting for Overpayments, 60-0094.

Systems exempted from certain provisions of the Privacy Act:

None.

SYSTEM NUMBER: 60-0228

System name:

Safety Management Information System (SSA Accident, Injury and Illness Reporting System), Social Security Administration, Deputy Commissioner for Finance, Assessment and Management, Office of Facilities Management.

Security classification:

None.

System Location:

Social Security Administration, Office of Facilities Management, Room 2-J-9 Operations Building, 6401 Security Boulevard, Baltimore, Maryland 21235.

Categories of individuals covered by the system:

Social Security Administration (SSA) employees, who are involved in an accident which arises out of and in the course of their employment whether occurring on SSA premises or not and results in:

(a) A fatality;

(b) Lost workdays beyond the day in which the accident occurred;

(c) Nonfatal injuries which result in transfer to another job, termination of employment, medical treatment other than first aid, loss of consciousness or restriction of work or motion;

(d) A possible tort claim;

(e) A claim for compensation;

(f) Property damage in excess of $50;

(g) Interruption or interference with the orderly progress of work of other employees;

(h) Radiation overexposure;

(i) Biological exposure resulting in lost time or of accidental release of biologicals where the public may be over-exposed. It also covers visiting scientists, contractor personnel,

(j) Hospitalized patients, out-patients, employees of other Federal agencies, State or local governments or members of the public who suffer injury, illness or property damage on or in SSA premises or as a result of SSA activities.

Categories of Records in the system:

This system consists of a variety of information and supporting documentation resulting from the reporting and investigation of accidents which have resulted in injury, illness, property damage or the interruption or interference with the orderly progress of work.

The records contain information about individuals involved in, or experiencing, accidents including, but not limited to, the severity of the injury, whether consciousness was lost, the type of injury, culmination of any injury, days lost from work, if any, the nature of the injury, illness or disease, the body part affected, causal factors, weather factors, agency of accident, whether unsafe mechanical, physical, or personal acts or factors were involved, the accident's area of origin and if fire was involved, the type and form of materials involved.

Property damage (both public and private) is noted through the property sequence number, who owned the property involved, property damage and actual or estimated monetary loss, the SSA installation number, if appropriate, and the year of manufacture or construction if appropriate.

Identifiers relating to a particular accident include the organization, case number assigned, date and time of occurrence, State or territory, site, type and classification of accident, estimated amount of tort claims, if appropriate, name of individual(s) involved, the Social Security number (SSN), sex, age, grade series and level, Computer Sciences Corporation (CSC) series, address, other departments notified of accident, duty status, activity at time of accident and time on duty before accident. Management's evaluation and corrective action taken or proposed is also noted.

Authority for maintenance of the system:

Section 19 of the Occupational Safety and Health Act of 1970 (Pub. L. 91-596, 29 U.S.C. 651, et seq.); 5 U.S.C. 7902; 29 CFR part 1960; Executive Order (E.O.) No. 12196 (45 FR 12769 4/26/80).

Purpose(s):

The purpose of the system is to comply with the reporting and statistical analyses requirements of section 19 of the Occupational Safety and Health Act (OSHA) of 1970 (Pub. L. 91-596) as amended (29 U.S.C. 668); 5 U.S.C. 7902; 29 CFR Part 1960; E.O. 12196 and such other purposes as are described below. The Safety Management Information System is a SSA-wide system utilized by all organizational components of the Agency. Thus, in addition to the routine uses subsequently noted in this system notice, there may be other ad hoc disclosures within the Agency on an official business “need-to-know” basis. Some of the purposes are the following:

• Establish a written record of the causes of accidents;

• Provide information to initiate and support corrective or preventive action;

• Provide statistical information relating to accidents resulting in occupational injuries; illnesses, and/or property damage;

• Provide management with information with which to evaluate the effectiveness of safety management programs;

• Provide the means for complying with the reporting requirements of section 19 of the Occupational Safety and Health Act of 1970 and such other reporting requirements as may be required by legislative or regulative requirements;

• Provide such other summary descriptive statistics and analytical studies as necessary in support of the function for which the records are collected and maintained including general requests for statistical information without personal identification of individuals;

Information in these records is used by or may be disclosed to:

• The Office of Facilities Management (OFM), Office of the Deputy Commissioner for Finance, Assessment and Management (DCFAM), in the review of accident experience data to determine the adequacy of corrective actions, the effect of codes, standards and guides, the consolidation, summarization and dissemination of accident experience data throughout SSA and other government departments and agencies as needed or required;

• The supervisor, administrative officer or other official initiating an accident report, including each succeeding reviewing official in the chain of command through which the report passes, to insure that corrective action, as needed and appropriate, is taken; and

• Appropriately appointed Safety Directors, Officers, or others with safety responsibilities within the Agency in the verifying, assembling, analyzing, summarizing and disseminating data concerning the accident in their areas of responsibility and in the initiation of appropriate corrective action.

Routine uses of records maintained in the system, including categories of users and the purposes of such uses:

Disclosure may be made for routine uses as indicated below:

1. To a Federal, State, local agency or private sources to obtain information relevant to the investigation of an accident and/or corrective action.

2. To a congressional office in response to an inquiry from that office made at the request of the subject of the record.

3. To the Department of Justice (DOJ), a court or other tribunal, or another party before such tribunal, when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before tribunal, is relevant and necessary to the litigation, provided, however, that in each case, SSA determines that such disclosure is compatible with the purpose for which the records were collected.

4. To Federal, State, or local law enforcement agencies if a record maintained by this agency to carry out its functions indicates a violation or potential violation of law, whether civil, criminal or regulatory in nature.

5. To student volunteers, individuals working under a personal services contract, and other workers who technically do not have the status of Federal employees, when they are performing work for the Social Security Administration (SSA), as authorized by law, and they need access to personally identifiable information in SSA records in order to perform their assigned Agency functions.

6. To the General Services Administration and the National Archives Records Administration (NARA) under 44 U.S.C. 2904 and 2906, as amended by the NARA Act of 1984, information which is not restricted from disclosure by Federal law for the use of those agencies in conducting records management studies.

Policies and practices for storing, retrieving, accessing, retaining, and disposing of records in the system:

Storage:

Records are maintained in automated format (e.g., on magnetic tapes, discs, computer storage,) and in paper form (e.g., punch cards, lists, forms, in file folders, binders and index cards).

Retrievability:

Records are retrieved by name, SSN, case number or cross reference.

Safeguards:

Access to, and use of, those records is limited to those persons whose official duties require such access. Personnel screening is employed to prevent unauthorized disclosure. Access http://www.socialsecurity.gov/foia/bluebook/app_g.htm for additional information relating to SSA data security measures.

Retention and disposal:

All accident reports, records, logs, and other information relating to an accident are retained by Headquarters and components for at least five years following the end of the calendar year in which the accident occurred. Specific occupational safety and health standards (such as the standards, covering the handling of carcinogenic chemicals) may be required to be kept for up to twenty years. Records may be retained indefinitely.

System manager(s) and address(es):

Safety Manager, Office of Facilities Management, Social Security Administration, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requester should also reasonably identify the record, specify the record contents being sought, and state time and brief description of the accident in which they were involved. These procedures are in accordance with SSA Regulations (20 CFR 401.40(c)).

Contesting record procedures:

Same as Notification procedures. Requester should also reasonably identify the record, specify the information they are contesting and the corrective action sought, and the reasons for the correction, with supporting justification showing how the record is incomplete, untimely, inaccurate or irrelevant. These procedures are in accordance with SSA Regulations (20 CFR 401.65(a)).

Record source categories:

The information in this system is obtained from the following sources: (1) The individual to whom the record pertains; (2) witnesses to the accident; (3) investigation officials (Federal, State, local); (4) medical personnel seeing the individual as a result of the accident; (5) supervisory personnel; (6) reviewing officials; (7) personnel offices; (8) investigative material furnished by Federal, State, or local agencies; and (9) on site observations.

Systems exempted from certain provisions of the Privacy Act:

None.

SYSTEM NUMBER: 60-0230

System name:

Social Security Administration Parking Management Record System, Social Security Administration, Deputy Commissioner for Finance, Assessment and Management, Office of Facilities Management.

Security classification:

None.

System Location:

Social Security Administration, Office of Facilities Management, Room 1-M-25 Operations Building, 6401 Security Boulevard, Baltimore, MD 21235-6401.

Categories of individuals covered by the system:

All Headquarters Social Security Administration (SSA) employees as well as any carpool member, contractor, vendor or building tenant utilizing SSA Headquarters parking facilities.

Categories of records in the system:

This system includes the following information on all persons applying for a parking permit and those that may have received a parking citation: Name, office room number, office phone number, agency, home address, and automobile registration number, and where applicable, physician's statement in support of handicapped parking assignments.

Authority for maintenance of the system:

Federal Property and Administrative Services Act of 1949, as amended, 63 Statute 377, 390 (see 40 U.S.C. 471, 486 and 41 CFR 101-20.104-2).

Purpose(s):

To establish policy governing the acquisition and allocation of Federal parking facilities and the establishment and determination of charges to be paid for the use of such parking by Federal employees, contractor employees and other facility tenants. The purpose of the SSA Parking Policy is to provide standards for apportionment and assignment of parking spaces on SSA-managed and SSA-controlled property and on property assigned to SSA by the General Services Administration or any other agency and to allocate and check parking spaces assigned to government vehicles, visitors, handicapped personnel, key personnel, carpools and others.

Routine uses of records maintained in the system, including categories of users and the purposes of such uses:

Disclosure may be made for routine use as indicated below:

1. To a congressional office from the record of an individual in response to an inquiry made at the request of that individual.

2. To the Department of Justice (DOJ), a court or other tribunal, or another party before such tribunal, when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before tribunal, is relevant and necessary to the litigation, provided, however, that in each case, SSA determines that such disclosure is compatible with the purpose for which the records were collected.

3. To student volunteers, individuals working under a personal services contract, and other workers who technically do not have the status of Federal employees, when they are performing work for the Social Security Administration (SSA), as authorized by law, and they need access to personally identifiable information in SSA records in order to perform their assigned Agency functions.

4. To the General Services Administration and the National Archives Records Administration (NARA) under 44 U.S.C. 2904 and 2906, as amended by the NARA Act of 1984, information which is not restricted from disclosure by Federal law for the use of those agencies in conducting records management studies.

Policies and practices for storing, retrieving, accessing, retaining and disposing of records in the system:

Storage:

Records are maintained in automated format (e.g., on magnetic tapes, disks), and in paper form (e.g., binders in file cabinets).

Retrievability:

Records are retrieved by name and the various categories of information described in the “categories of records” section above.

Safeguards:

Access to, and use of, these records is limited to personnel whose official duties require such access. Security Safeguards meet the requirements of SSA Systems Security Handbook. A minicomputer is maintained in a secured area with access limited to authorized personnel. Computer tapes and disc are stored in locked cabinets. Access http://www.socialsecurity.gov/foia/bluebook/app_g.htm for additional information relating to SSA data security measures.

Retention and disposal:

Superseded materials are maintained by the SSA Protective Security Officer for historical purposes and the control purpose has been met and the records are then destroyed.

System manager(s) and address(es):

Director, Office of Protective Security Services, Social Security Administration, 1-M-25 Operations Building, 6401 Security Boulevard, Baltimore, Maryland 21235-6401.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents they are seeking. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Records are developed from information supplied by applicants for parking permits and, for handicapped parking assignments, by physicians and supervisors.

Systems exempted from certain provisions of the Privacy Act:

None.

SYSTEM NUMBER: 60-0231

System name:

Financial Transactions of SSA Accounting and Finance Offices, Social Security Administration, Deputy Commissioner for Finance, Assessment and Management, Office of Financial Policy and Operations.

System classification:

None.

System Location:

Deputy Commissioner for Finance, Assessment and Management, 800 Altmeyer Building, 6401 Security Boulevard, Baltimore, Maryland 21235.

Travel vouchers submitted for reimbursement of travel and other expenditures while on official business may also be maintained at the administrative office of the Social Security Administration (SSA) employee's unit of work. Records concerning delinquent debts may also be maintained at the program office or by designated claims officers apart from the finance office.

Categories of individuals covered by the system:

All persons who receive a payment from SSA finance offices and all persons owing monies to these offices. Persons receiving payments include, but are not limited to, travelers on official business, contractors, grantees and consultants. Persons owing monies include, but are not limited to, persons who have been overpaid and who owe SSA a refund and persons who have received from SSA goods or services for which there is a charge or fee (e.g., Freedom of Information Act requesters).

Categories of Records in the system:

Name, Social Security number (SSN), address, employer identification numbers (EINs), purpose of payment, accounting classification and amount paid. Also, in the event of an overpayment, and for delinquent grants, the amount of the indebtedness, the repayment status and the amount to be collected.

Authority for maintenance of the system:

Budget and Accounting Act of 1950 (Pub. L. 81-784), Debt Collection Act of 1982 (Pub. L. 97-365).

Purpose(s):

These records are an integral part of SSA's accounting system. The records are used to track payments to individuals, exclusive of salaries and wages, based upon prior entry into the systems of the official commitment and obligation of government funds. When an individual is to repay funds advanced, the records will be used to establish a receivable record and to track repayment status. In the event of an overpayment to an individual, the record is used to establish a receivable record for recovery of the amount claimed. The records are also used internally to develop reports to the Internal Revenue Service and applicable State and local taxing officials of taxable income. This is an Agency-wide notice of payment and collection activities at all locations. Intra-Agency uses and transfers concern the validation and certification for payment, and for SSA internal audits.

Routine Uses of Records Maintained in the System, Including Categories of Users and the Purposes of Such Uses:

Disclosure may be made for routine uses as indicated below:

1. To the Department of the Treasury for check preparation.

2. To members of Congress concerning a Federal financial assistance program.

3. To a congressional office from an individual's record in response to an inquiry from the congressional office made at the request of that individual.

4. To the Department of Justice in the event SSA deems it desirable, or necessary, in determining whether particular records are required to be disclosed under the Freedom of Information Act.

5. To a Federal, State or local agency maintaining civil, criminal or other relevant enforcement records or other pertinent records, such as current licenses, if necessary to obtain a record relevant to an Agency decision concerning the hiring or retention of an employee, the issuance of a security clearance, the letting of a contract or the issuance of a license or other benefit.

6. To a Federal agency, in response to its request, in connection with the hiring or retention of an employee, the issuance of a security clearance, the reporting of an investigation of an employee, the letting of a contract, or the issuance of a license or other benefit by the requesting agency, to the extent that the record is relevant and necessary to the requesting agency's decision on the matter.

7. To a Federal agency having the power to subpoena records, for example, the Internal Revenue Service or the Civil Rights Commission, in response to a subpoena for information contained in this system of records.

8. To officials of labor organizations recognized under 5 U.S.C. Chapter 71 when relevant and necessary to their duties of exclusive representation concerning personnel policies, practices, and matters affecting conditions of employment.

9. To the Department of Justice (DOJ), a court or other tribunal, or to another party before such tribunal, when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before tribunal, is relevant and necessary to the litigation, provided, however, that in each case, SSA determines that such disclosure is compatible with the purpose for which the records were collected.

10. To credit reporting agencies to obtain a credit report about a potential contractor or grantee in order to determine the potential contractor's or grantee's creditworthiness.

11. To the Department of the Treasury:

(a) To find out whether or not the individual has a delinquent tax account for the purpose of determining the individual's creditworthiness for the loan in question under the Internal Revenue Code (26 U.S.C. 6103(1)(3)(A)-(C)); and

(b) To assist SSA in recovering the collection of delinquent administrative debts through Administrative Wage Garnishment (AWG) (31 U.S.C. 3720D) via the Treasury Crossing Servicing program as authorized by the Debt Collection Improvement Act of 1996.

12. To the following entities in order to help collect a debt owed the United States:

(a) To another Federal agency so that agency can effect a salary offset;

(b) To another Federal agency so that agency can effect an administrative offset under common law or under 31 U.S.C. 3716 (withholding from money payable to, or held on behalf of, the individual);

(c) To the Department of the Treasury to request the mailing address of an individual under the Internal Revenue Code (26 U.S.C. 6103(m)(2)(A)) for the purpose of locating the individual to collect or compromise a Federal claim against the individual in accordance with 31 U.S.C. 3711, 3717 and 3718;

(d) To an agent of the Social Security Administration (SSA) that is a consumer reporting agency within the meaning of 15 U.S.C. 1681a(f), the mailing address of an individual may be disclosed to such agent for the purpose of allowing such agent to prepare a commercial credit report on the individual for use by SSA in accordance with 31 U.S.C. 3711, 3717 and 3718;

(e) To debt collection agents under 31 U.S.C. 3718 or under common law to help collect a debt; and

(f) To the Department of Justice for litigation or for further administrative action. In accordance with 31 U.S.C. 3711(e)(1)(F), disclosure under parts (a)-(c) and (e) is limited to information necessary to establish the identity of the person, including name, address and taxpayer identification or Social Security number; the amount, status, and history of the claim; the agency or program under which the claim arose.

13. To another Federal agency that has asked the Social Security Administration to effect an administrative offset under common law or under 31 U.S.C. 3716 to help collect a debt owed the United States. Disclosure under this routine use is limited to the individual's name, address, Social Security number, and other information necessary to identify the individual information about the money payable to, or held for, the individual, and other information concerning the administrative offset.

14. To the Internal Revenue Service and State and local tax authorities when income and payments are reported to them concerning employees, contractors, and when amounts are written-off as legally or administratively uncollectible, in whole or in part.

15. To banks enrolled in the treasury credit card network to collect a payment or debt when the individual has given his/her credit card number for this purpose.

16. To student volunteers, individuals working under a personal services contract, and other workers who technically do not have the status of Federal employees, when they are performing work for the Social Security Administration (SSA), as authorized by law, and they need access to personally identifiable information in SSA records in order to perform their assigned Agency functions.

17. To the General Services Administration and the National Archives Records Administration (NARA) under 44 U.S.C. 2904 and 2906, as amended by the NARA Act of 1984, information which is not restricted from disclosure by Federal law for the use of those agencies in conducting records management studies.

18. To contractors and other Federal agencies, as necessary, for the purpose of assisting the Social Security Administration (SSA) in the efficient administration of its programs. We will disclose information under this routine use only in situations in which SSA may enter into a contractual or similar agreement with a third party to assist in accomplishing an agency function relating to this system of records.

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e) or 1631(b)(4) of the Social Security Act (42 U.S.C. 404(f), 1008(e) or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity; the amount, status, and history of the debt and the agency or program under which the debt arose.

Policies and Practices for Storing, Retrieving, Accessing, Retaining and Disposing of Records in the System:

Storage:

Records are maintained in automated form (e.g., disc packs and magnetic tapes).

Retrievability:

Records are retrieved by name, SSN, and voucher number.

Safeguards:

1. Only authorized users have access to these records: Employees and officials directly responsible for programmatic or fiscal activity, including administrative and staff personnel, financial management personnel, computer personnel, and managers who have responsibilities for implementing SSA programs.

2. Physical Safeguards: File folders, reports and other forms of personnel data, and electronic diskettes are stored in areas where fire codes are strictly enforced. All documents and diskettes are protected during lunch hours and non-working hours in locked file cabinets or locked storage areas. Magnetic tapes, disks, etc., and computer matching tapes are locked in a computer room and tape vault.

3. Procedural Safeguards: Password protection of automated records is provided. All authorized users protect information from public view and from unauthorized personnel entering an office. The safeguards are now maintained in accordance with SSA's Systems Security guides.

Access http://www.socialsecurity.gov/foia/bluebook/app_g.htm for additional information relating to SSA data security measures.

Retention and disposal:

Records are purged from automated files once the accounting purpose has been served. Printed copies and manual documents are retained and disposed of in accord with General Accounting Office principles and standards, as authorized by the National Archives and Records Administration.

System manager(s) and address(es):

Deputy Commissioner for Finance, Assessment and Management, 800 Altmeyer Building, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also clearly specify the record contents being sought, and may include an accounting of disclosures that have been made of their records, if any. These procedures are in accordance with SSA Regulations (20 CFR 401.40(c)).

Contesting record procedures:

Same as Notification procedures. Also, requesters should reasonably identify the record, specify the information they are contesting and the corrective action sought, and the reasons for requesting the correction, with supporting justification showing how the record is inaccurate, incomplete, untimely or irrelevant. These procedures are in accordance with SSA Regulations (20 CFR 401.65(a)).

Record source categories:

Individual travel vouchers, grants, contract and purchase order award documents; delinquent grant records, invoices of services rendered; and/or goods received, and applications for travel and/or salary advances.

Systems exempted from certain provisions of the Privacy Act:

None.

SYSTEM NUMBER: 60-0232

System name:

Central Registry of Individuals Doing Business With SSA (Vendor File), Social Security Administration, Deputy Commissioner for Finance, Assessment and Management, Office of Financial Policy Operations.

Security classification:

None.

System Location:

Social Security Administration, Room 2-B-4 East Low Rise Building, 6401 Security Boulevard, Baltimore, Maryland 21235.

Categories of individuals covered by the system:

Individuals who are the recipients of Federal Domestic Assistance Grants or of contracts awarded by the Social Security Administration (SSA).

Categories of records in the system:

An index of names, addresses and Social Security numbers (SSN) of individuals or tax identification numbers (TIN) or employer identification numbers (EIN) of employer business entities doing business with SSA. The Central Registry (Vendor File) (VF) contains banking information, routing and transit numbers (RTAS) and deposit account numbers (DAN) for direct deposit payments for vendors. No other personally identifiable data are maintained. The index is termed public information since data relative to Federal Domestic Assistance and contracts are public information.

Authority for maintenance of the system:

5 U.S.C. 301.

Purpose(s):

This registry is maintained to provide a standard code to uniquely identify entities, including individuals, together with mailing address and other characteristic data, to all principal operating components, agencies, regional offices and staff offices of SSA. The use of a single code per entity in all SSA data systems enhances communications with an entity, as well as diminishing the need to maintain duplicative data and files at various locations. Major categories of entities in the central registry are those awarded contracts and grants under Federal Domestic Assistance programs. Only those persons in SSA with a “need to know” have access to the published registry and to the automated records. The Code Book provides a listing of data processing numbers for grant, contract and financial transactions. These numbers are used to access the name and address of the individual in the Automated Library (Central Registry). The information is used for check preparation, reports, mailings, etc.

Routine uses of records maintained in the system, including categories of users and the purposes of such uses:

Disclosure may be made for routine uses as indicated below:

1. To a congressional office in response to an inquiry from that office made at the request of the subject individual.

2. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) agreed to represent the employee; or

(d) The United States or any agency thereof where SSA determines that the litigation is likely to affect SSA or any of its components, is a party to the litigation or has an interest in such litigation, and SSA determines that the use of such records by DOJ, a court or other tribunal, or another party before such tribunal, is relevant and necessary to the litigation and would help in the effective representation of the governmental party, provided however, that in each case, SSA determines that such disclosure is compatible with the purpose for which the records were collected.

3. To the Department of Justice in the event the Social Security Administration deems it desirable or necessary, in determining whether particular records are required to be disclosed under the Freedom of Information Act for the purpose of obtaining its advice.

4. To a Federal, State or local agency maintaining civil, criminal or other relevant enforcement records or other pertinent records, such as current licenses, if necessary to obtain a record relevant to an Agency decision concerning the hiring or retention of an employee, the issuance of a security clearance, the letting of a contract, or the issuance of a license, grant or other benefit.

5. To a Federal agency, in response to its request, in connection with the hiring or retention of an employee, the issuance of a security clearance, the reporting of an investigation of an employee, the letting of a contract, or the issuance of a license, grant, or other benefit by the requesting agency, to the extent that the record is relevant and necessary to the requesting agency's decision on the matter.

6. To a Federal agency having the power to subpoena records, for example, the Internal Revenue Service or the Civil Rights Commission in response to a subpoena for information contained in this system of records.

7. To officials of labor organizations recognized under 5 U.S.C. Chapter 71 when relevant and necessary to their duties of exclusive representation concerning personnel policies, practices, and matters affecting conditions of employment.

8. To student volunteers, individuals working under a personal services contract, and other workers who technically do not have the status of Federal employees, when they are performing work for the Social Security Administration (SSA), as authorized by law, and they need access to personally identifiable information in SSA records in order to perform their assigned Agency functions.

9. To the General Services Administration and the National Archives Records Administration (NARA) under 44 U.S.C. 2904 and 2906, as amended by the NARA Act of 1984, information which is not restricted from disclosure by Federal law for the use of those agencies in conducting records management studies.

10. To contractors and other Federal agencies, as necessary, for the purpose of assisting the Social Security Administration (SSA) in the efficient administration of its programs. We will disclose information under this routine use only in situations in which SSA may enter into a contractual or similar agreement with a third party to assist in accomplishing an agency function relating to this system of records.

Policies and practices for storing, retrieving, accessing, retaining, and disposing of records in the system:

Storage:

Records are maintained in automated form (e.g., disc packs and magnetic tapes) and in paper form (e.g., Hard copy code booklets) at central computer sites.

Retrievability:

Records are retrieved by either name, SSN or other characteristic data.

Safeguards:

Only specified employees have access to the vendor file database. A security profile is maintained in the computer system to limit and monitor access. Authorized employees must have a personal identification number (PIN) and password to access the system and clearance for the proper security profile to access the vendor file. Certain functions, such as “Delete” or “Purge,” cannot be performed unless the vendor file systems administrator implements the function. Access http://www.socialsecurity.gov/foia/bluebook/app_g.htm for additional information relating to SSA data security measures.

Retention and disposal:

Records are purged from the automated file every two years; only persons actively dealing with SSA remain on file. Code Books are replaced each year. Inactive books are destroyed.

System manager(s) and address(es):

Social Security Administration, Office of Finance, Division of Administrative Payments, Social Security Administration, 2-B-4 East Low Rise Building, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call.

SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Also, requesters should reasonably identify the record, specify the information they are contesting and corrective action sought, and the reasons for the correction, with supporting justification showing how the record is incomplete, inaccurate, untimely or irrelevant. These procedures are in accordance with SSA Regulations (20 CFR 401.65(a)).

Record source categories:

Grant and Contract documents. Names, SSNs, TINs, RTAS, DANs and addresses are provided by the individual when applying for a grant or contract from the SSA.

Systems exempted from certain provisions of the Privacy Act:

None.

SYSTEM NUMBER: 60-0234

System name:

Employee Assistance Program (EAP) Records, Social Security Administration, Deputy Commissioner for Human Resources, Office of Personnel, Center for Employee Services.

Security classification:

None.

System Location:

Social Security Administration, Office of Human Resources, Office of Personnel, Center for Employee Services, Employee Assistance Program, 6401 Security Boulevard, Baltimore, Maryland 21235.

Social Security Administration (SSA) Regional Offices, Human Resources Center (contact the system manager or access http://www.socialsecurity.gov/foia/bluebook/app_g.htm for address information).

Categories of individuals covered by the system:

This system covers SSA employees, employees of other organizations serviced by SSA Employee Assistant Program (EAP), or family members of any of these employees who have been counseled and/or referred for counseling for personal problems by the EAP.

Categories of Records in the system:

The system contains records of each employee and family member who has utilized the EAP for a personal problem. Examples of information that may be found in each record are employee or family member name, date of birth, grade, job title, home address, telephone numbers, and supervisor's name and telephone number. In addition to the demographic data, certain clinical information is normally maintained in each record including a psychosocial history, assessment of personal problems, information regarding referrals to treatment facilities in the community, and intervention outcomes. Also, information relating to finances that the employee voluntarily provides; disposition, including employees stated intentions; record of letters or tax forms sent as replies; letters from creditors or their representatives and copies of our replies and copies of tax levies against employees. Finally, if an employee is referred to the EAP by a supervisor, the record may contain information regarding the referral such as leave record, reasons for referral, and outcomes of supervisory interventions.

Authority for maintenance of the system:

5 U.S.C. 7361, 7362, 7901, and 7904.

Purpose(s):

These records are used to document the nature and extent of the employee's or family member's personal problem and the background information necessary for formulating an intervention plan in an effort to resolve the personal problem and return the employee to full productivity. The record is also used to document, when appropriate, where the employee or family member has been referred for treatment or rehabilitation and the progress in such treatment.

Anonymous information from these records is also needed for the purpose of preparing statistical reports and analytical studies in support of the EAP's management.

Routine uses of records maintained in the system, including categories of users and the purposes of such uses:

Disclosure may be made for routine uses as indicated below.

1. To contractors if the Social Security Administration contracts with private firms, individuals, or other groups such as a Federal Employee Assistance Program (EAP) consortium for the purpose of providing the EAP functions. The contractor shall be required to maintain Privacy Act safeguards with respect to such records. The contractors will surrender to the EAP all of these records as well as any new records at the time of contract termination.

2. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to the litigation or has an interest in such litigation, and SSA determines that the use of such records by DOJ, a court or other tribunal, or another party before such tribunal, is relevant and necessary to the litigation, provided, however, that in each case, SSA determines that such disclosure is compatible with the purpose for which the records were collected.

3. To a congressional office in response to any inquiry from that office made at the request of the subject of the record.

4. To a court or other tribunal, or a party before the same, where the records are covered by the Confidentiality of Alcohol and Drug Abuse Patient Records regulations (42 CFR part 2). Any disclosure of such patient records must be pursuant to a qualified service organization agreement that meets the requirements of 42 CFR part 2 and must also comply with all other aspects of these regulations. The Employee Assistance Program Administrators in each program location must personally approve any disclosure made under this routine use based on his or her determination that it is compatible with the purpose for which the records were collected.

5. To student volunteers, individuals working under a personal services contract, and other workers who technically do not have the status of Federal employees, when they are performing work for the Social Security Administration (SSA), as authorized by law, and they need access to personally identifiable information in SSA records in order to perform their assigned Agency functions.

6. To the General Services Administration and the National Archives Records Administration (NARA) under 44 U.S.C. 2904 and 2906, as amended by the NARA Act of 1984, information which is not restricted from disclosure by Federal law for the use of those agencies in conducting records management studies.

Policies and practices for storing, retrieving, accessing, retaining, and disposing of records in the system:

Storage:

Records are maintained in automated form (e.g., computer readable media, hard drives, floppy disks, and Compact Disc-Read Only Memory (CD-ROM)) and in paper form (e.g., folders, index cards).

Retrievability:

Records are retrieved by a case code number. These numbers are cross-indexed by name of employee or family member.

Safeguards:

1. Authorized Users: Access to these records is limited to the EAP Administrators who work directly with employees and family members in each program location and their immediate staffs (including staff counselors, staff secretaries, contract or consortia counselors and secretaries). All EAP Administrators, whether or not they directly provide clinical services, may access the records for the purposes of program evaluation, destroying records at the end of their period of maintenance, and transferring records from one contractor to another.

2. Physical Safeguards: All records are stored in a metal filing cabinet equipped with at least a combination lock, and preferably a locking bar. This file cabinet is in a secured area, accessible only to the EAP staff, and is locked when not in use. Computer readable information is maintained in discrete systems and/or is password protected. Computers are also stored in secured areas, accessible to only the EAP staff. These records are always maintained separate from any other system of records.

3. Procedural Safeguards: All persons having access to the records shall have previous training in the proper handling of records covered by the Privacy Act and 42 CFR part 2 (Confidentiality of Alcohol and Drug Abuse Patient Records). These restrict disclosures to unique situations, such as medical emergencies, except when the employee or family member has consented in writing. Furthermore, employees and family members who utilize the EAP will be informed in writing of the confidentiality provisions; and secondary disclosure of information is prohibited without employee consent.

Access http://www.socialsecurity.gov/foia/bluebook/app_g.htm for additional information relating to SSA data security measures.

Retention and disposal:

Records are retained until three years after the employee or family member has ceased contact with the EAP or until any litigation is resolved. However, if an employee has been terminated from SSA employment, records are retained for at least three years after the official date of termination and until any litigation is resolved. Files are then destroyed.

System manager(s) and address(es):

Social Security Administration, Director, Center for Employee Services, Office of Personnel, Office of Human Resources, 6401 Security Boulevard, Baltimore, Maryland 21235.

Notification procedures:

Upon receiving a request, the EAP Administrator shall weigh the need for disclosure against the potential injury to the patient, to the physician-patient relationship, and to the treatment services. The EAP Administrator will then determine the extent to which any disclosure of all or any part of the record is necessary (42 CFR part 2 does not compel disclosure).

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Information in this system of records is: (1) Supplied directly by the individual, or (2) supplied by a member of the employee's family, or (3) derived from information supplied by the individual, or (4) supplied by sources to whom the employee and/or family member has been referred for assistance, or (5) supplied by SSA officials, or (6) supplied by EAP counselors.

Systems exempted from certain provisions of the Privacy Act:

None.

SYSTEM NUMBER: 60-0236

System name:

Employee Development Program Records, Social Security Administration, Deputy Commissioner for Human Resources (DCHR), Office of Training (OT).

Security classification:

None.

System Location:

Social Security Administration, Office of Training, Offices of the Deputy Commissioners, Deputy-level offices and/or Regional Commissioners' offices.

Categories of individuals covered by the system:

Applicants and participants in all Social Security Administration (SSA) developmental programs at the specific grades covered by the programs.

Categories of in the system:

This system consists of a variety of records relating to an employee's application for, and participation in, the Executive Development Program. In addition to the employee's name, the system contains the employee's title, grade and salary, Social Security number (SSN), organization in which employed, date of entry into the Executive Development Program, training needs while participating in the program, individual development plan and basis for participation in the Employee Development Program.

Authority for maintenance of the system:

5 U.S.C. 3396, et seq.

Purpose(s):

These records are used to document employee's application for, and participation in, the Executive Development Program. They may be used as a basis for promotion, transfer, or reassignment. They may be used as a basis for preparing management, budgetary or statistical reports to support organizational planning or manpower utilization studies.

Routine uses of records maintained in the system, including categories of users and the purposes of such uses:

Disclosure may be made for routine uses as indicated below:

1. To Federal, State and local law enforcement agencies in the event that this system of records indicates a violation or potential violation of law, whether civil, criminal or regulatory in nature.

2. To another Federal agency in connection with the hiring or retention of an employee, the issuance of a security clearance, the reporting of an investigation of an employee, the letting of a contract, or the issuance of a license, grant, or other benefit by the requesting agency, to the extent that the record is relevant and necessary to the requesting agency's decision on the matter.

3. To a Federal agency having the power to subpoena records, for example, the Internal Revenue Service or the Civil Rights Commission, in response to a subpoena for information contained in this system of records.

4. To officials of labor organizations recognized under 5 U.S.C. Chapter 71 when relevant and necessary to their duties of exclusive representation concerning personnel policies, practices, and matters affecting conditions of employment.

5. To contractors when the Social Security Administration contracts with a private firm for the purpose of collating, analyzing, aggregating or otherwise refining records in this system. The contractor shall be required to maintain Privacy Act safeguards with respect to such records.

6. To the Office of Personnel Management, the Merit Systems Protection Board, or the Office of the Special Counsel, when information is requested in connection with appeals, special studies of the civil service and other merit systems, review of those agencies' rules and regulations, investigation of alleged or possible prohibited personnel practices, and for such other functions of these agencies as may be authorized by law, e.g., 5 U.S.C. 1205 and 1206.

7. To the Equal Employment Opportunity Commission when requested in connection with investigations into alleged or possible discriminatory practices in the Federal sector, examination of Federal affirmative employment programs, compliance by Federal agencies with the Uniform Guidelines on Employee Selection Procedures, or other functions vested in the Commission.

8. To the Federal Labor Relations Authority, its General Counsel, the Federation Mediation and Conciliation Service, the Federal Service Impasses Panel, or an arbitrator when information is requested in connection with investigations of allegation of unfair practices, matters before an arbitrator or the Federal Service Impasses Panel.

9. To a congressional office from the record of an individual in response to an inquiry from congressional office made at the request of that individual.

10. To the Department of Justice (DOJ), a court or other tribunal, or to another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to the litigation or has an interest in such litigation, and SSA determines that the use of such records by DOJ, a court or other tribunal, or another party before such tribunal, is relevant and necessary to the litigation, provided, however, that in each case, SSA determines that such disclosure is compatible with the purpose for which the records were collected.

11. To student volunteers, individuals working under a personal services contract, and other workers who technically do not have the status of Federal employees, when they are performing work for the Social Security Administration (SSA), as authorized by law, and they need access to personally identifiable information in SSA records in order to perform their assigned Agency functions.

12. To the General Services Administration and the National Archives Records Administration (NARA) under 44 U.S.C. 2904 and 2906, as amended by the NARA Act of 1984, information which is not restricted from disclosure by Federal law for the use of those agencies in conducting records management studies.

Policies and practices for storing, retrieving, accessing, retaining, and disposing of records in this system:

Storage:

Records are maintained in automated form (e.g., magnetic tapes, hard drives, floppy disks, Compact Disk-Read Only Memory (CD-ROM)) and in paper form (e.g., file folders, punch cards, forms).

Retrievability:

Records are retrieved by name and SSN.

Safeguards:

Access to, and use of, these records is limited to those persons whose official duties require such access. A personnel screening is employed to prevent unauthorized disclosure. Access http://www.socialsecurity.gov/foia/bluebook/app_g.htm for additional information relating to SSA data security measures.

Retention and disposal:

Records of an unsuccessful applicant are retained for 60 days after notification that he or she was not selected for participation, and are then destroyed. Records of a participant are retained for 5 years after the individual has ceased to participate in the program, and are then destroyed.

System manager(s) and address(es):

In the field, Applicable Personnel Officers who service the organization unit in which the individual is employed. In Headquarters, DCHR. Office of Personnel, Director, 6401 Security Boulevard, Baltimore, Maryland 21235. For all training related material: DCHR/OT, 6401 Security Boulevard, Baltimore, Maryland 21235.

Notification procedures:

An individual can determine if this system contains a record about him/her by writing to the system manager(s) at the above address and providing his/her name, SSN, or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Information in this system of records is: (1) Supplied directly by the individual, or (2) derived from information supplied by the individual, or (3) supplied by SSA officials.

Systems exempted from certain provisions of the Privacy Act:

None.

SYSTEM NUMBER: 60-0237

System name:

Employees' Medical Records, Social Security Administration, Deputy Commissioner for Human Resources, Office of Personnel, Center for Employee Services.

Security classification:

None.

System Location:

These records are maintained on current Social Security Administration (SSA) employees receiving health services at the SSA Health Units at the following addresses:

Social Security Administration, Headquarters, 6401 Security Boulevard, Baltimore, Maryland 21235.

Social Security Administration, Northeastern Program Service Center, 1 Jamaica Center Plaza, 155-10 Jamaica Avenue, Jamaica, New York 11432-3830.

Social Security Administration, Mid-Atlantic Program Service Center, 300 Spring Garden Street, Philadelphia, Pennsylvania 19123.

Social Security Administration, Wilkes-Barre Data Operations Center, 1150 East Mountain Drive, Wilkes-Barre, Pennsylvania 18702-7997.

Social Security Administration, Southeastern Program Service Center, 3001 Twelfth Avenue, North, Birmingham, Alabama 35285.

Social Security Administration, Western Program Service Center, Frank Hagel Federal Building, 1221 Nevin Avenue, Richmond, California 94802.

Other SSA employees receive health services through Interagency Agreements with the Public Health Service.

Addresses of Interagency Agreement Health Units

HEADQUARTERS

Social Security Administration, Metro West Building, Suite 200, South Building, 300 North Greene Street, Baltimore, Maryland 21203.

Social Security Administration, National Computer Center Building, Room G-09, 6301 Security Boulevard, Baltimore, Maryland 21235.

Social Security Administration, Security West Building, Room 1-R-15, 1500 Woodlawn Drive, Baltimore, Maryland 21241.

WOC Building, Suite 1209, 1718 Woodlawn Drive, Baltimore, Maryland 21207.

FIELD ADDRESSES

In the Boston Region (Connecticut, Maine, Massachusetts, New Hampshire, Rhode Island, Vermont):

• John F. Kennedy Building, Government Center, Health Unit, Boston, MA 02203.

• Thomas P. O'Neill Federal Building, Health Unit, 10 Causeway Street, Boston, MA 02222.

In the New York Region (New Jersey, New York, Puerto Rico, Virgin Islands)

Jacob Javitz Federal Building, Health Unit, 26 Federal Plaza, New York, N.Y. 10278.

In the Philadelphia Region (Delaware, District of Columbia, Maryland, Pennsylvania, Virginia, West Virginia):

• William J. Green, Jr. Federal Building, Health Unit, 600 Arch Street, Philadelphia, PA 19106-1611.

• Federal Employee and Service Center, National Underground Storage, 27S-221, Health Unit, Boyers, PA 16020-0221.

• Housing and Urban Development Building, Health Unit, 451 7th Street, SW., Washington, DC 20410-0001.

In the Atlanta Region (Alabama, North Carolina, South Carolina, Florida, Georgia, Kentucky, Mississippi, Tennessee):

Sam Nunn Federal Building, Health Unit, 61 Forsyth Street, SW., Atlanta, GA 30303.

In the Chicago Region (Illinois, Indiana, Michigan, Minnesota, Ohio, Wisconsin):

• John C. Kluczynski Federal Building, Health Unit, 230 S. Dearborn Street, Chicago, IL 60604.

• Harold Washington Social Security Center, Health Unit, 600 West Madison Street, Chicago, IL 60661.

In the Kansas City Region (Iowa, Kansas, Missouri, Nebraska):

Richard Bolling Federal Building, Health Unit, 601 E. 12th Street, Kansas City, MO 64106.

In the Dallas Region (Arkansas, Louisiana, New Mexico, Oklahoma, Texas):

• Health Unit, 1301 Young Street, Dallas, TX 75202.

• Albuquerque Teleservice Center, Health Unit, 500 Lead, SW., Albuquerque, NM 87102.

In the Denver Region (Colorado, Montana, North Dakota, South Dakota, Utah, Wyoming):

Federal Building and U.S. Courthouse, Health Unit, 1961 Stout Street, Denver, CO 80294.

In the San Francisco Region (American Samoa, Arizona, California, Guam, Hawaii, Nevada, Northern Marianna Islands):

Federal Building, Health Unit, Room 443, 50 United Nations Plaza, San Francisco, CA 94102.

In the Seattle Region (Alaska, Idaho, Oregon, Washington):

• Auburn Teleservice Center, Health Unit, 2801 C Street, SW., Auburn, WA 98001-7401.

• Bank of America Tower, Health Unit, 701 5th Avenue, Seattle, WA 98104-7075.

Categories of individuals covered by the system:

Individuals who have received health services from any of the SSA Health Units.

Categories of records in the system:

This system consists of a variety of records relating to an individual's utilization of services provided by SSA Health Units. Examples of information which may be included in this system are, history of non-work related injuries, illness or complaint presented to Health Unit staff, immunization records, medication administered by Health Unit staff, referrals to other health care providers.

Authority for maintenance of the system:

5 U.S.C. 7901; OMB Circular No. A-72.

Purpose(s):

These records document utilization of health services provided by SSA Health Units.

Routine uses of records maintained in the system, including categories of users and the purposes of such uses:

Disclosure may be made for routine uses as indicated below:

1. To the appropriate Federal, State, or local agency responsible for investigation of an accident, disease, medical condition, or injury as required by pertinent legal authority.

2. To the Office of Worker's Compensation Programs in connection with a claim for benefits filed by an employee.

3. To a congressional office from the record of an individual in response to an inquiry from the congressional office made at the request of that individual.

4. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to the litigation or has an interest in such litigation, and SSA determines that the use of such records by DOJ, a court or other tribunal, or another party before the tribunal, is relevant and necessary to the litigation, provided, however, that in each case, SSA determines that such disclosure is compatible with the purpose for which the records were collected.

5. To student volunteers, individuals working under a personal services contract, and other workers who technically do not have the status of Federal employees, when they are performing work for the Social Security Administration (SSA), as authorized by law, and they need access to personally identifiable information in SSA records in order to perform their assigned Agency functions.

6. To the General Services Administration and the National Archives Records Administration (NARA) under 44 U.S.C. 2904 and 2906, as amended by the NARA Act of 1984, information which is not restricted from disclosure by Federal law for the use of those agencies in conducting records management studies.

7. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

These records are maintained as hard copy records.

Retrievability:

Records are retrievable by name, date of birth, or Social Security Number (SSN) of the individual to whom they pertain.

Safeguards:

During the employment of the individual, medical records are maintained in files separate from the Official Personnel Folder and are located in lockable metal cabinets and/or in secured rooms with access limited to those whose official duties require access. Access http://www.socialsecurity.gov/foia/bluebook/app_g.htm for additional information relating to SSA data security measures.

Retention and disposal:

Records are maintained up to six years from the date of the last entry. The records are shredded and appropriately disposed of approximately three months after separation.

System manager(s) and address(es):

Social Security Administration, SSA Medical Director, Office of Human Resources, Center for Employee Services, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

An individual requesting access to records should submit his/her request in writing to the system manager or designated custodian of the records. An individual requesting access via mail or telephone also must furnish an address. Any individual requesting access must also follow the Office of Personnel Management's Privacy Act regulations regarding verification of identity and access to records (5 CFR part 297). These procedures are in accordance with SSA Regulations (20 CFR 401.40(c) and 401.55(b)).

Note: At the Headquarter's SSA Health Units, the individual will be asked to complete Form SSA-3465, Consent for Release of Personal Information. In other SSA Health Units the SSA-3465 or equivalent will be required.

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Information in this system of records is obtained from, the individual to whom the information pertains, laboratory reports and test results, SSA Health Unit medical officer, physicians, nurses and other medical technicians who have examined, tested, or treated the individual, the individual's personal physician and other Federal employee health units.

Systems exempted from certain provisions of the Privacy Act:

None.

SYSTEM NUMBER: 60-0238

System name:

Pay, Leave and Attendance Records, Social Security Administration, Deputy Commissioner for Human Resources, Office of Personnel.

Security classification:

None.

System Location:

For Time and Attendance: Deputy Commissioner for Human Resources, Office of Personnel, Director, Center for Personnel Management Information Systems and Payroll, 6401 Security Boulevard, Baltimore, Maryland 21235.

For Federal Personnel and Payroll Systems (FPPS): Director, Payroll Operations Division, Department of the Interior, National Business Center, 7301 W. Mansfield Avenue, Denver, Colorado 80235-2230.

Categories of individuals covered by the system:

All paid employees of the Social Security Administration (SSA).

Categories of records in the system:

This system consists of a variety of records relating to pay and leave determinations made about each employee of SSA. In addition to the name of the employee, the system includes information such as the employee's date of birth, Social Security number (SSN), home address, grade or rank, employing organization, timekeeper number, salary, civil service retirement fund contributions, pay plan, number of hours worked, annual and sick leave accrual rate and usage, administrative leave usage, annual and sick leave balance, deductions for Medicare and/or FICA, Federal, State and city tax withholdings, Federal Employees Governmental Life Insurance withholdings, Federal Employees Health Benefits withholdings, awards, commercial garnishments, child support and/or alimony wage assignments, savings allotments, union and management association dues withholdings allotments, savings bonds allotments; Combined Federal Campaign allotments; and Thrift Savings Plan contributions.

Authority for maintenance of the system:

5 U.S.C. Chapter 55, § 5501 et seq., Chapter 61, § 6101, et seq. and Chapter 63 § 6301 et seq.

Purpose(s):

Records in this system are used to insure that each employee receives the proper pay and allowances; that proper deductions and authorized allotments are made from employees' pay; and that employees are credited and charged with the proper amount of leave. Records are also used to produce summary descriptive statistics and analytical studies in support of the functions for which the records are collected and maintained and for related personnel management functions or pay studies, and for other purposes compatible with the intent for which the records system was created.

Routine uses of records maintained in the system, including categories of users and the purposes of such uses:

Disclosure may be made for routine uses as indicated below:

1. To the Internal Revenue Service and to State and local government tax agencies: Records relating to employees' income including name, home address, Social Security number, earned income, and amount of taxes withheld.

2. To Federal, State, Foreign and local law enforcement agencies in the event that this system of records indicates a violation or potential violation of law, whether civil, criminal or regulatory in nature.

3. To a Federal, State or local agency maintaining civil, criminal or other relevant enforcement records or other pertinent records, such as current licenses, if necessary to obtain a record relevant to an Agency decision concerning the hiring or retention of an employee, the issuance of a security clearance, the letting of a contract, or the issuance of a license, grant or other benefit.

4. To a Federal agency, in response to its request, in connection with the hiring or retention of an employee, the issuance of a security clearance, the reporting of an investigation of an employee, the letting of a contract, or the issuance of a license, grant, or other benefit by the requesting agency, to the extent that the record is relevant and necessary to the requesting agency's decision on the matter.

5. To a Federal agency having the power to subpoena records, for example, the Internal Revenue Service or the Civil Rights Commission, in response to a subpoena for information contained in this system of records.

6. To officials of labor organizations recognized under 5 U.S.C. Chapter 71 when relevant and necessary to their duties of exclusive representation concerning personnel policies, practices, and matters affecting conditions of employment.

7. To contractors or another Federal agency when the Social Security Administration contracts with a private firm or makes an arrangement with a Federal agency for the purpose of performing payroll related processing, in addition to collating, analyzing, aggregating or otherwise refining records in this system. The contractor shall be required to maintain Privacy Act safeguards with respect to such records.

8. To the Office of Personnel Management, the Merit Systems Protection Board, or the Office of the Special Counsel when information is requested in connection with appeals, special studies of the civil service and other merit systems, review of those agencies' rules and regulations, investigation of alleged or possible prohibited personnel practices, and for such other function of these agencies as may be authorized by law, e.g., 5 U.S.C. 1205 and 1206.

9. To the Equal Employment Opportunity Commission when requested in connection with investigations into alleged or possible discriminatory practices in the Federal sector, examination of Federal affirmative employment programs, compliance by Federal agencies with the Uniform Guidelines on Employee Selection Procedures, or other functions vested in the Commission.

10. To the Federal Labor Relations Authority, its General Counsel, the Federal Mediation and Conciliation Service, the Federal Service Impasses Panel, or an arbitrator when information is requested in connection with investigations of allegations of unfair practices, matters before an arbitrator or the Federal Service Impasses Panel.

11. To the Department of Labor in connection with a claim filed by the employee for compensation on account of a job-connected injury or disease.

12. To respond to court orders for garnishment of an employee's pay for alimony or child support or commercial debt.

13. To respond to orders from Internal Revenue Service for garnishment of an employee's pay for Federal income tax purposes.

14. To the Department of the Treasury for the purposes of preparing and issuing employee salary and compensation checks and United States Savings Bonds.

15. To State offices of unemployment compensation in connection with claims filed by current or former Social Security Administration employees for unemployment compensation.

16. To a congressional office in response to an inquiry from the congressional office made at the request of that individual.

17. To the Department of Justice (DOJ), a court or other tribunal, or another party before such tribunal, when

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to the litigation or has an interest in such litigation, and SSA determines that the use of such records by DOJ, a court or other tribunal, or another party before the tribunal is relevant and necessary to the litigation, provided, however, that in each case, SSA determines that such disclosure is compatible with the purpose for which the records were collected.

18. To financial organizations designated to receive labor organization or management association dues withheld from employees' pay, in order to account for the amounts of such withheld dues which they receive.

19. To a State or local agency for the purpose of conducting computer matching programs designed to reduce fraud, waste and abuse in Federal, State and local public assistance programs and operations.

20. To a Federal agency for the purpose of conducting computer matching programs designed to reduce fraud, waste and abuse using loan or benefit records of a Federal, State or local agency to identify employee's improperly receiving loans or benefits and to facilitate the collection of debts owed the United States.

21. To a Federal agency in response to a written request from that agency, personally signed by a supervisor, specifying the particular portion desired and the law enforcement activity for which the record is sought. The request for the record must be connected with the agency's auditing and investigative functions designed to reduce waste, fraud, and abuse. It must be based on information which raises questions about an individual's eligibility for benefits or payments, and it must be made reasonably soon after the information is received.

22. To the General Services Administration and the National Archives Records Administration (NARA) under 44 U.S.C. 2904 and 2906, as amended by the NARA Act of 1984, information which is not restricted from disclosure by Federal law for the use of those agencies in conducting records management studies.

23. To student volunteers, individuals working under a personal services contract, and other workers who technically do not have the status of Federal employees, when they are performing work for the Social Security Administration (SSA), as authorized by law, and they need access to personally identifiable information in SSA records in order to perform their assigned Agency functions.

24. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are maintained in manual, microfilm, microfiche, imaged and printout form in the Payroll Office. Currently, applicable records are stored on magnetic media at the National Computer Center, and electronically at the National Business Center (NBC), Department of the Interior (DOI) in Denver, Colorado. Historic records are stored on magnetic media and electronically at the computer center and at NBC, DOI. Original input documents are kept in standard office filing equipment and/or stored as imaged documents on magnetic media.

Retrievability:

Records are retrievable by name and SSN from NBC, DOI and by name, SSN and timekeeper number at SSA.

Safeguards:

Access to, and use of, these records is limited to personnel whose official duties require such access. Personnel screening is employed to prevent unauthorized disclosure. Access http://www.socialsecurity.gov/foia/bluebook/app_g.htm for additional information relating to SSA data security measures.

Retention and disposal:

Records submitted by the individual, such as allotment authorization forms, home address forms, and tax withholding forms, are retained until superseded by new forms or until the individual leaves SSA. Most of these records are then destroyed. Some of these records must be retained for an additional period, or forwarded to the new employing agency. Time and attendance records are retained for six years and are then destroyed. The automated payroll master record, established when the individual is first employed and continually updated throughout the period of his or her employment, is retained until the individual leaves SSA.

System manager(s) and address:

In both the field and Headquarters: Deputy Commissioner for Human Resources, Office of Personnel, Director, CPMISP, 6401 Security Blvd., Baltimore, MD 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. This procedure is in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. This procedure is in accordance with SSA Regulations (20 CFR 401.65(a)).

Record source categories:

Information in this system of records is (1) supplied directly by the individual, or (2) derived from information supplied by the individual, or (3) supplied by timekeepers and other SSA officials.

System exempted from certain provisions of the Privacy Act:

None.

SYSTEM NUMBER: 60-0239

System name:

Personnel Records in Operating Offices, Social Security Administration, Deputy Commissioner for Human Resources, Office of Personnel.

Security classification:

None.

System Location:

These records are located within the servicing personnel offices that service specific Social Security Administration (SSA) organizational components and/or at a site closer to where the employee works; e.g., in an administrative office or in an employee record extension file maintained by the immediate supervisor.

Note: In the case of some personnel records, SSA has determined that duplicates need to be located in a second office closer to where the employee works (e.g., in an administrative office or in an employee record extension file maintained by the immediate supervisor). Any of these personnel records that are derived from OPM/GOVT 1 also are covered by that system notice.

Categories of individuals covered by the system:

Current employees of SSA and former or current Federal employees submitting applications for employment with SSA.

Categories of records in the system:

This system consists of a variety of records relating to personnel actions and determinations made about an individual while employed. These records may contain information about an individual relating to name, birth date; emergency contact information; e.g., mailing address and telephone number; Social Security number (SSN); veterans preference; tenure; employment history; employment qualifications; past and present salaries, grades and position titles; training; awards and other recognition; approved suggestions; performance plan and rating of record; performance improvement plan; conduct; and data documenting reasons for personnel actions, decisions or recommendations made about an employee; and background data documentation leading to an adverse action or other personnel action being taken against an employee.

Authority for maintenance of the system:

5 U.S.C. 3101, Chapter 33, Chapter 41, Chapter 43, Chapter 45, Chapter 55 and Chapter 75.

Purpose(s):

These records are used by operating officials in carrying out their personnel management responsibilities. They may be used in recommending or taking personnel actions such as appointments, promotions, separations (e.g., retirements, resignations), reassignments, within-grade increases, adverse actions; as a basis for employee training, recognition, or disciplinary actions; and as a basis for staffing and budgetary planning and control, organizational planning, and manpower utilization purposes.

Routine uses of records maintained in the system, including categories of users and the purposes of such uses:

Disclosure may be made for routine uses as indicated below.

1. To the Office of Personnel Management, the Merit Systems Protection Board (MSPB), or the Office of the Special Counsel when information is requested in connection with appeals, special studies of the civil service and other merit systems, review of those agencies' rules and regulations, investigation of alleged or possible prohibited personnel practices, and for such other function of these agencies as may be authorized by law, e.g., 5 U.S.C. 1205 and 1206.

2. To the Equal Employment Opportunity Commission when requested in connection with investigations into alleged or possible discriminatory practices in the Federal sector, examination of Federal affirmative employment programs, compliance by Federal agencies with the Uniform Guidelines on Employee Selection Procedures, or other functions vested in the Commission.

3. To the Federal Labor Relations Authority, its General Counsel, the Federal Mediation and Conciliation Service, the Federal Service Impasses Panel, or an arbitrator when information is requested in connection with investigations of allegations of unfair practices, matters before an arbitrator or the Federal Service Impasses Panel.

4. To the appropriate agency in the event an appeal is made outside Social Security Administration records, which are relevant when that agency is charged with rendering a decision on the appeal.

5. To Federal, State and local law enforcement agencies in the event that this system of records indicates a violation or potential violation of law, whether civil, criminal or regulatory in nature.

6. To the Department of Justice for the purpose of obtaining its advice in the event the Social Security Administration deems it desirable or necessary, in determining whether particular records are required to be disclosed under the Freedom of Information Act.

7. To a Federal, State or local agency maintaining civil, criminal or other relevant enforcement records or other pertinent records, such as current licenses, if necessary to obtain a record relevant to an Agency decision concerning the hiring or retention of an employee, the issuance of a security clearance, the letting of a contract, or the issuance of a license, grant or other benefit.

8. To a Federal agency, in response to its request, in connection with the hiring or retention of an employee, the issuance of a security clearance, the reporting of an investigation of an employee, the letting of a contract, or the issuance of a license, grant or other benefit by the requesting agency, to the extent that the record is relevant and necessary to the requesting agency's decision on the matter.

9. To a Federal agency having the power to subpoena records, for example, the Internal Revenue Service or the Civil Rights Commission, in response to a subpoena for information contained in this system of records.

10. To officials of labor organizations recognized under 5 U.S.C. Chapter 71 when relevant and necessary to their duties of exclusive representation concerning personnel policies, practices, and matters affecting conditions of employment.

11. To contractors for the purpose of collating, analyzing, aggregating or otherwise refining records in this system. The contractor shall be required to maintain Privacy Act safeguards with respect to such records.

12. To a congressional office from the record of an individual in response to an inquiry from the congressional office made at the request of that individual.

13. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records of DOJ, a court or other tribunal, or another party before such tribunal, is relevant and necessary to the litigation, provided, however, that in each case, SSA determines that such disclosure is compatible with the purpose for which the records were collected.

14. To student volunteers, individuals working under a personal services contract, and other workers who technically do not have the status of Federal employees, when they are performing work for the Social Security Administration (SSA), as authorized by law, and they need access to personally identifiable information in SSA records in order to perform their assigned Agency functions.

15. To the General Services Administration and the National Archives Records Administration (NARA) under 44 U.S.C. 2904 and 2906, as amended by the NARA Act of 1984, information which is not restricted from disclosure by Federal law for the use of those agencies in conducting records management studies.

16. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are maintained in automated form (e.g., hard drives, floppy disks, CD-ROM, magnetic tapes) and in paper form (e.g., file folders, index cards).

Retrievability:

Records are retrieved by any combination of name, SSN, or identification number.

Retention and disposal:

Records in this system are retained for varying lengths of time, ranging from a few months to 5 years. Most records are retained for a period of 1 to 2 years. Some records, such as individual applications, become part of the person's permanent official records when hired, while some records are destroyed 45 days after the individual leaves the jurisdiction of the operating office or, if appropriate, are combined with the Official Personnel Folder (OPF), which is forwarded to the hiring Federal agency or, if the employee is leaving Federal service, to the National Personnel Records Center. Some records are destroyed by shredding or burning while magnetic tapes or disks are erased.

System manager(s) and address(es):

For paper files

In Headquarters: Director, Center for Personnel Policy and Staffing, Office of Personnel, 6401 Security Boulevard, Baltimore, Maryland 21235.

In the Field: Director, Center for Human Resources, Office of the Regional Commissioners:

In the Boston Region (Connecticut, Maine, Massachusetts, New Hampshire, Rhode Island, Vermont):

Social Security Administration, Boston Regional Office, J.F.K. Federal Building, Room 1900, Boston, Massachusetts 02203.

In the New York Region (New Jersey, New York, Puerto Rico, Virgin Islands):

Social Security Administration, New York Regional Office, Room 40-102, 26 Federal Plaza, New York, New York 10278.

In the Philadelphia Region (Delaware, District of Columbia, Maryland, Pennsylvania, Virginia, West Virginia):

Social Security Administration, Philadelphia Regional Office, 300 Spring Garden Street, Philadelphia, Pennsylvania 19123.

In the Atlanta Region (Alabama, North Carolina, South Carolina, Florida, Georgia, Kentucky, Mississippi, Tennessee):

Social Security Administration, Atlanta Regional Office, 61 Forsyth Street, S.W., Suite 22T64, Atlanta, Georgia 30303-8907.

In the Chicago Region (Illinois, Indiana, Michigan, Minnesota, Ohio, Wisconsin):

• Social Security Administration, Chicago Regional Office, Harold Washington Social Security Center, P.O. Box 8280, 10th Floor, Chicago, Illinois 60680-8280.

• Social Security Administration, Office of Central Operations, Center for Management Support, 1500 Woodlawn Drive, Room 7030 Security West Tower, Baltimore, Maryland 21241-1500.

In the Dallas Region (Arkansas, Louisiana, New Mexico, Oklahoma, Texas):

Social Security Administration, Dallas Regional Office, 1301 Young Street, Suite 500, Dallas, Texas 75202-5433.

In the Kansas City Region (Iowa, Kansas, Missouri, Nebraska):

Social Security Administration, Kansas City Regional Office, Richard Bolling Federal Building, Room 436, 601 East 12th Street, Kansas City, Missouri 64106.

In the Denver Region (Colorado, Montana, North Dakota, South Dakota, Utah, Wyoming):

Social Security Administration, Denver Regional Office, Federal Office Building, 1961 Stout Street, Room 325, Denver, Colorado 80294.

In the San Francisco Region (American Samoa, Arizona, California, Guam, Hawaii, Nevada, Northern Marianna Islands):

Social Security Administration, San Francisco Regional Office, Frank Hagel Federal Building, P.O. Box 4200, Richmond, California 94801.

In the Seattle Region (Alaska, Idaho, Oregon, Washington):

Social Security Administration, Seattle Regional Office, 701 Fifth Avenue, Suite 2900, M/S 301, Seattle, Washington 98104-7075.

For magnetic media files: Director, Center for Personnel Management Information Systems and Payroll, Office of Personnel, Social Security Administration, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. This procedure is in accordance with SSA Regulations (20 CFR 401.65(a)).

Record source categories:

Information in this system of records either comes from the individual to whom it applies, is derived from information supplied by the individual, or is provided by SSA officials.

Systems exempted from certain provisions of the Privacy Act:

None.

Note: When supervisors/managers retain personal “supervisory” notes (i.e., information on employees that the Agency exercises no control and does not require or specifically describe in its performance appraisal system, which remain solely for the personal use of the author and are not provided to any other person, and which are retained or discarded at the author's sole discretion), such notes are not subject to the Privacy Act and are, therefore, not considered part of this system. If any of the above conditions are violated, these notes are no longer merely personal notes serving as an aid to the supervisor's memory, but become records subject to the Privacy Act.

SYSTEM NUMBER: 60-0241

System name:

Employee Suggestion Program Records, Social Security Administration, Deputy Commissioner for Human Resources, Office of Personnel, Center for Employee Services.

Security classification:

None.

System Location:

Social Security Administration, Office of Human Resources, Office of Personnel, Center for Employee Services, Central Suggestion Team, 6401 Security Boulevard, Baltimore, Maryland 21235.

Categories of individuals covered by the system:

Individuals who have made suggestions in the Social Security Administration (SSA); and/or suggestions made by individuals in other Federal agencies requiring an SSA evaluation.

Categories of records in the system:

Suggestions, evaluations of suggestions, name and address of individual submitting suggestions and evaluating the suggestions, other identifying information such as pay plan and grade, position title, Social Security number (SSN), timekeeper number and telephone number.

Authority for maintenance of the system:

5 U.S.C. 4501 et seq.

Purpose(s):

Records in this system are used to control, evaluate, and make award determinations on employee suggestions. The Central Suggestion Team maintains these records in SSA's Office of Personnel.

Routine uses of records maintained in the system, including categories of users and the purposes of such uses:

Disclosure may be made for routine uses as indicated below:

1. To the Office of Personnel Management information related to a suggestion award when approval from that office is needed in order to grant an award.

2. To a congressional office in response to an inquiry from that office made at the request of the subject of a record.

3. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to the litigation or has an interest in such litigation, and SSA determines that the use of such records by DOJ, a court or other tribunal, or another party before the tribunal, is relevant and necessary to the litigation, provided, however, that in each case, SSA determines that such disclosure is compatible with the purpose for which the records were collected.

1. To student volunteers, individuals working under a personal services contract, and other workers who technically do not have the status of Federal employees, when they are performing work for the Social Security Administration (SSA), as authorized by law, and they need access to personally identifiable information in SSA records in order to perform their assigned Agency functions.

2. To the General Services Administration and the National Archives Records Administration (NARA) under 44 U.S.C. 2904 and 2906, as amended by the NARA Act of 1984, information which is not restricted from disclosure by Federal law for the use of those agencies in conducting records management studies.

Policies and practices for storing, accessing, retaining, and disposing of records in the system:

Storage:

The records are maintained in paper form (e.g., file folders) in locked file cabinets and in an electronic system on a server housed in the National Computer Center in Woodlawn, Maryland.

Retrievability:

The records are retrieved by suggestion number or by the name of the employee.

Safeguards:

Access is restricted to authorized staff and evaluators. Component evaluators are given a copy of suggestions. Access http://www.socialsecurity.gov/foia/bluebook/app_g.htm for additional information relating to SSA data security measures.

Retention and disposal:

After final action to make or deny an award, suggestion records are maintained for two more years and then destroyed.

System manager(s) and address(es):

Director, Center for Employee Services, Office of Personnel, Office of Human Resources, Social Security Administration, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedure:

Same as Notification procedures. Requesters should also reasonably specify the record contents being sought. These procedures are in accordance with SSA Regulations (20 CFR 401.40(c)).

Contesting record procedures:

Same as Notification procedures. Also, requester should reasonably identify the record, specify the information they are contesting and the corrective action sought, and the reasons for the correction, with supporting justification showing how the record is incomplete, untimely, inaccurate or irrelevant. These procedures are in accordance with SSA Regulations (20 CFR 401.65(a)).

Record source categories:

Incoming suggestion, responses, evaluations and other material obtained during course of deciding to make an award.

System exempted from certain provisions of the Privacy Act:

None.

SYSTEM NUMBER: 60-0244

System name:

Administrative Grievances Filed Under Part 771 of 5 CFR, Social Security Administration, Deputy Commissioner for Human Resources, Office of Labor Management and Employee Relations.

Security classification:

None.

System Location:

Deputy Commissioner, Office of Human Resources, Social Security Administration, 6401 Security Boulevard, Baltimore, Maryland 21235.

Categories of individuals covered by the system:

Social Security Administration (SSA) employees individually or as a group who have requested personal relief in a matter of concern or dissatisfaction which is subject to the control of SSA management.

Categories of records in the system:

Information or documents relating to the grievance and personal relief sought; documented materials used in consideration of the grievance and correspondence related to disposition of the grievance.

Authority for maintenance of the system:

5 U.S.C. 1302 and 5 CFR Part 771.

Purpose(s):

Records in this system are used to initiate, consider, and resolve employee grievances filed under Part 771 of 5 CFR These records are maintained in each component of SSA. Information from this system may be used by SSA officials for preparing statistical summary of management reports.

Routine uses of records maintained in the system, including categories of users and the purposes of such uses:

Disclosure may be made for routine uses as indicated below:

1. To the Department of Justice for the purpose of obtaining its advice in determining whether particular records are required to be disclosed under the Freedom of Information Act.

2. To the appropriate Federal, State or local agency responsible for investigating, prosecuting, enforcing or implementing a statute, rule, regulation or order, where the Social Security Administration becomes aware of a violation or potential violation of civil or criminal law or regulation.

3. To a Federal, State or local agency maintaining civil, criminal or other relevant enforcement records or other pertinent records, such as current licenses, if necessary to obtain a record relevant to an Agency decision concerning the hiring or retention of an employee, the issuance of a security clearance, the letting of a contract, or the issuance of a license, grant or other benefit.

4. To another Federal agency, in response to its request, in connection with the hiring or retention of an employee, the issuance of a security clearance, the reporting of an investigation of an employee, the letting of a contract, or the issuance of a license, grant, or other benefit by the requesting agency, to the extent that the record is relevant and necessary to the requesting agency's decision on the matter.

5. To a Federal agency having the power to subpoena records, for example, the Internal Revenue Service or the Civil Rights Commission, in response to a subpoena for information contained in this system of records.

6. To officials of labor organizations recognized under 5 U.S.C. Chapter 71 when relevant and necessary to their duties of exclusive representation concerning personnel policies, practices, and matters affecting conditions of employment.

7. To the Office of Personnel Management, the Merit Systems Protection Board, or the Office of the Special Counsel when information is requested in connection with appeals, special studies of the civil service and other merit systems, review of those agencies' rules and regulations, investigation of alleged or possible prohibited personnel practices, and for such other function of these agencies as may be authorized by law, e.g., 5 U.S.C. 1205 and 1206.

8. To the Equal Employment Opportunity Commission when requested in connection with investigations into alleged or possible discriminatory practices in the Federal sector, examination of Federal affirmative employment programs, compliance by Federal agencies with the Uniform Guidelines on Employee Selection Procedures, or other functions vested in the Commission.

9. To the Federal Labor Relations Authority, its General Counsel, the Federal Mediation and Conciliation Service, the Federal Service Impasses Panel, or an arbitrator when information is requested in connection with investigation of allegations of unfair practices, matters before an arbitrator or the Federal Service Impasses Panel.

10. To a congressional office from the record of an individual in response to an inquiry from the congressional office made at the request of that individual.

11. To the Department of Justice (DOJ), a court or other tribunal, or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before such tribunal, is relevant and necessary to the litigation, provided, however, that in each case, SSA determines that such disclosure is compatible with the purpose for which the records were collected.

12. To student volunteers, individuals working under a personal services contract, and other workers who technically do not have the status of Federal employees, when they are performing work for the Social Security Administration (SSA), as authorized by law, and they need access to personally identifiable information in SSA records in order to perform their assigned Agency functions.

13. To the Office of the President for responding to an individual pursuant to an inquiry received from that individual or from a third party on his or her behalf.

14. To any source from which additional information is requested in the course of resolving a grievance, to the extent necessary to identify the individual, inform the source of the purpose(s) of the request, and to identify the type of information requested.

15. To an appropriate licensing organization or Bar association responsible for investigating, prosecuting, enforcing or implementing standards for maintaining a professional licensing or Bar membership, if the Social Security Administration becomes aware of a violation or potential violation of professional licensing or Bar association requirements.

16. To another Federal agency, a court, or a party in litigation before a court or in an administrative proceeding being conducted by a Federal agency, when the Government is a party to the judicial or administrative proceeding.

17. To the General Services Administration and the National Archives Records Administration (NARA) under 44 U.S.C. 2904 and 2906, as amended by the NARA Act of 1984, information which is not restricted from disclosure by Federal law for the use of those agencies in conducting records management studies.

18. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are maintained electronically and paper form (e.g., files folders, binders, index).

Retrievability:

Records are retrieved by the name of the individual filing the grievance.

Safeguards:

Records are stored in secured rooms with access limited to those whose official duties require access. Access http://www.socialsecurity.gov/foia/bluebook/app_g.htm for additional information relating to SSA data security measures.

Retention and disposal:

Records are retained for 3 years after the grievance case is closed, and are then destroyed.

System manager(s) and address(es):

Office of Personnel, Personnel Management Specialist, Room L1141 West Low Rise Building, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.65(a)).

Record source categories:

Information in this system of records is (1) supplied directly by the individual; or (2) derived from information supplied by the individual; or (3) supplied by SSA officials.

Systems exempted from certain provisions of the Privacy Act:

None.

SYSTEM NUMBER: 60-0245

System name:

Negotiated Grievance Procedure Records, Social Security Administration, Deputy Commissioner for Human Resources, Office of Labor Management and Employee Relations.

Security classification:

None.

System Location:

Office of Personnel, Personnel Management Specialist, Social Security Administration, 6401 Security Boulevard, Baltimore, Maryland 21235.

Categories of individuals covered by the system:

Current and former employees of the Social Security Administration (SSA) who have filed grievances under a negotiated grievance procedure.

Categories of records in the system:

This system of records consists of a variety of records relating to an employee grievance filed under procedures established by labor-management negotiations. These records may include information such as: employee's name, Social Security number (SSN), grade, job title, employment history, the names of supervisors, union representative and management officials, testimony of witnesses, a variety of employment and personnel records associated with the grievance, the arbitrator's decision or report, and a record of an appeal to the Federal Labor Relations Authority and to the courts, and pleadings, submissions and decisions on appeal. (NOTE: Copies of these records are kept under the auspices of the Assistant Regional Commissioner, Management and Operations Support and in the originating office.)

Authority for maintenance of the system:

5 U.S.C. 7121.

Purpose(s):

Records in this system are used to initiate, consider and resolve employee grievances filed under procedures established by labor-management negotiations. These records are maintained centrally and in each component of SSA. Information from this system may be used by SSA officials for preparing statistical summary or management reports.

Routine uses of records maintained in the system, including categories of users and the purposes of such uses:

Disclosure may be made for routine uses as indicated below:

1. To the Office of Personnel Management, the Merit Systems Protection Board, or the Office of the Special Counsel when information is requested in connection with appeals, special studies of the civil service and other merit systems, review of those agencies' rules and regulations, investigation of alleged or possible prohibited personnel practices, and for such other function of these agencies as may be authorized by law, e.g., 5 U.S.C. 1205 and 1206.

2. To the Equal Employment Opportunity Commission when requested in connection with investigations into alleged or possible discriminatory practices in the Federal sector, examination of Federal affirmative employment programs, compliance by Federal agencies with the Uniform Guidelines on Employee Selection Procedures, or other functions vested in the Commission.

3. To the appropriate Federal, State or local agency responsible for investigating, prosecuting, enforcing or implementing a statute, rule, regulation or order, where SSA becomes aware of a violation or potential violation of civil or criminal law or regulation.

4. To the Department of Justice for the purpose of obtaining its advice in determining whether particular records are required to be disclosed under the Freedom of Information Act.

5. To a Federal, State or local agency maintaining civil, criminal or other relevant enforcement records or other pertinent records, such as current licenses, if necessary to obtain a record relevant to an Agency decision concerning the hiring or retention of an employee, the issuance of a security clearance, the letting of a contract, or the issuance of a license, grant or other benefit.

6. To a Federal agency, in response to its request, in connection with the hiring or retention of an employee, the issuance of a security clearance, the reporting of an investigation of an employee, the letting of a contract, or the issuance of a license, grant, or other benefit by the requesting agency, to the extent that the record is relevant and necessary to the requesting agency's decision on the matter.

7. To a Federal agency having the power to subpoena records, for example, the Internal Revenue Service or the Civil Rights Commission, in response to a subpoena for information contained in this system of records.

8. To officials of labor organizations recognized under 5 U.S.C. Chapter 71 when relevant and necessary to their duties of exclusive representation concerning personnel policies, practices, and matters affecting conditions of employment.

9. To contractors for the purpose of collating, analyzing, aggregating or otherwise refining records in this system. The contractor shall be required to maintain Privacy Act safeguards with respect to such records.

10. To the Department of Labor in carrying out its functions regarding labor-management relations to the Federal service.

11. To the Federal Labor Relations Authority, its General Counsel, the Federal Mediation and Conciliation Service, the Federal Service Impasses Panel, or an arbitrator when information is requested in connection with investigations of allegations of unfair practices, matters before an arbitrator or the Federal Service Impasses Panel.

12. To a congressional office from the record of an individual in response to an inquiry from the congressional office made at the request of that individual.

13. To the Department of Justice (DOJ), a court or other tribunal, or another party before such tribunal when:

(a) Social Security Administration (SSA), or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

14. To student volunteers, individuals working under a personal services contract, and other workers who technically do not have the status of Federal employees, when they are performing work for the Social Security Administration (SSA), as authorized by law, and they need access to personally identifiable information in SSA records in order to perform their assigned Agency functions.

15. To any source from which additional information is requested in the course of resolving a grievance, to the extent necessary to identify the individual, inform the source of the purpose(s) of the request, and to identify the type of information requested.

16. To an appropriate licensing organization or Bar association responsible for investigating, prosecuting, enforcing or implementing standards for maintaining a professional licensing or Bar membership, if the Social Security Administration becomes aware of a violation or potential violation of professional licensing or Bar association requirements.

17. To another Federal agency, a court, or a party in litigation before a court or in an administrative proceeding being conducted by a Federal agency, when the Government is a party to the judicial or administrative proceeding.

18. To the Office of the President for responding to an individual pursuant to an inquiry received from that individual or from a third party on his or her behalf.

19. To the General Services Administration and the National Archives Records Administration (NARA) under 44 U.S.C. 2904 and 2906, as amended by the NARA Act of 1984, information which is not restricted from disclosure by Federal law for the use of those agencies in conducting records management studies.

20. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Records are maintained in paper form (e.g., file folders).

Retrievability:

These records are retrieved by the names of individuals who have filed a grievance.

Safeguards:

Records maintained by management are stored in secured rooms with access limited to those whose official duties require access. Access http://www.socialsecurity.gov/foia/bluebook/app_g.htm for additional information relating to SSA data security measures.

Retention and disposal:

As negotiated by the local parties to a labor contract. If not covered by contract, records are retained for 3 years after the grievance case is closed and are then destroyed.

System manager(s) and address(s):

Office of Personnel, Personnel Management Specialist, Room L1141 West Low Rise Building, 6401 Security Boulevard, Baltimore, Maryland 21235-6401.

Notification procedures:

Generally, an individual who has filed a grievance under a negotiated procedure is aware of that fact and has been provided access to the file. However, an individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. This procedure is in accordance with SSA Regulations (20 CFR 401.40(c)).

Contesting record procedures:

Same as Notification procedures. Also, requesters should reasonably identify the record, specify the information they are contesting and the corrective action sought, and the reasons for the correction, with supporting justification showing how the record is incomplete, untimely, inaccurate or irrelevant. These procedures are in accordance with SSA Regulations (20 CFR 401.40(c)).

Record source categories:

Information in this system of records is (1) supplied by the individual on whom the record is maintained; or (2) derived from information supplied by the individual; or (3) supplied by the testimony of witnesses; or (4) supplied by management representative or union officials; or (5) supplied by SSA officials.

Systems exempted from certain provisions of the Privacy Act:

None.

SYSTEM NUMBER: 60-0250

System name:

Equal Employment Opportunity (EEO) Counselor and Investigator Personnel Records, Social Security Administration, Deputy Commissioner for Human Resources, Office of Civil Rights and Equal Opportunity.

Security classification:

None.

System Location:

Social Security Administration, 6401 Security Boulevard, Room 2200 West High Rise Building, Baltimore, Maryland 21235-6401.

Categories of individuals covered by the system:

Employees who have volunteered or have been proposed for duty as Equal Employment Opportunity (EEO) Counselors on a part-time basis.

Categories of records in the system:

This system of records contains information concerning the personal characteristics of EEO counselors. The records consist of the name and other identifying data, title, location, training received, information concerning qualifying background, case assignments, and evaluation of EEO counselors serving on a part-time basis and related information.

Authority for maintenance of the system:

29 U.S.C. 633a; 42 U.S.C. 2000e; and Executive Order (E.O.) 11478.

Purpose(s):

These records are used to identify, locate and determine the availability of employees who volunteer as counselors for assignments and to determine training needs of counselors. These records are maintained in Social Security Administration (SSA) field and regional offices. They may be used to provide information for production of summary descriptive statistics and analytical studies in support of the function for which the records are collected and maintained, or for related personnel management functions or manpower studies, and to locate specific individuals for personnel research or other personnel management functions.

Routine uses of records maintained in the system, including categories of users and the purposes of such uses:

Disclosure may be made for routine uses as indicated below:

1. To provide resources to another Federal agency, in response to its requests for loan of counselors.

2. To another Federal agency, in response to its requests, in connection with the hiring or retention of an employee, the issuance of a security clearance, the reporting of an investigation or an employee, the letting of a contract, or the issuance of a license, grant, or other benefit by the requesting agency, to the extent that the record is relevant and necessary to the requesting agency's decision on the matter.

3. To a Federal agency having the power to subpoena records, for example, the Internal Revenue Service or the Civil Rights Commission, in response to a subpoena for information contained in this system of records.

4. To official of labor organizations recognized under 5 U.S.C. Chapter 71 when relevant and necessary to their duties of exclusive representation concerning personnel policies, practices and matters affecting conditions of employment.

5. To contractors for the purpose of collecting, analyzing, aggregating or otherwise refining records in this system. The contractor shall be required to maintain Privacy Act safeguards with respect to such records.

6. To the Office of Personnel Management, the Merit Systems Protection Board, or the Office of the Special Counsel when information is requested in connection with appeals, special studies of the civil service and other merit systems, review of those agencies' rules and regulations, investigation of alleged or possible prohibited personnel practices, and for such other function of these agencies as may be authorized by law, e.g., 5 U.S.C. 1205 and 1206.

7. To the Equal Employment Opportunity Commission when requested in connection with investigations into alleged or possible discriminatory practices in the Federal sector, examination of Federal affirmative employment programs, compliance by Federal agencies with the Uniform Guidelines on Employee Selection Procedures, or other functions vested in the Commission.

8. To the Federal Labor Relations Authority, its General Counsel, the Federal Mediation and Conciliation Service, the Federal Service Impasses Panel, or an arbitrator when information is requested in connection with investigations of allegations of unfair practices, matters before an arbitrator or the Federal Service Impasses Panel.

9. To a congressional office from the record of an individual in response to an inquiry from the congressional office made at the request of that individual.

10. To the Department of Justice (DOJ), a court or other tribunal, or another party before such tribunal, when:

(a) The Social Security Administration (SSA), or any component thereof; or

(b) Any SSA employee in his/her official capacity; or

(c) Any SSA employee in his/her individual capacity where DOJ (or SSA, where it is authorized to do so) has agreed to represent the employee; or

(d) The United States or any agency thereof where SSA determines that the litigation is likely to affect SSA or any of its components, is a party to the litigation or has an interest in such litigation, and SSA determines that the use of such records by DOJ, a court or other tribunal, or another party before the tribunal, is relevant and necessary to the litigation, provided, however, that each case, SSA determines that such disclosure is compatible with the purpose for which the records were collected.

11. To student volunteers, individuals working under a personal services contract, and other workers who technically do not have the status of Federal employees, when they are performing work for the Social Security Administration (SSA), as authorized by law, and they need access to personally identifiable information in SSA records in order to perform their assigned Agency functions.

12. To the General Services Administration and the National Archives Records Administration (NARA) under 44 U.S.C. 2904 and 2906, as amended by the NARA Act of 1984, information which is not restricted from disclosure by Federal law for the use of those agencies in conducting records management studies.

Policies and practices for storing, retrieving, accessing, retaining and disposing of records in the system:

Storage:

These records are maintained in paper form (e.g., file folders, binders and index cards).

Retrievability:

These records are retrieved by the names of EEO counselors and investigators.

Safeguards:

Access to, and use of, these records is limited to those persons whose official duties require access. Access http://www.socialsecurity.gov/foia/bluebook/app_g.htm for additional information relating to SSA data security measures.

Retention and disposal:

These records are maintained up to one year after the counselor or investigator ceases to participate in the volunteer program, at which time they are destroyed.

System manager(s) and address(es):

Associate Commissioner, Office of Civil Rights and Equal Opportunity, 6401 Security Boulevard, Room 2200 West High Rise Building, Baltimore, Maryland 21235-6401.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. This procedure is in accordance with SSA Regulations (20 CFR 401.40(c)).

Contesting record procedures:

Same as Notification procedures. Also, requesters should reasonably identify the record, specify the information they are contesting and the corrective action sought, and the reasons for the correction, with supporting justification showing how the record is incomplete, inaccurate, untimely or irrelevant. This procedure is in accordance with SSA Regulations (20 CFR 401.65(a)).

Record source categories:

Information in this system of records is obtained from individuals to whom the record pertains, SSA or other officials, official documents relating to appointments and case assignments as counselors and investigators, correspondence from specific persons or organizations, formal reports submitted by the individual in the performance of official volunteer work.

Systems exempted from certain provisions of the Privacy Act:

None.

SYSTEM NUMBER: 60-0255

System name:

Plans for Achieving Self-Support (PASS) Management Information System, Social Security Administration, Deputy Commissioner for Operations, Office of Public Service and Operations Support.

Security classification:

None.

System Location:

Social Security Administration, Deputy Commissioner for Operations, Office of Public Service and Operations Support, 6401 Security Boulevard, Baltimore, Maryland 21235.

In addition, Plans for Achieving Self-Support (PASS) documents may be temporarily transferred to other locations within the Social Security Administration (SSA). Contact the system manager to inquire about these addresses.

Categories of individuals covered by the system:

This system maintains information on disabled and blind individuals who are Supplemental Security Income applicants or recipients and who have submitted plans for achieving self-support under sections 1612(b)(4)(A), 1612(b)(4)(B), and 1613(a)(4) of the Social Security Act.

Categories of records in the system:

This system contains the beneficiary's name; Social Security number (SSN); disability diagnosis; occupational objective; information as to whether the individual's plan was developed by a third party and, if so, the identity of the third party; if the PASS was disapproved, terminated or suspended, the basis for that action; information relating to his or her earnings and employment at the beginning and end of the PASS; the nature and costs of those goods and services which the individual has purchased or proposes to purchase under his or her plan; information about goods and services actually purchased with respect to an approved plan; and information about plans that were not approved (e.g., the basis for denial of approval of a plan).

Authority for maintenance of the system:

Sections 1602, 1612(b)(4)(A), 1612(b)(4)(B), and 1613(a)(4) of the Social Security Act (42 U.S.C. 1382, 1382a, 1382b).

Purposes:

SSA uses the information in the system for workload control, program evaluation purposes and to help determine the number and types of individuals that are successfully returning to work as a result of the PASS.

Routine uses of records maintained in the system, including categories of users and the purposes of such uses:

Disclosure may be made for routine uses as indicated below. However, disclosure of any information defined as “returns or return information” under 26 U.S.C. 6103 of the Internal Revenue Code will not be disclosed unless authorized by a statute, the Internal Revenue Service (IRS), or IRS regulations.

1. To third-party contacts when the party to be contacted has, or is expected to have, information relating to the individual's PASS, when:

(a) The individual is unable to provide the information being sought. An individual is considered to be unable to provide certain types of information when:

(i) He or she is incapable or of questionable mental capability;

(ii) He or she cannot read or write;

(iii) He or she cannot afford the cost of obtaining the information;

(iv) He or she has a hearing impairment, and is contacting SSA by telephone through a telecommunications relay system operator;

(v) A language barrier exists; or

(vi) The custodian of the information will not, as a matter of policy, provide it to the individual; or

(b) The data are needed to establish the validity of evidence or to verify the accuracy of information presented by the individual in connection with his or her PASS; or SSA is reviewing the information as a result of suspected abuse or fraud, concern for program integrity, quality appraisal, or evaluation and measurement activities.

2. To a congressional office in response to an inquiry from that office made at the request of the subject of the record.

3. To the Department of the Treasury, Internal Revenue Service, for the purpose of auditing the Social Security Administration's compliance with the safeguard provisions of the Internal Revenue Code of 1986, as amended.

4. To the Office of the President for the purpose of responding to an individual pursuant to an inquiry received from that individual or from a third party on his or her behalf.

5. To a contractor or another Federal agency, as necessary for the purpose of assisting the Social Security Administration (SSA) in the efficient administration of its programs. We will disclose information under this routine use only in situations in which SSA may enter into a contractual or similar agreement with a third party to assist in accomplishing an SSA function relating to this system of records.

6. To the General Services Administration and the National Archives Records Administration (NARA) under 44 U.S.C. 2904 and 2906, as amended by the NARA Act of 1984, information which is not restricted from disclosure by Federal law for the use of those agencies in conducting records management studies.

7. To the Department of Justice (DOJ), a court or other tribunal, or another party before such tribunal, when:

(a) SSA or any component thereof, or

(b) Any SSA employee in his or her official capacity, or

(c) Any SSA employee in his or her individual capacity when DOJ (or SSA when it is authorized to do so) has agreed to represent the employee, or

(d) The United States or any agency thereof (when SSA determines that the litigation is likely to affect the operations of SSA or any of its components), is a party to the litigation or has an interest in such litigation, and SSA determines that the use of such records by DOJ, a court or other tribunal, or another party before the tribunal, is relevant and necessary to the litigation, provided, however, that each case, SSA determines that such disclosure is compatible with the purpose for which the records were collected.

8. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining, and disposing of records in the system:

Storage:

Records in this system are stored in magnetic media (e.g., computer hard drives) and on paper. Paper printouts of these data are made when required for study. The system also contains photocopies of benefit application forms, keyed application forms, and other claims documentation, when relevant to the PASS system.

Retrievability:

Records are retrieved from the system by the name or SSN of the individual who submitted the PASS.

Safeguards:

Safeguards for automated data have been established in accordance with the Systems Security Program Handbook. This includes maintaining computer disk packs or other magnetic fields with personal identifiers in secured storage areas accessible only to authorized personnel. SSA employees having access to the computerized records and employees of any contractor who may be utilized to develop and maintain the software for the automated system will be notified of criminal sanctions for unauthorized disclosure of information about individuals. Also, contracts, if any, will contain language that delineates the conditions under which contractors will have access to data in the system and the safeguards that must be employed to protect the data.

Paper documents are stored either in lockable file cabinets within locked rooms or in otherwise secured areas. Access to these records is restricted to those employees who require them to perform their assigned duties. Access http://www.socialsecurity.gov/foia/bluebook/app_g.htm for additional information relating to SSA data security measures.

Retention and disposal:

Computerized records are maintained for a period of six years and three months after the end of the fiscal year in which final adjudication was made. Paper records produced for purposes of studies will be destroyed upon completion of the study. Photocopies of forms and documentation will be destroyed upon approval or denial of the PASS. Original copies of the forms and documentation are maintained in the Claims Folder System, 60-0089. Means of disposal are appropriate to the storage medium (e.g., erasure of disks, shredding of paper records, or transfer to another system of records).

System manager(s) and address(es):

Associate Commissioner, Office of Public Service and Operations Support, Social Security Administration, 6401 Security Boulevard, Baltimore, Maryland 21235.

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Individuals requesting access to their records should also reasonably describe the records they are seeking. These procedures are in accordance with SSA Regulations (20 CFR 401.40(c)).

Contesting record procedures:

Same as Notification procedures. Individuals contesting the contents of a record in the system should also reasonably describe the record, specify the information they are contesting and the corrective action sought, and the reasons for the correction, with supporting justification showing how the record is untimely, incomplete, inaccurate, or irrelevant. These procedures are in accordance with SSA Regulations (20 CFR 401.65(a)).

Record source categories:

Information in this system is obtained from other SSA systems of records such as the Claims Folder System, 60-0089 and the Supplemental Security Income Record and Special Veterans Benefits, 60-0103, from information provided by the beneficiary, and from investigations conducted by SSA employees relating to beneficiaries' PASS activity.

System exemptions from certain provisions of the Privacy Act:

None.

SYSTEM NUMBER: 60-0259

System name:

Claims under the Federal Tort Claims Act and Military Personnel and Civilian Employees' Claim Act, Social Security Administration, Office of the General Counsel.

System classification:

None.

System Location:

Records are located at the following Social Security Administration (SSA) offices:

Office of the General Counsel, Social Security Administration, Room 617 Altmeyer Building, 6401 Security Boulevard, Baltimore, Maryland 21235.

In the Boston Region (Connecticut, Maine, Massachusetts, New Hampshire, Rhode Island, Vermont):

Office of the General Counsel, Chief Counsel, Region I, Social Security Administration, John F. Kennedy Federal Building, Room 625, Government Center, Boston, Massachusetts 02203.

In the New York Region (New Jersey, New York, Puerto Rico, Virgin Islands):

Office of the General Counsel, Chief Counsel, Region II, Social Security Administration, Room 3904, 26 Federal Plaza, New York, NY 10278.

In the Philadelphia Region (Delaware, District of Columbia, Maryland, Pennsylvania, Virginia, West Virginia):

Office of the General Counsel, Chief Counsel, Region III, Social Security Administration, P.O. Box 41777, Philadelphia, Pennsylvania 19101.

In the Atlanta Region (Alabama, North Carolina, South Carolina, Florida, Georgia, Kentucky, Mississippi, Tennessee):

Office of the General Counsel, Chief Counsel, Region IV, Social Security Administration, Atlanta Federal Center, Suite 20T45, 61 Forsyth Street, S.W., Atlanta, Georgia 30303-8920.

In the Chicago Region (Illinois, Indiana, Michigan, Minnesota, Ohio, Wisconsin):

Office of the General Counsel, Chief Counsel, Region V, Social Security Administration, 200 West Adams Street, 30th Floor, Chicago, Illinois 60606-8920.

In the Dallas Region (Arkansas, Louisiana, New Mexico, Oklahoma, Texas):

Office of the General Counsel, Chief Counsel, Region VI, Social Security Administration, Suite 130, 1301 Young Street, Dallas, Texas 75202-5433.

In the Kansas City Region (Iowa, Kansas, Missouri, Nebraska):

Office of the General Counsel, Chief Counsel, Region VII, Social Security Administration, Room 535, 601 East 12th Street, Kansas City, Missouri 64106-2898.

In the Denver Region (Colorado, Montana, North Dakota, South Dakota, Utah, Wyoming):

Office of the General Counsel, Chief Counsel, Region VIII, Social Security Administration, Suite 120, Federal Office Building, 1961 Stout Street, Denver, Colorado 80294.

In the San Francisco Region (American Samoa, Arizona, California, Guam, Hawaii, Nevada, Northern Marianna Islands):

Office of the General Counsel, Chief Counsel, Region IX, Social Security Administration, Room 405, 50 United Nations Plaza, San Francisco, California 94102.

In the Seattle Region (Alaska, Idaho, Oregon, Washington):

Office of the General Counsel, Chief Counsel, Region X, Social Security Administration, 701 Fifth Avenue, Suite 2900, M/S 901, Seattle, Washington 98104-7075.

Categories of individuals covered by the system:

SSA employees and members of the public who have a claim against SSA under the Federal Tort Claims Act, and SSA employees who have a claim against SSA under the Military Personnel and Civilian Employees' Claim Act. In addition, other individuals may be mentioned in the records, such as witnesses to accidents, attorneys for claimants, insurance company personnel, police officers, SSA supervisors who completed forms or provided information about incidents relating to a claim, etc.

Categories of records in the system:

Information that is pertinent to a claim, such as accident reports, statements of witnesses, police reports, medical records and bills, estimates for repairs to property, insurance policies, information on vehicle title and registration, legal analysis of the claim, final decision on the claim, and documents pertaining to any subsequent proceedings, such as reconsideration or litigation, and vouchers for payment.

Authority for maintenance of the system:

Federal Tort Claims Act, 28 U.S.C. 2671-2680, and 1346(b); Military Personnel and Civilian Employees' Claims Act, 31 U.S.C. 3721-3723.

Purpose(s):

To process claims filed with the Agency.

Routine uses of records maintained in the system, including categories of users and the purposes of such uses:

Disclosure may be made for routine use as indicated below:

1. To Federal, State and local government agencies, private individuals, private and public hospitals, private attorneys, insurance companies, individual law enforcement officers, and other persons or entities with relevant information for the purpose of investigating, settling or adjudicating claims and assisting with subsequent litigation.

2. To a congressional office in response to an inquiry from that office made at the request of the subject of a record.

3. To the Office of the President for the purpose of responding to an individual pursuant to an inquiry from that individual or from a third party on his/her behalf.

4. To the Department of Justice (DOJ), a court or other tribunal, or another party before such tribunal, when:

(a) The Social Security Administration (SSA), or any component thereof; or

(b) Any SSA employee in his/her capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

5. To a Federal, State or local agency for law enforcement purposes concerning a violation of law pertaining to records in this system.

6. To student volunteers, individuals working under a personal services contract, and other workers who technically do not have the status of Federal employees, when they are performing work for the Social Security Administration (SSA), as authorized by law, and they need access to personally identifiable information in SSA records in order to perform their assigned Agency functions.

7. To the General Services Administration and the National Archives Records Administration (NARA) under 44 U.S.C. 2904 and 2906, as amended by the NARA Act of 1984, information which is not restricted from disclosure by Federal law for the use of those agencies in conducting records management studies.

Policies and practices for Storing, Retrieving, Accessing, Retaining and Disposing of Records in the System:

Storage:

Records are maintained in paper form (e.g., file folders) and stored in file cabinets. Some records may be maintained on Agency computers.

Retrievability:

Records are retrieved by the name of the claimant and claim number.

Safeguards:

Office buildings in which these records are maintained are locked after the close of business day. These records are only accessible by General Counsel staff. Access http://www.socialsecurity.gov/foia/bluebook/app_g.htm for additional information relating to SSA data security measures.

Retention and disposal:

The records are maintained in the Office of the General Counsel until final action is completed on the claims, then transferred to the Office of the Deputy Commissioner for Finance, Assessment and Management where they are stored for six years. They are disposed of in accordance with the Federal Records Act and applicable retention schedules.

System manager(s) and address(es):

Social Security Administration, Office of the General Counsel, Room 617 Altmeyer Building, 6401 Security Boulevard, Baltimore, Maryland 21235. (For additional addresses see Systems location).

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record being sought. These procedures are in accordance with SSA Regulations (20 CFR 401.40(c)).

Contesting record procedures:

Same as Notification procedures. Requesters should also reasonably identify the records, specify the information they are contesting and the corrective action sought, and the reasons for the correction, with supporting justification showing how the record is incomplete, untimely, inaccurate or irrelevant. These procedures are in accordance with SSA Regulations (20 CFR 401.65(a)).

Record source categories:

The information in this system comes from a number of sources, such as claim forms, accident reports, statements of witnesses, statements by supervisors in the case of employee claims, police reports, medical records, estimates of repairs for property damage, insurance policies, motor vehicle report about the incident, etc.

System exempted from certain provisions of the Privacy Act:

None.

SYSTEM NUMBER: 60-0262

System name:

Attorney Applicant Files, Social Security Administration, Office of the General Counsel.

Security classification:

None.

System Location:

Office of the General Counsel, Social Security Administration, Room 600 Altmeyer Building, 6401 Security Boulevard, Baltimore, Maryland 21235.

In the Boston Region (Connecticut, Maine, Massachusetts, New Hampshire, Rhode Island, Vermont):

Office of the General Counsel, Chief Counsel, Region I, Social Security Administration, John F. Kennedy Federal Building, Room 625, Government Center, Boston, Massachusetts 02203.

In the New York Region (New Jersey, New York, Puerto Rico, Virgin Islands):

Office of the General Counsel, Chief Counsel, Region II, Social Security Administration, Room 3904, 26 Federal Plaza, New York, NY 10278.

In the Philadelphia Region (Delaware, District of Columbia, Maryland, Pennsylvania, Virginia, West Virginia):

Office of the General Counsel, Chief Counsel, Region III, Social Security Administration, P.O. Box 41777, Philadelphia, Pennsylvania 19101.

In the Atlanta Region (Alabama, North Carolina, South Carolina, Florida, Georgia, Kentucky, Mississippi, Tennessee):

Office of the General Counsel, Chief Counsel, Region IV, Social Security Administration, Atlanta Federal Center, Suite 20T45, 61 Forsyth Street, SW., Atlanta, Georgia 30303-8920.

In the Chicago Region (Illinois, Indiana, Michigan, Minnesota, Ohio, Wisconsin):

Office of the General Counsel, Chief Counsel, Region V, Social Security Administration, 200 West Adams Street, 30th Floor, Chicago, Illinois 60606-8920.

In the Dallas Region (Arkansas, Louisiana, New Mexico, Oklahoma, Texas):

Office of the General Counsel, Chief Counsel, Region VI, Social Security Administration, Suite 130, 1301 Young Street, Dallas, Texas 75202-5433.

In the Kansas City Region (Iowa, Kansas, Missouri, Nebraska):

Office of the General Counsel, Chief Counsel, Region VII, Social Security Administration, Room 535, 601 East 12th Street, Kansas City, Missouri 64106-2898.

In the Denver Region (Colorado, Montana, North Dakota, South Dakota, Utah, Wyoming):

Office of the General Counsel, Chief Counsel, Region VIII, Social Security Administration, Suite 120, Federal Office Building, 1961 Stout Street, Denver, Colorado 80294.

In the San Francisco Region (American Samoa, Arizona, California, Guam, Hawaii, Nevada, Northern Mariana Islands):

Office of the General Counsel, Chief Counsel, Region IX, Social Security Administration, Room 405, 50 United Nations Plaza, San Francisco, California 94102.

In the Seattle Region (Alaska, Idaho, Oregon, Washington):

Office of the General Counsel, Chief Counsel, Region X, Social Security Administration, 701 Fifth Avenue, Suite 2900, M/S 901, Seattle, Washington 98104-7075.

Categories of individuals covered by the system:

Applicants for attorney positions in the Office of the General Counsel.

Categories of records in the system:

The Attorney Applicant system consists of a variety of records relating to persons applying for attorney positions such as resumes, college transcripts, writing samples, recommendations from teachers and former employers, and professional credentials, etc.

Authority for maintenance of the system:

5 U.S.C. 3301, et seq.

Purpose(s):

To maintain current information on individuals interested in employment as attorneys with the Office of the General Counsel.

Routine uses of records maintained in the system, including categories of users and the purposes of such uses:

Disclosure may be made for routine uses as indicated below:

1. To a congressional office from the records of an individual in response to an inquiry from a congressional office made at the request of that individual or from a third party on his or her behalf.

2. To the Office of the President for responding to an individual pursuant to an inquiry received from that individual or from a third party on his or her behalf.

3. To the Department of Justice (DOJ), a court or other tribunal, or another party before such tribunal, when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court or other tribunal, or another party before such tribunal, is relevant and necessary to the litigation provided, however, that in each case, SSA determines that such disclosure is compatible with the purpose for which the records were collected.

4. To a Federal, State or local agency for law enforcement purposes concerning a violation of law pertaining to the records in this system.

5. To student volunteers, individuals working under a personal services contract, and other workers who technically do not have the status of Federal employees, when they are performing work for the Social Security Administration (SSA), as authorized by law, and they need access to personally identifiable information in SSA records in order to perform their assigned Agency functions.

6. To the General Services Administration and the National Archives Records Administration (NARA) under 44 U.S.C. 2904 and 2906, as amended by the NARA Act of 1984, information which is not restricted from disclosure by Federal law for the use of those agencies in conducting records management studies.

Policies and practices for storing, retrieving, accessing, retaining and disposing of records in the system:

Storage:

Records are maintained in paper form (e.g., file folders) in locked cabinets. Some records may be maintained on Agency computers.

Retrievability:

Records are retrieved by the name of the applicant.

Safeguards:

Office buildings in which files are kept are secure and these files are only accessible to General Counsel Staff and other Agency employees whose duties require access. Access http://www.socialsecurity.gov/foia/bluebook/app_g.htm for additional information relating to SSA data security measures.

Retention and disposal:

The records are maintained in the Office of the General Counsel for six months or, if an applicant requests that his application be held for a longer time, for one year. Records are then disposed of in accordance with the Federal Records Act and applicable schedules.

System manager(s) and address(es):

Office of the General Counsel, Social Security Administration, Room 617 Altmeyer Building, Baltimore, Maryland 21235. (For additional addresses see Systems location).

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, Social Security number, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record being sought. These procedures are in accordance with SSA Regulations (20 CFR 401.40(c)).

Contesting record procedures:

Same as Notification procedures. Requesters should also reasonably identify the record, specify the information they are contesting and the corrective action sought, and the reasons for the correction, with supporting justification showing how the record is untimely, incomplete, inaccurate or irrelevant. These procedures are in accordance with SSA Regulations (20 CFR 401.65(a)).

Record source categories:

The information in this system comes from the applicant, educational institutions, past employers and records of interviews with OGC personnel.

System exempted from certain provisions of the Privacy Act:

None.

SYSTEM NUMBER: 60-0274

System name:

Litigation Docket and Tracking System, Social Security Administration, Office of the General Counsel.

Security classification:

None.

System Location:

Records are located at the following Social Security Administration (SSA) offices:

Office of the General Counsel, Social Security Administration, Room 617, Altmeyer Building, 6401 Security Boulevard, Baltimore, Maryland 21235.

Each Regional Office will also maintain information on those cases for which it is responsible.

In the Boston Region (Connecticut, Maine, Massachusetts, New Hampshire, Rhode Island, Vermont):

Office of the General Counsel, Chief Counsel, Region I, Social Security Administration, John F. Kennedy Federal Building, Room 625, Government Center, Boston, Massachusetts 02203.

In the New York Region (New Jersey, New York, Puerto Rico, Virgin Islands):

Office of the General Counsel, Chief Counsel, Region II, Social Security Administration, Room 3904, 26 Federal Plaza, New York, NY 10278.

In the Philadelphia Region (Delaware, District of Columbia, Maryland, Pennsylvania, Virginia, West Virginia):

Office of the General Counsel, Chief Counsel, Region III, Social Security Administration, P.O. Box 41777, Philadelphia, Pennsylvania 19101.

In the Atlanta Region (Alabama, North Carolina, South Carolina, Florida, Georgia, Kentucky, Mississippi, Tennessee):

Office of the General Counsel, Chief Counsel, Region IV, Social Security Administration, Atlanta Federal Center, Suite 20T45, 61 Forsyth Street, SW., Atlanta, Georgia 30303-8920.

In the Chicago Region (Illinois, Indiana, Michigan, Minnesota, Ohio, Wisconsin):

Office of the General Counsel, Chief Counsel, Region V, Social Security Administration, 200 West Adams Street, 30th Floor, Chicago, Illinois 60606-8920.

In the Dallas Region (Arkansas, Louisiana, New Mexico, Oklahoma, Texas):

Office of the General Counsel, Chief Counsel, Region VI, Social Security Administration, Suite 130, 1301 Young Street, Dallas, Texas 75202-5433.

In the Kansas City Region (Iowa, Kansas, Missouri, Nebraska):

Office of the General Counsel, Chief Counsel, Region VII, Social Security Administration, Room 535, 601 East 12th Street, Kansas City, Missouri 64106-2898.

In the Denver Region (Colorado, Montana, North Dakota, South Dakota, Utah, Wyoming):

Office of the General Counsel, Chief Counsel, Region VIII, Social Security Administration, Suite 120, Federal Office Building, 1961 Stout Street, Denver, Colorado 80294.

In the San Francisco Region (American Samoa, Arizona, California, Guam, Hawaii, Nevada, Northern Mariana Islands):

Office of the General Counsel, Chief Counsel, Region IX, Social Security Administration, Room 405, 50 United Nations Plaza, San Francisco, California 94102.

In the Seattle Region (Alaska, Idaho, Oregon, Washington):

Office of the General Counsel, Chief Counsel, Region X, Social Security Administration, 701 Fifth Avenue, Suite 2900, M/S 901, Seattle, Washington 98104-7075.

Categories of individuals covered by the system:

The individuals on whom records are maintained in this system are individuals who are involved in litigation with SSA or (in matters within the jurisdiction of SSA) the United States as defendants in civil matters seeking Social Security benefits payments. In addition, the names of attorneys representing such individuals and attorneys to who cases are assigned.

Categories of records in the system:

The records contain information to identify: (1) The court cases that SSA is either involved in or in which it believes it will, or may, become involved; (2) the people or groups involved in each case; (3) the component within the government to which each case has been assigned; (4) the status of the case, including the key events that occurred; and (5) the type of benefit claim which is the subject of the case.

Authorities for maintenance of the system:

The authorities for maintaining this system are the various statutes, regulations, rules or orders pertaining to the subject matter of the litigation (e.g., the Social Security Act, 42 U.S.C. 405(g) and 1383(c)).

Purpose(s):

To enable the Office of the General Counsel to: Efficiently and effectively use its resources in judicial and administrative proceedings; provide a research tool that will permit attorneys to determine when and where certain litigation occurred; and balance the attorney workload.

Routine uses of records maintained in the system, including categories of users and the purposes of such uses:

Disclosure may be made for routine uses as indicated below:

1. To, among others, Federal and State agencies, private individuals, private attorneys, the United States Attorney and other Federal officials and agencies for the purpose of providing status information on pending litigation and managing the litigation workload.

2. To any Federal, State or local agency when the information is relevant to a matter involving the administration of a Federal, State or local income program.

3. To a congressional office in response to an inquiry from that office made at the request of the subject of the record.

4. To the Office of the President for the purpose of responding to an individual pursuant to an inquiry from that individual or from a third party on his/her behalf.

5. To the Department of Justice (DOJ), a court or other tribunal, or another party before such tribunal, when:

(a) The Social Security Administration (SSA), or any component thereof; or

(b) Any SSA employee in his/her official capacity; or

(c) Any SSA employee in his/her individual capacity when DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before such tribunal, is relevant and necessary to the litigation, provided, however, that in each case, SSA determines that such disclosure is compatible with the purpose for which the records were collected.

6. To a private firm under contract with the Social Security Administration for the purpose of having that firm convert the records to machine readable form, or collate, analyze, aggregate or otherwise refine the information in the records. The contractor will be required to maintain Privacy Act safeguards with respect to such records.

7. To student volunteers, individuals working under a personal services contract, and other workers who technically do not have the status of Federal employees, when they are performing work for the Social Security Administration (SSA), as authorized by law, and they need access to personally identifiable information in SSA records in order to perform their assigned Agency functions.

8. To a Federal, State or local agency for law enforcement purposes concerning a violation of law pertaining to the records in this system.

9. To Federal, State or local law enforcement agencies and private security contractors as appropriate, if information is necessary:

(a) To enable them to protect the safety of Social Security Administration (SSA) employees and customers, the security of the SSA workplace, and the operations of SSA facilities, or

(b) To assist in investigation or prosecutions with respect to activities that disrupt the operation of SSA facilities.

10. To the General Services Administration and the National Archives Records Administration (NARA) under 44 U.S.C. 2904 and 2906, as amended by the NARA Act of 1984, information which is not restricted from disclosure by Federal law for the use of those agencies in conducting records management studies.

Policies and practices for storing, retrieving, accessing, retaining, and disposing of records in the system:

Storage:

Information may be stored on a variety of computer-readable, electronic media (including disc, mass storage and magnetic tape) and on paper records (e.g., docket cards).

Retrievability:

The records in this system relating to litigation in court are retrieved by the court docket number. Records relating to a case involving programs administered by SSA are retrieved by the Social Security number (SSN) of each named party to the litigation. All records in this system are retrieved by the names of parties, names of the Office of the General Counsel attorneys assigned to the cases, and the legal or programmatic issues involved in the cases.

Safeguards:

The buildings where these records are stored are safeguarded by a variety of physical security systems which permit access only by authorized personnel and authorized visitors escorted by authorized personnel. The computer terminals used to access the records are kept in rooms that are locked during non-business hours. Electronic records are protected against unauthorized access by several password oriented systems which produce an audit trail of all attempts (successful and unsuccessful) to access the records. Access http://www.socialsecurity.gov/foia/bluebook/app_g.htm for additional information relating to SSA data security measures.

Retention and disposal:

Records are maintained until the administrative or judicial proceedings have ended and for varying periods of time thereafter, subject to the Federal Records Act and applicable retention schedules.

System manager(s) and address(es):

Office of the General Counsel, Social Security Administration, Room 617 Altmeyer Building, 6401 Security Boulevard, Baltimore, Maryland 21235. (For additional addresses see Systems location).

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedure:

Same as Notification procedures. Also, requesters should reasonably specify the record contents being sought. Access will not be provided to information about materials compiled for litigation purposes, such as information about briefs and recommendations to appeal or not to appeal, except when such access is granted by the court. These procedures are in accordance with SSA Regulations (20 CFR 401.40(c)).

Contesting record procedure:

Same as Notification procedures. Also requesters should reasonably identify the record, specify the information that is contested and the corrective actions sought, and the reasons for requesting the correction, and furnish supporting evidence to show why the record is not accurate, timely, complete, relevant or necessary. These procedures are in accordance with SSA Regulations (20 CFR 401.65(a)).

Record source categories:

The sources for information in this system include legal pleadings and other documents, formal and informal discovery, Federal and State agencies and the individuals involved in claims and litigation.

Systems exempted from certain provisions of the Privacy Act:

None.

SYSTEM NUMBER: 60-0275

System name:

Civil Rights Complaints Filed by Members of the Public, Social Security Administration, Office of the General Counsel.

Security classification:

None.

System Location:

Records are located at the following Social Security Administration (SSA) offices:

Office of the General Counsel, Social Security Administration, Room 600 Altmeyer Building, 6401 Security Boulevard, Baltimore, Maryland 21235.

In the Boston Region (Connecticut, Maine, Massachusetts, New Hampshire, Rhode Island, Vermont):

Office of the General Counsel, Chief Counsel, Region I, Social Security Administration, John F. Kennedy Federal Building, Room 625, Government Center, Boston, Massachusetts 02203.

In the New York Region (New Jersey, New York, Puerto Rico, Virgin Islands):

Office of the General Counsel, Chief Counsel, Region II, Social Security Administration, Room 3904, 26 Federal Plaza, New York, NY 10278.

In the Philadelphia Region (Delaware, District of Columbia, Maryland, Pennsylvania, Virginia, West Virginia):

Office of the General Counsel, Chief Counsel, Region III, Social Security Administration, P.O. Box 41777, Philadelphia, Pennsylvania 19101.

In the Atlanta Region (Alabama, North Carolina, South Carolina, Florida, Georgia, Kentucky, Mississippi, Tennessee):

Office of the General Counsel, Chief Counsel, Region IV, Social Security Administration, Atlanta Federal Center, Suite 20T45, 61 Forsyth Street, SW., Atlanta, Georgia 30303-8920.

In the Chicago Region (Illinois, Indiana, Michigan, Minnesota, Ohio, Wisconsin):

Office of the General Counsel, Chief Counsel, Region V, Social Security Administration, 200 West Adams Street, 30th Floor, Chicago, Illinois 60606-2898.

In the Dallas Region (Arkansas, Louisiana, New Mexico, Oklahoma, Texas):

Office of the General Counsel, Chief Counsel, Region VI, Social Security Administration, Suite 130, 1301 Young Street, Dallas, Texas 75202-5433.

In the Kansas City Region (Iowa, Kansas, Missouri, Nebraska):

Office of the General Counsel, Chief Counsel, Region VII, Social Security Administration, Room 535, 601 East 12th Street, Kansas City, Missouri 64106-2898.

In the Denver Region (Colorado, Montana, North Dakota, South Dakota, Utah, Wyoming):

Office of the General Counsel, Chief Counsel, Region VIII, Social Security Administration, Suite 120, Federal Office Building, 1961 Stout Street, Denver, Colorado 80294.

In the San Francisco Region (American Samoa, Arizona, California, Guam, Hawaii, Nevada, Northern Marianna Islands):

Office of the General Counsel, Chief Counsel, Region IX, Social Security Administration, Room 405, 50 United Nations Plaza, San Francisco, California 94102.

In the Seattle Region (Alaska, Idaho, Oregon, Washington):

Office of the General Counsel, Chief Counsel, Region X, Social Security Administration, 701 Fifth Avenue, Suite 2900, M/S 901, Seattle, Washington 98104-7075.

Categories of individuals covered by the system:

Members of the public who file civil rights complaints against SSA, a component of SSA and/or present or former SSA employees, alleging discrimination on the basis of disability, race, color, national origin, sex, age, religion, or retaliation in any program or activity conducted by SSA.

Categories of records in the system:

Personal identifying information regarding the member of the public who filed the civil rights complaint, complaint docket number, complaint allegations, information gathered during the complaint investigation, including witness interviews from SSA employees or eyewitnesses to an allegation of discrimination, findings and results of the investigation, reconsideration findings, and correspondence and telephone contact reports related to the complaint and investigation.

Authority for maintenance of the system:

The information collection is authorized by 5 U.S.C. 301; 29 U.S.C. 791 et. seq.; 42 U.S.C. 902(a)(5), 1304 note. Those statutes require SSA not to discriminate on the basis of disability and authorize the Commissioner to establish policies to prohibit SSA and SSA employees from discriminating based upon race, color, national origin, sex, age, religion, or retaliation in any program or activity conducted by SSA.

Purpose(s):

The file system is designed to store all civil rights complaints filed by members of the public, information gathered during the complaint investigation, correspondence and telephone contact reports related to the complaint and investigation, the findings and results of all OGC headquarters and regional complaint investigations, reconsideration decisions, and for retrieval of information about civil rights complaints. Files are maintained to track civil rights complaints and to record the findings and results of the complaint investigations so that OGC may enforce findings, monitor compliance, revise internal administrative procedures, manage and docket complaints, and provide status reports.

Routine uses of records maintained in the system, including categories of users and the purposes of such use:

Disclosure may be made for routine uses as indicated below:

1. To the Department of Justice, the Equal Employment Opportunity Commission, or other Federal and State agencies when necessary for the administration or enforcement of civil rights laws or regulations.

2. To a congressional office in response to an inquiry from that office made at the request of the subject of the record.

3. To the Office of the President for the purpose of responding to an individual pursuant to an inquiry from that individual or from a third party on his or her behalf.

4. To the Department of Justice (DOJ), a court or other tribunal, or another party before such tribunal, when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before such tribunal, is relevant and necessary to the litigation, provided, however, that in each case, SSA determines that such disclosure is compatible with the purpose for which the records were collected.

5. To a Federal, State or local agency for law enforcement purposes concerning a violation of law pertaining to the records in this system.

6. To student volunteers, individuals working under a personal services contract, and other workers who technically do not have the status of Federal employees, when they are performing work for the Social Security Administration (SSA), as authorized by law, and they need access to personally identifiable information in SSA records in order to perform their assigned Agency functions.

7. To Federal, State and local law enforcement agencies and private security contractors as appropriate, if information is necessary:

(a) To enable them to protect the safety of Social Security Administration (SSA) employees and customers, the security of the SSA workplace, and the operation of SSA facilities; or

(b) To assist in investigations or prosecutions with respect to activities that disrupt the operation of SSA facilities.

8. To the General Services Administration and the National Archives Records Administration (NARA) under 44 U.S.C. 2904 and 2906, as amended by the NARA Act of 1984, information which is not restricted from disclosure by Federal law for the use of those agencies in conducting records management studies.

Policies and practices for storing, retrieving, accessing, retaining, and disposing of records in the system:

Storage:

Records are maintained in paper form (e.g., file folders) in file cabinets. Some records may be maintained on Agency computers.

Retrievability:

Records are retrieved by name of the complainant and/or docket number.

Safeguards:

Office buildings in which these records are maintained are locked after the close of the business day. These records are only accessible by General Counsel Staff and other Agency employees for the processing of complaints or litigation. Access http://www.socialsecurity.gov/foia/bluebook/app_g.htm for additional information relating to SSA data security measures.

Retention and disposal:

The records are maintained in SSA headquarters OGC or regional OGC offices. They are disposed of in accordance with the Federal Records Act and applicable retention schedules.

System manager(s) and address:

Social Security Administration, Office of the General Counsel, Office of General Law, Room 617 Altmeyer Building, 6401 Security Boulevard, Baltimore, Maryland 21235. (For additional addresses see Systems location).

Notification procedures:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulation (20 CFR 401.40(c)).

Contesting record procedures:

Same as Notification procedures. Requesters should also reasonably identify the records, specify the information they are contesting and the correction sought, and the reasons for the correction, with supporting justification showing how the record is incomplete, untimely, inaccurate or irrelevant. These procedures are in accordance with SSA Regulations (20 CFR 401.65(a)).

Record source categories:

Complaint and information filed with SSA by, or on behalf of, the individual complainant, witnesses, SSA employees, telephone contact reports, complainant's attorney, and the alleged discriminator.

System exempted from certain provisions of the Privacy Act:

This system is exempt from certain provisions of the Privacy Act under 5 U.S.C. 552a(k)(2). Pursuant to SSA regulations at 20 CFR 401.85(b)(2)(ii)(E), this system is exempt from the following subsections of the Privacy Act: (c)(3), (d)(1)-(4), (e)(4)(G), (H), and (I), and (f).

SYSTEM NUMBER: 60-0290

System Name:

Social Security Administration's Customer PIN/Password (PPW) Master File System, Social Security Administration, Deputy Commissioner for Disability and Income Security Programs.

Security classification:

None.

System Location:

Social Security Administration, Office of Systems, 6401 Security Boulevard, Baltimore, Maryland, 21235.

Categories of Individuals covered by the system:

All Social Security Administration (SSA) customers (applicants, beneficiaries and other customers) who elect to conduct transactions with SSA in an electronic business environment that requires the PPW infrastructure. This may include customers who elect to block PPW access to SSA electronic transactions by requesting SSA to disable their PPW capabilities.

Categories of records in the system:

The information maintained in this system of records is collected from customers who elect to conduct transactions with SSA in an electronic business environment that requires the PPW infrastructure. The information maintained includes identifying information such as the customer's name, Social Security number (SSN) (which functions as the individual's personal identification number (PIN) and mailing address. The system also maintains the customer's Password Request Code (PRC), the password itself and the authorization level and associated data (e.g., effective date of authorization).

We also maintain transactional data elements necessary to administer and maintain the PPW infrastructure. These include access profile information such as blocked PINs, failed access data, effective date of password and other data linked to the required authentication processes for Internet and automated telephone system applications. The information on this system may also include archived transaction data and historical data.

SSA will also use the data in the proposed system for management information purposes in order to effectively administer the PPW infrastructure used to conduct electronic business with SSA customers. Because we will maintain and retrieve data from the proposed system of records by the customer's SSN (which acts as the individual's PIN), the database will constitute a “system of records” under the Privacy Act.

Authority for maintenance of the system:

Section 205(a) of the Social Security Act (42 U.S.C. 405), 5 U.S.C. 552a(e)(10), and the Government Paperwork Elimination Act.

Purpose(s):

The Customer PPW Master File System maintains information collected for use in connection with SSA's implementation of a PIN/Password system that allows Social Security program applicants, beneficiaries, and other customers to conduct business with SSA in an electronic business environment. The system of records is designed to permit entry and retrieval of information associated with maintaining a PPW infrastructure that supports SSA's electronic initiatives requiring a PPW entry process.

Routine uses of records maintained in the system, including categories of users and the purposes of such uses:

Disclosure may be made for routine uses as indicated below:

1. To the Office of the President for the purpose of responding to an individual pursuant to an inquiry received from that individual or from a third party on his or her behalf.

2. To a congressional office in response to an inquiry from that office made at the request of the subject of a record.

3. To the Department of Justice (DOJ), a court or other tribunal or another party before such tribunal when:

(a) The Social Security Administration (SSA), or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before such tribunal, is relevant and necessary to the litigation, provided, however, that in each case, SSA determines that such disclosure is compatible with the purpose for which the records were collected.

4. To contractors and other Federal agencies, as necessary, for the purpose of assisting the Social Security Administration (SSA) in the efficient administration of its programs. We will disclose information under this routine use only in situations in which SSA may enter into a contractual or similar agreement with a third party to assist in accomplishing an agency functions relating to this system of records.

5. To the General Services Administration and the National Archives Records Administration (NARA) under 44 U.S.C. 2904 and 2906, as amended by the NARA Act of 1984, information which is not restricted from disclosure by Federal law for the use of those agencies in conducting records management studies.

6. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

Policies and practices for storing, retrieving, accessing, retaining and disposing of records in the system:

Storage:

Data are stored in electronic and paper form.

Retrievability:

Records in this system are indexed and retrieved by SSN (which acts as the individual's PIN).

Safeguards:

Security measures include computer firewall technology, data encryption and other systems security measures to ensure that the PPW system is protected from inappropriate access. The existing SSA firewall architecture ensures that customers are limited only to electronic transactions the Agency determines and will not be able to access SSA's other systems or data.

Security measures also include the use of access codes to enter the database and storage of the electronic records in secured areas which are accessible only to employees who require the information in performing their official duties. The paper records that result from the data base site are kept in locked cabinets or in otherwise secure areas. Contractor personnel having access to data in the system of records are required to adhere to SSA rules concerning safeguards, access, and use of, the data. SSA personnel having access to the data on this system are informed of the criminal penalties of the Privacy Act for unauthorized access to or disclosure of information maintained in this system of records. Access http://www.socialsecurity.gov/foia/bluebook/app_g.htm for additional information relating to SSA data security measures.

Retention and disposal:

PPW information maintained in this system is retained until notification of the death of the account holder plus seven years. Means of disposal is appropriate to storage medium (e.g., deletion of individual records from the data base when appropriate or shredding of paper records that are produced from the system).

System manager(s) and address(es):

Social Security Administration, Associate Commissioner, Office of Income Security Programs, 6401 Security Boulevard, Baltimore, Maryland, 21235.

Notification procedures:

An individual can determine if this system contains a record about him/her by writing to the system manager at the above address and providing his/her name, SSN or other information that may be in the system of records that will identify him/her. An individual requesting notification of records in person should provide the same information, as well as provide an identity document, preferably with a photograph, such as a driver's license or some other means of identification. If an individual does not have any identification document sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her permission in providing access by telephone to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c).)

Record access procedures:

Same as Notification procedures. Requesters should also reasonably specify the record contents being sought. These procedures are in accordance with SSA Regulations (20 CFR 401.40(c)).

Contesting record procedures:

Same as Notification procedures. Requesters should also reasonably identify the record, specify the information they are contesting and the corrective action sought, and the reasons for the correction, with supporting justification showing how the record is untimely, incomplete, inaccurate, or irrelevant. These procedures are in accordance with SSA Regulations (20 CFR 401.65(a))

Record source categories:

Data for the system are obtained primarily from the individuals to whom the record pertains.

Systems exempted from certain provisions of the Privacy Act:

None.

[FR Doc. 06-112 Filed 1-10-06; 8:45 am]

BILLING CODE 4191-02-P